DEPARTMENT OF STATE

[I.D. 121306C]

Office of Ocean Affairs; New Conservation and Management Measures and Resolutions for Antarctic Marine Living Resources Under the Auspices of CCAMLR

AGENCY: Office of Ocean Affairs, Department of State.

ACTION: Notice.

SUMMARY: At its Twenty-Fifth Meeting in Hobart, Tasmania, from October 23 to November 3, 2006, the Commission for the Conservation of Antarctic Marine Living Resources (CCAMLR), of which the United States is a member, adopted conservation and management measures and resolutions, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. This notice includes the full text of the conservation measures adopted at the Twenty-Fifth meeting of CCAMLR. For all of the conservation measures in force, see the CCAMLR Web site at www.ccamlr.org. This notice, therefore, together with the U.S. regulations referenced under the Supplementary Information, provides a comprehensive register of all current U.S. obligations under CCAMLR.

DATES: Persons wishing to comment on the measures or desiring more information should submit written comments by February 28, 2007.

FOR FURTHER INFORMATION CONTACT: Dr. Gustavo A. Bisbal, Office of Ocean Affairs (OES/OA), Room 2665, Department of State, Washington, DC 20520; tel: 202-647-6927; fax: 202-647-1106; e-mail: bisbalga@state.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Conventional area and contain the text of CCAMLR Conservation Measures that are not expected to change from year to year. The regulations in Subparts A and G include sections on: Purpose and scope; Definitions; Relationship to other treaties, conventions, laws and regulations; Procedure for according protection to CCAMLR Ecosystem Monitoring Program Sites; Scientific Research; Initiating a new fishery; Exploratory fisheries; Reporting and record keeping requirements; Vessel and gear identification; Gear disposal; Mesh Size; Harvesting permits; Import permits; Appointment of a designated representative; Prohibitions; Facilitation of enforcement and inspection; and Penalties.

Review of existing conservation measures and resolutions:

The Commission noted that the following conservation measures will lapse on 30 November 2006: 32-09 (2005), 33-02 (2005), 33-03 (2005), 41-01 (2005), 41-02 (2005), 41-04 (2005), 41-05 (2005), 41-06 (2005), 41-07 (2005), 41-08 (2005), 41-09 (2005), 41-10 (2005), 41-11 (2005), 42-02 (2005), 52-01 (2005), 52-02 (2005) and 61-01 (2005). Conservation Measure 42-01 (2005) will lapse on 14 November 2006. All of these conservation measures dealt with general fishery matters for the 2005/06 season.

The Commission agreed that Conservation Measure 25-01 (1996) and Resolution 24/XXIV be rescinded.

The following conservation measures and resolutions will remain in force in 2006/07:

Compliance: 10-01 (1998) and 10-03 (2005).

General fishery matters: 22-01 (1986), 22-02 (1984), 22-03 (1990), 23-01 (2005), 23-02 (1993), 23-03 (1991), 23-04 (2000), 23-05 (2000), 23-06 (2005), 24-01 (2005), 24-02 (2005), 25-02 (2005) and 25-03 (2003).

Fishery regulations: 31-01 (1986), 32-01 (2001), 32-02 (1998), 32-03 (1998), 32-04 (1986), 32-05 (1986), 32-06 (1985), 32-07 (1999), 32-08 (1997), 32-10 (2002), 32-11 (2002), 32-12 (1998), 32-13 (2003), 32-14 (2003), 32-15 (2003), 32-16 (2003), 32-17 (2003) and 33-01 (1995).

Protected areas: 91-01 (2004), 91-02 (2004) and 91-03 (2004).

Resolutions: 7/IX, 10/XII, 14/XIX, 15/XXII, 16/XIX, 17/XX, 18/XXI, 19/XXI, 20/XXII, 21/XXIII and 23/XXIII.

The Commission revised the following conservation measures and resolution:

Compliance: 10-02 (2004), 10-04 (2005), 10-05 (2005), 10-06 (2005) and 10-07 (2005). The Commission also revised the Text of the CCAMLR System of Inspection.

General fishery matters: 21-01 (2002) and 21-02 (2005).

Fishery regulations: 41-03 (2005), 51-01 (2002), 51-02 (2002) and 51-03 (2002).

Resolution: 22/XXV

In addition, the Commission adopted 24 new measures and one new resolution.

For further information, see the CCAMLR web site at www.ccamlr.org under Publications for the Schedule of Conservation Measures in Force (2006/2007), or contact the Commission at the CCAMLR Secretariat, P.O. Box 213, North Hobart, Tasmania 7002, Australia. Tel: (61) 3-6210-1111).

Conservation Measures and Resolutions Adopted at CCAMLR-XXV

Conservation Measure 10-01 (1998) ¹

Marking of fishing vessels and fishing gear

(Species: all; Area: all; Season: all; Gear: all)

The Commission hereby adopts the following conservation measure in accordance with Article IX of the Convention:

1. All Contracting Parties shall ensure that their fishing vessels licensed ² in accordance with Conservation Measure 10-02 to operate in the Convention Area are marked in such a way that they can be readily identified in accordance with internationally recognised standards, such as the FAO Standard Specifications and Guidelines for the Marking and Identification of Fishing Vessels.

2. Marker buoys and similar objects floating on the surface and intended to indicate the location of fixed or set fishing gear shall be clearly marked at all times with the letter(s) and/or numbers of the vessels to which they belong.

¹ Except for waters adjacent to Kerguelen and Crozet Islands

² Includes permitted

Conservation Measure 10-02 (2006) ¹ ²

Licensing and inspection obligations of Contracting Parties with regard to their flag vessels operating in the Convention Area

(Species: all; Area: all; Season: all; Gear: all)

1. Each Contracting Party shall prohibit fishing by its flag vessels in the Convention Area except pursuant to a licence ³ that the Contracting Party has issued setting forth the specific areas, species and time periods for which such fishing is authorised and all other specific conditions to which the fishing is subject to give effect to CCAMLR conservation measures and requirements under the Convention.

2. A Contracting Party may only issue such a licence to fish in the Convention Area to vessels flying its flag, if it is satisfied of its ability to exercise its responsibilities under the Convention and its conservation measures, by requiring from each vessel, inter alia, the following:

(i) timely notification by the vessel to its Flag State of exit from and entry into any port;

(ii) notification by the vessel to its Flag State of entry into the Convention Area and movement between areas, subareas/divisions;

(iii) reporting by the vessel of catch data in accordance with CCAMLR requirements;

(iv) reporting, where possible as set out in Annex 10-02/A by the vessel of sightings of fishing vessels ⁴ in the Convention Area;

(v) operation of a VMS system on board the vessel in accordance with Conservation Measure.

3. Each Contracting Party shall provide to the Secretariat within seven days of the issuance of each licence the following information about licences issued:

• name of the vessel

• time periods authorised for fishing (start and end dates)

• area(s), subarea(s) or division(s) of fishing

• species targeted

• gear used.

4. From 1 August 2005, each Contracting Party shall provide to the Secretariat within seven days of the issuance of each licence the following information about licences issued:

(i) name of fishing vessel (any previous names if known) ⁵, registration number ⁶, IMO number (if issued), external markings and port of registry;

(ii) the nature of the authorisation to fish granted by the Flag State, specifying time periods authorised for fishing (start and end dates), area(s) of fishing, species targeted and gear used;

(iii) previous flag (if any) ⁵;

(iv) international Radio Call Sign;

(v) name and address of vessel's owner(s), and any beneficial owner(s) if known;

(vi) name and address of licence owner (if different from vessel owner(s));

(vii) type of vessel;

(viii) where and when built;

(ix) length (m);

(x) colour photographs of the vessel which shall consist of:

• one photograph not smaller than 12 × 7 cm showing the starboard side of the vessel displaying its full overall length and complete structural features;

• one photograph not smaller than 12 × 7 cm showing the port side of the vessel displaying its full overall length and complete structural features;

• one photograph not smaller than 12 × 7 cm showing the stern taken directly from astern;

(xi) where applicable, in accordance with Conservation Measure 10-04, details of the implementation of the tamper-proof requirements of the satellite monitoring device installed on board.

5. From 1 August 2005, each Contracting Party shall, to the extent practicable, also provide to the Secretariat at the same time as submitting information in accordance with paragraph 4, the following additional information in respect to each fishing vessel licensed:

(i) name and address of operator, if different from vessel owners;

(ii) names and nationality of master and, where relevant, of fishing master;

(iii) type of fishing method or methods;

(iv) beam (m);

(v) gross registered tonnage;

(vi) vessel communication types and numbers (INMARSAT A, B and C numbers);

(vii) normal crew complement;

(viii) power of main engine or engines (kW);

(ix) carrying capacity (tonnes), number of fish holds and their capacity (m³);

(x) any other information in respect of each licensed vessel they consider appropriate (e.g. ice classification) for the purposes of the implementation of the conservation measures adopted by the Commission.

6. Contracting Parties shall communicate without delay to the Secretariat any change to any of the information submitted in accordance with paragraphs 3, 4 and 5.

7. The Executive Secretary shall place a list of licensed vessels on the CCAMLR Web site.

8. The licence or an authorised copy of the licence must be carried by the fishing vessel and must be available for inspection at any time by a designated CCAMLR inspector in the Convention Area.

9. Each Contracting Party shall verify, through inspections of all of its fishing vessels at the Party's departure and arrival ports, and where appropriate, in its Exclusive Economic Zone, their compliance with the conditions of the licence as described in paragraph 1 and with the CCAMLR conservation measures. In the event that there is evidence that the vessel has not fished in accordance with the conditions of its licence, the Contracting Party shall investigate the infringement and, if necessary, apply appropriate sanctions in accordance with its national legislation.

10. Each Contracting Party shall include in its annual report pursuant to paragraph 12 of the CCAMLR System of Inspection, steps it has taken to implement and apply this conservation measure; and may include additional measures it may have taken in relation to its flag vessels to promote the effectiveness of CCAMLR conservation measures.

¹ Except for waters adjacent to the Kerguelen and Crozet Islands.

² Except for waters adjacent to the Prince Edward Islands.

³ Includes permit and authorisation.

⁴ Including support vessels such as reefer vessels.

⁵ In respect of any vessel reflagged within the previous 12 months, any information on the details of the process of (reasons for) previous deregistration of the vessel from other registries, if known.

⁶ National registry number.

Annex 10-02/A

Reporting of Vessel Sightings

1. In the event that the master of a licensed fishing vessel sights a fishing vessel ⁴ within the Convention Area, the master shall document as much information as possible on each such sighting, including:

(a) name and description of the vessel

(b) vessel call sign

(c) registration number and the Lloyds/IMO number of the vessel

(d) Flag State of the vessel

(e) photographs of the vessel to support the report

(f) any other relevant information regarding the observed activities of the sighted vessel.

2. The master shall forward a report containing the information referred to in paragraph 1 to their Flag State as soon as possible. The Flag State shall submit to the Secretariat any such reports that meet the criteria of paragraph 3 of Conservation Measure 10-06 or paragraph 8 of Conservation Measure 10-07.

3. The Secretariat shall use such reports for compiling estimates of IUU activities.

Conservation Measure 10-03 (2005) 1 2 3

Port inspections of vessels carrying toothfish

(Species: toothfish; Area: all; Season: all; Gear: all)

1. Contracting Parties shall undertake inspections of all fishing vessels carrying Dissostichus spp. which enter their ports. The inspection shall be for the purpose of determining that if the vessel carried out harvesting activities in the Convention Area, these activities were carried out in accordance with CCAMLR conservation measures, and that if it intends to land or tranship Dissostichus spp. the catch to be unloaded or transhipped is accompanied by a Dissostichus catch document required by Conservation Measure 10-05 and that the catch agrees with the information recorded on the document.

2. To facilitate these inspections, Contracting Parties shall require vessels to provide advance notice of their entry into port and to convey a written declaration that they have not engaged in or supported illegal, unreported and unregulated (IUU) fishing in the Convention Area. The inspection shall be conducted within 48 hours of port entry and shall be carried out in an expeditious fashion. It shall impose no undue burdens on the vessel or its crew, and shall be guided by the relevant provisions of the CCAMLR System of Inspection. Vessels which either declare that they have been involved in IUU fishing or fail to make a declaration shall be denied port access, other than for emergency purposes.

3. In the event that there is evidence that the vessel has fished in contravention of CCAMLR conservation measures, the catch shall not be landed or transhipped. The Contracting Party will inform the Flag State of the vessel of its inspection findings and will cooperate with the Flag State in taking such appropriate action as is required to investigate the alleged infringement and, if necessary, apply appropriate sanctions in accordance with national legislation.

4. Contracting Parties shall promptly provide the Secretariat with a report on the outcome of each inspection conducted under this conservation measure. In respect of any vessels denied port access or permission to land or tranship Dissostichus spp., the Secretariat shall promptly convey such reports to all Contracting Parties and to all non-Contracting Parties cooperating with the Commission by participating in the Catch Documentation Scheme for Dissostichus spp. (CDS).

¹ Except for waters adjacent to the Kerguelen and Crozet Islands.

² Except for waters adjacent to the Prince Edward Islands.

³ Excluding by-catches of Dissostichus spp. by trawlers fishing on the high seas outside the Convention Area. A by-catch shall be defined as no more than 5% of total catch of all species and no more than 50 tonnes for an entire fishing trip by a vessel.

Conservation Measure 10-04 (2006)

Automated satellite-linked Vessel Monitoring Systems (VMS)

(Species: all except krill; Area: all; Season: all; Gear: all)

The Commission,

Recognizing that in order to promote the objectives of the Convention and further improve compliance with the relevant conservation measures,

Convinced that illegal, unreported and unregulated (IUU) fishing compromises the objective of the Convention,

Recalling that Contracting Parties are required to cooperate in taking appropriate action to deter any fishing activities which are not consistent with the objective of the Convention,

Mindful of the rights and obligations of Flag States and Port States to promote the effectiveness of conservation measures,

Wanting to reinforce the conservation measures already adopted by the Commission,

Recognizing the obligations and responsibilities of Contracting Parties under the Catch Documentation Scheme for Dissostichus spp. (CDS),

Recalling provisions as made under Article XXIV of the Convention,

Committed to take steps, consistent with international law, to identify the origins of Dissostichus spp. entering the markets of Contracting Parties and to determine whether Dissostichus spp. harvested in the Convention Area that is imported into their territories was caught in a manner consistent with CCAMLR conservation measures,

hereby adopts the following conservation measure in accordance with Article IX of the Convention:

1. Each Contracting Party shall ensure that its fishing vessels, licensed ¹ in accordance with Conservation Measure 10-02, are equipped with a satellite-linked vessel monitoring device allowing for the continuous reporting of their position in the Convention Area for the duration of the licence issued by the Flag State. The vessel monitoring device shall automatically communicate at least every four hours to a land-based fisheries monitoring centre (FMC) of the Flag State of the vessel the following data:

(i) fishing vessel identification;

(ii) the current geographical position (latitude and longitude) of the vessel, with a position error which shall be less than 500 m, with a confidence interval of 99%; and

(iii) the date and time (expressed in UTC) of the fixing of the said position of the vessel.

2. The implementation of vessel monitoring device(s) on vessels while participating only in a krill fishery is not currently required.

3. Each Contracting Party as a Flag State shall ensure that the vessel monitoring device(s) on board its vessels are tamper proof, i.e. are of a type and configuration that prevent the input or output of false positions, and that are not capable of being over-ridden, whether manually, electronically or otherwise. To this end, the on-board satellite monitoring device must:

(i) be located within a sealed unit; and

(ii) be protected by official seals (or mechanisms) of a type that indicate whether the unit has been accessed or tampered with.

4. In the event that a Contracting Party has information to suspect that an on-board vessel monitoring device does not meet the requirements of paragraph 3, or has been tampered with, it shall immediately notify the Secretariat and the vessel's Flag State.

5. Each Contracting Party shall ensure that its FMC receives Vessel Monitoring System (VMS) reports and messages, and that the FMC is equipped with computer hardware and software enabling automatic data processing and electronic data transmission. Each Contracting Party shall provide for backup and recovery procedures in case of system failures.

6. Masters and owners/licensees of fishing vessels subject to VMS shall ensure that the vessel monitoring device on board their vessels within the Convention Area is at all times fully operational as per paragraph 1, and that the data are transmitted to the Flag State. Masters and owners/licensees shall in particular ensure that:

(i) VMS reports and messages are not altered in any way;

(ii) the antennae connected to the satellite monitoring device are not obstructed in any way;

(iii) the power supply of the satellite monitoring device is not interrupted in any way; and

(iv) the vessel monitoring device is not removed from the vessel.

7. A vessel monitoring device shall be active within the Convention Area. It may, however, be switched off when the fishing vessel is in port for a period of more than one week, subject to prior notification to the Flag State, and if the Flag State so desires also to the Secretariat, and providing that the first position report generated following the repowering (activating) shows that the fishing vessel has not changed position compared to the last report.

8. In the event of a technical failure or non-functioning of the vessel monitoring device on board the fishing vessel, the master or the owner of the vessel, or their representative, shall communicate to the Flag State every six hours, and if the Flag State so desires also to the Secretariat, starting at the time that the failure or the non-functioning was detected or notified in accordance with paragraph 12, the up-to-date geographical position of the vessel by electronic means (e-mail, facsimile, telex, telephone message, radio).

9. Vessels with a defective vessel monitoring device shall take immediate steps to have the device repaired or replaced as soon as possible and, in any event, within two months. If the vessel during that time returns to port, it shall not be allowed by the Flag State to commence a further fishing trip in the Convention Area without having the defective device repaired or replaced.

10. When the Flag State has not received for 12 hours data transmissions referred to in paragraphs 1 and 8, or has reasons to doubt the correctness of the data transmissions under paragraphs 1 and 8, it shall as soon as possible notify the master or the owner or the representative thereof. If this situation occurs more than two times within a period of one year in respect to a particular vessel, the Flag State of the vessel shall investigate the matter, including having an authorised official check the device in question, in order to establish whether the equipment has been tampered with. The outcome of this investigation shall be forwarded to the CCAMLR Secretariat within 30 days of its completion.

11.2 3 Each Contracting Party shall forward VMS reports and messages received, pursuant to paragraph 1, to the CCAMLR Secretariat as soon as possible:

(i) but not later than four hours after receipt for those exploratory longline fisheries subject to conservation measures adopted at CCAMLR-XXIII; or

(ii) but not later than 10 working days following departure from the Convention Area for all other fisheries.

12. With regard to paragraphs 8 and 11(i), each Contracting Party shall, as soon as possible but no later than two working days following detection or notification of technical failure or non-functioning of the vessel monitoring device on board the fishing vessel, forward the geographical positions of the vessel to the Secretariat, or shall ensure that these positions are forwarded to the Secretariat by the master or the owner of the vessel, or their representative.

13. Each Flag State shall ensure that VMS reports and messages transmitted by the Contracting Party or its fishing vessels to the CCAMLR Secretariat, are in a computer-readable form in the data exchange format set out in Annex 10-04/A.

14. Each Flag State shall in addition separately notify by e-mail or other means the CCAMLR Secretariat within 24 hours of each entry to, exit from and movement between subareas and divisions of the Convention Area by each of its fishing vessels in the format outlined in Annex 10-04/A. When a vessel intends to enter a closed area, or an area for which it is not licensed to fish, the Flag State shall provide prior notification to the Secretariat of the vessel's intentions. The Flag State may permit or direct that such notifications be provided by the vessel directly to the Secretariat.

15. Without prejudice to its responsibilities as a Flag State, if the Contracting Party so desires, it shall ensure that each of its vessels communicates the reports referred to in paragraphs 11 and 14 in parallel to the CCAMLR Secretariat.

16. Each Flag State shall notify the name, address, e-mail, telephone and facsimile numbers, as well as the address of electronic communication of the relevant authorities of their FMC to the CCAMLR Secretariat before 1 January 2005 and thereafter any changes without delay.

17. In the event that the CCAMLR Secretariat has not, for 48 consecutive hours, received the data transmissions referred to in paragraph 11(i), it shall promptly notify the Flag State of the vessel and require an explanation. The CCAMLR Secretariat shall promptly inform the Commission if the data transmissions at issue, or the Flag State explanation, are not received from the Contracting Party within a further five working days.

18. If VMS data received by the Secretariat indicate the presence of a vessel in an area or subarea for which no license details have been provided by the Flag State to the Secretariat as required by Conservation Measure 10-02, or in any area or subarea for which the Flag State or fishing vessel has not provided prior notification as required by paragraph 14, then the Secretariat shall notify the Flag State and require an explanation. The explanation shall be forwarded to the Secretariat for evaluation by the Commission at its next annual meeting.

19. The CCAMLR Secretariat and all Parties receiving data shall treat all VMS reports and messages received under paragraph 11 or paragraphs 20, 21, 22 or 23 in a confidential manner in accordance with the confidentiality rules established by the Commission as contained in Annex 10-04/B. Data from individual vessels shall be used for compliance purposes only, namely for:

(i) active surveillance presence, and/or inspections by a Contracting Party in a specified CCAMLR subarea or division; or

(ii) the purposes of verifying the content of a Dissostichus Catch Document (DCD).

20. The CCAMLR Secretariat shall place a list of vessels submitting VMS reports and messages pursuant to this conservation measure on a password-protected section of the CCAMLR Web site. This list shall be divided into subareas and divisions, without indicating the exact positions of vessels, and be updated when a vessel changes subarea or division. The list shall be posted daily by the Secretariat, establishing an electronic archive.

21. VMS reports and messages (including vessel locations), for the purposes of paragraph 19(i) above, may be provided by the Secretariat to a Contracting Party other than the Flag State without the permission of the Flag State only during active surveillance, and/or inspection in accordance with the CCAMLR System of Inspection and subject to the time frames set out in paragraph 11. In this case, the Secretariat shall provide VMS reports and messages, including vessel locations over the previous 10 days, for vessels actually detected during surveillance, and/or inspection by a Contracting Party, and VMS reports and messages (including vessel locations) for all vessels within 100 n miles of that same location. The Flag State(s) concerned shall be provided by the Party conducting the active surveillance, and/or inspection, with a report including name of the vessel or aircraft on active surveillance, and/or inspection under the CCAMLR System of Inspection, and the full name(s) of the CCAMLR inspector(s) and their ID number(s). The Parties conducting the active surveillance, and/or inspection will make every reasonable effort to make this information available to the Flag State(s) as soon as possible.

22. A Party may contact the Secretariat prior to conducting active surveillance, and/or inspection in accordance with the CCAMLR System of Inspection, in a given area and request VMS reports and messages (including vessel locations), for vessels in that area. The Secretariat shall provide this information only with the permission of the Flag State for each of the vessels and according to the time frames set out in paragraph 11. On receipt of Flag State permission the Secretariat shall provide regular updates of positions to the Contracting Party for the duration of the active surveillance, and/or inspection in accordance with the CCAMLR System of Inspection.

23. A Contracting Party may request actual VMS reports and messages (including vessel locations) from the Secretariat for a vessel when verifying the claims on a DCD. In this case the Secretariat shall provide that data only with Flag State permission.

24. The CCAMLR Secretariat shall annually, before 30 September, report on the implementation of and compliance with this conservation measure to the Commission.

¹ Includes vessels licensed under French domestic law and vessels licensed under South African domestic law.

² This paragraph does not apply to vessels licensed under French domestic law in the EEZs surrounding Kerguelen and Crozet Islands.

³ This paragraph does not apply to vessels licensed under South African domestic law in the EEZ surrounding Prince Edward Islands.

ANNEX 10-04/A

VMS Data Format
['Position', ‘Exit’ and ‘Entry' Reports/Messages]
Data element | Field code | Mandatory/optional | Remarks
Start record | SR | M | System detail; indicates start of record.
Address | AD | M | Message detail; destination; ‘XCA' for CCAMLR.
Sequence number | SQ | M¹ | Message detail; message serial number in current year.
Type of message | TM² | M | Message detail; message type, ‘POS' as position report/ message to be communicated by VMS or other means by vessels with a defective satellite tracking device.
Radio call sign | RC | M | Vessel registration detail; international radio call sign of the vessel.
Trip number | TN | O | Activity detail; fishing trip serial number in current year.
Vessel name | NA | M | Vessel registration detail; name of the vessel.
Contracting Party internal reference number | IR | O | Vessel registration detail. Unique Contracting Party vessel number as ISO-3 Flag State code followed by number.
External registration number | XR | O | Vessel registration detail; the side number of the vessel.
Latitude | LA | M³ | Activity detail; position.
Longitude | LO | M³ | Activity detail; position.
Latitude (decimal) | LT | M⁴ | Activity detail; position.
Longitude (decimal) | LG | M⁴ | Activity detail; position.
Date | DA | M | Message detail; position date.
Time | TI | M | Message detail; position time in UTC.
End of record | ER | M | System detail; indicates end of the record.
¹ Optional in case of a VMS message.
² Type of message shall be ‘ENT' for the first VMS message from the Convention Area as detected by the FMC of the Contracting Party, or as directly submitted by the vessel.Type of message shall be ‘EXI' for the first VMS message from outside the Convention Area as detected by the FMC of the Contracting Party or as directly submitted by the vessel, and the values for latitude and longitude are, in this type of message, optional. Type of message shall be ‘MAN' for reports communicated by vessels with a defective satellite tracking device.
³ Mandatory for manual messages.
⁴ Mandatory for VMS messages.

Format for Indirect Flag State Reporting Via E-mail
Code | Code definition | Field contents | Example | Field contents explanation
SR | Start record | No data |  | No data.
AD | Address | XCA | XCA | XCA = CCAMLR.
SQ | Sequence number | XXX | 123 | Message sequence number.
TM | Type of message | POS | POS | POS = position report, ENT = entry report, EXI = exit report.
RC | Radio call sign | XXXXXX | AB1234 | Maximum of 8 characters.
NA | Vessel name | XXXXXXXX | Vessel Name | Maximum of 30 characters.
LT | Latitude | DD.ddd | −55.000 | +/−numeral in GIS format. Must specify—for South and West, + for North and East.
LG | Longitude | DDD.ddd | −020.000 | +/−numeral in GIS format.
DA | Record date | YYYYMMDD | 20050114 | 8 characters only.
TI | Record time | HHMM | 0120 | 4 characters only, using 24-hour time format. Do not use separators or include seconds.
ER | End record | No data |  | No data.
Sample string:
//SR//AD/XCA//SQ/001//TM/POS//RC/ABCD//NA/Vessel Name//LT/-55.000//LG/-020.000//DA/20050114//TI/0120//ER//.
Notes:
• Three fields in Annex 10-04/A are optional. These are:
TN (trip number)
IR (Contracting Party internal reference number): Must start with the 3-character ISO country code, e.g.
Argentina = ARGxxx
XR (external registration number).
• Do not include any other fields.
• Do not include separators (e.g. : . or /) in the date and time fields.
• Do not include seconds in the time fields.

Annex 10-04/B

Provisions on Secure and Confidential Treatment of Electronic Reports and Messages Transmitted Pursuant to Conservation Measure 10-04

1. Field of Application.

1.1 The provisions set out below shall apply to all VMS reports and messages transmitted and received pursuant to Conservation Measure 10-04.

2. General Provisions

2.1 The CCAMLR Secretariat and the appropriate authorities of Contracting Parties transmitting and receiving VMS reports and messages shall take all necessary measures to comply with the security and confidentiality provisions set out in sections 3 and 4.

2.2 The CCAMLR Secretariat shall inform all Contracting Parties of the measures taken in the Secretariat to comply with these security and confidentiality provisions.

2.3 The CCAMLR Secretariat shall take all the necessary steps to ensure that the requirements pertaining to the deletion of VMS reports and messages handled by the Secretariat are complied with.

2.4 Each Contracting Party shall guarantee the CCAMLR Secretariat the right to obtain as appropriate, the rectification of reports and messages or the erasure of VMS reports and messages, the processing of which does not comply with the provisions of Conservation Measure 10-04.

3. Provisions on Confidentiality

3.1 All requests for data must be made to the CCAMLR Secretariat in writing. Requests for data must be made by the main Commission Contact or an alternative contact nominated by the main Commission Contact of the Contracting Party concerned. The Secretariat shall only provide data to a secure e-mail address specified at the time of making a request for data.

3.2 In cases where the CCAMLR Secretariat is required to seek the permission of the Flag State before releasing VMS reports and messages to another Party, the Flag State shall respond to the Secretariat as soon as possible but in any case within two working days.

3.3 Where the Flag State chooses not to give permission for the release of VMS reports and messages, the Flag State shall, in each instance, provide a written report within 10 working days to the Commission outlining the reasons why it chooses not to permit data to be released. The CCAMLR Secretariat shall place any report so provided, or notice that no report was received, on a password-protected part of the CCAMLR Web site.

3.4 VMS reports and messages shall only be released and used for the purposes stipulated in paragraph 18 of Conservation Measure 10-04.

3.5 VMS reports and messages released pursuant to paragraphs 20, 21 and 22 of Conservation Measure 10-04 shall provide details of: name of vessel, date and time of position report, and latitude and longitude position at time of report.

3.6 Regarding paragraph 21 each inspecting Contracting Party shall make available VMS reports and messages and positions derived therefrom only to their inspectors designated under the CCAMLR System of Inspection. VMS reports and messages shall be transmitted to their inspectors no more than 48 hours prior to entry into the CCAMLR, subarea or division where surveillance is to be conducted by the Contracting Party. Contracting Parties must ensure that VMS reports and messages are kept confidential by such inspectors.

3.7 The CCAMLR Secretariat shall delete all the original VMS reports and messages referred to in section 1 from the database at the CCAMLR Secretariat by the end of the first calendar month following the third year in which the VMS reports and messages have originated. Thereafter the information related to the movement of the fishing vessels shall only be retained by the CCAMLR Secretariat after measures have been taken to ensure that the identity of the individual vessels can no longer be established.

3.8 Contracting Parties may retain and store VMS reports and messages provided by the Secretariat for the purposes of active surveillance presence, and/or inspections, until 24 hours after the vessels to which the reports and messages pertain have departed from the CCAMLR subarea or division. Departure is deemed to have been effected six hours after the transmission of the intention to exit from the CCAMLR subarea or division.

4. Provisions on Security.

4.1 Overview.

4.1.1 Contracting Parties and the CCAMLR Secretariat shall ensure the secure treatment of VMS reports and messages in their respective electronic data processing facilities, in particular where the processing involves transmission over a network. Contracting Parties and the CCAMLR Secretariat must implement appropriate technical and organisational measures to protect reports and messages against accidental or unlawful destruction or accidental loss, alteration, unauthorised disclosure or access, and against all inappropriate forms of processing.

4.1.2 The following security issues must be addressed from the outset:

• System access control: The system has to withstand a break-in attempt from unauthorised persons.

• Authenticity and data access control:

The system has to be able to limit the access of authorised parties to a predefined set of data only.

• Communication security: It shall be guaranteed that VMS reports and messages are securely communicated.

• Data security:It has to be guaranteed that all VMS reports and messages that enter the system are securely stored for the required time and that they will not be tampered with.

• Security procedures: Security procedures shall be designed addressing access to the system (both hardware and software), system administration and maintenance, backup and general usage of the system.

4.1.3 Having regard to the state of the art and the cost of their implementation, such measures shall ensure a level of security appropriate to the risks represented by the processing of the reports and the messages.

4.1.4 Security measures are described in more detail in the following paragraphs.

4.2 System Access Control

4.2.1 The following features are the mandatory requirements for the VMS installation located at the CCAMLR Data Centre:

• A stringent password and authentication system: Each user of the system is assigned a unique user identification and associated password. Each time the user logs on to the system he/she has to provide the correct password. Even when successfully logged on the user only has access to those and only those functions and data that he/she is configured to have access to. Only a privileged user has access to all the data.

• Physical access to the computer system is controlled.

• Auditing: selective recording of events for analysis and detection of security breaches.

• Time-based access control: access to the system can be specified in terms of times-of-day and days-of-week that each user is allowed to log on to the system.

• Terminal access control: specifying for each workstation which users are allowed to access.

4.3 Authenticity and Data Access Security

4.3.1 Communication between Contracting Parties and the CCAMLR Secretariat for the purpose of Conservation Measure 10-04 shall use secure Internet protocols SSL, DES or verified certificates obtained from the CCAMLR Secretariat.

4.4 Data Security

4.4.1 Access limitation to the data shall be secured via a flexible user identification and password mechanism. Each user shall be given access only to the data necessary for their task.

4.5 Security Procedures

4.5.1 Each Contracting Party and the CCAMLR Secretariat shall nominate a security system administrator. The security system administrator shall review the log files generated by the software for which they are responsible, properly maintain the system security for which they are responsible, restrict access to the system for which they are responsible as deemed needed and in the case of Contracting Parties, also act as a liaison with the Secretariat in order to solve security matters.

Conservation Measure 10-05 (2006)

Catch Documentation Scheme for Dissostichus spp.

(Species: toothfish; Area: all; Season: all; Gear: all)

The Commission,

Concerned that illegal, unreported and unregulated (IUU) fishing for Dissostichus spp. in the Convention Area threatens serious depletion of populations of Dissostichus spp.,

Aware that IUU fishing involves significant by-catch of some Antarctic species, including endangered albatross,

Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognising that the implementation of a Catch Documentation Scheme for Dissostichus spp. (CDS) will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Inviting non-Contracting Parties whose vessels fish for Dissostichus spp. to participate in the CDS,

hereby adopts the following conservation measure in accordance with Article IX of the Convention:

1. The following definitions are intended only for the purposes of the completion of CDS documents and shall be applied as stated regardless of whether such actions as landings, transhipments, imports, exports or re-exports constitute the same under any CDS participant's customs law or other domestic legislation:

(i) Port State: The State that has control over a particular port area or free trade zone for the purposes of landing, transhipment, importing, exporting and re-exporting and whose authority serves as the authority for landing or transhipment certification.

(ii) Landing: The initial transfer of catch in its harvested or processed form from a vessel to dockside or to another vessel in a port or free trade zone where the catch is certified by an authority of the Port State as landed.

(iii) Export: Any movement of a catch in its harvested or processed form from territory under the control of the State or free trade zone of landing, or, where that State or free trade zone forms part of a customs union, any other member State of that customs union.

(iv) Import: The physical entering or bringing of a catch into any part of the geographical territory under the control of a State, except where the catch is landed or transhipped within the definitions of ‘landing' or ‘transhipment' in this conservation measure.

(v) Re-export: Any movement of a catch in its harvested or processed form from territory under the control of a State, free trade zone, or member State of a customs union of import unless that State, free trade zone, or any member State of that customs union of import is the first place of import, in which case the movement is an export within the definition of ‘export' in this conservation measure.

(vi) Transhipment: The transfer of a catch in its harvested or processed form from a vessel to another vessel or means of transport, and, where such transfer takes place within the territory under the control of a Port State, for the purpose of effecting its removal from that State. For the avoidance of doubt, temporarily placing a catch on land or an artificial structure to facilitate such transfer shall not prevent the transfer from being a transhipment where the catch is not ‘landed’ within the definition of ‘landing’ in this conservation measure.

2. Each Contracting Party shall take steps to identify the origin of Dissostichus spp. imported into or exported from its territories and to determine whether Dissostichus spp. harvested in the Convention Area that is imported into or exported from its territories was caught in a manner consistent with CCAMLR conservation measures.

3. Each Contracting Party shall require that each master or authorised representative of its flag vessels authorised to engage in harvesting of Dissostichus eleginoides and/or Dissostichus mawsoni complete a Dissostichus catch document (DCD) for the catch landed or transhipped on each occasion that it lands or tranships Dissostichus spp.

4. Each Contracting Party shall require that each landing of Dissostichus spp. at its ports and each transhipment of Dissostichus spp. to its vessels be accompanied by a completed DCD. The landing of Dissostichus spp. without a catch document is prohibited.

5. Each Contracting Party shall, in accordance with their laws and regulations, require that their flag vessels which intend to harvest Dissostichus spp., including on the high seas outside the Convention Area, are provided with specific authorisation to do so. Each Contracting Party shall provide DCD forms to each of its flag vessels authorised to harvest Dissostichus spp. and only to those vessels.

6. A non-Contracting Party seeking to cooperate with CCAMLR by participating in this scheme may issue DCD forms, in accordance with the procedures specified in paragraphs 8 and 9, to any of its flag vessels that intend to harvest Dissostichus spp.

7. The procedure regarding cooperation with CCAMLR in the implementation of the CDS by non-Contracting Parties involved in the trade of Dissostichus spp. is set out in Annex 10-05/C.

8. The DCD shall include the following information:

(i) the name, address, telephone and fax numbers of the issuing authority;

(ii) the name, home port, national registry number and call sign of the vessel and, if issued, its IMO/Lloyd's registration number;

(iii) the reference number of the licence or permit, whichever is applicable, that is issued to the vessel;

(iv) the weight of each Dissostichus species landed or transhipped by product type, and

(a) by CCAMLR statistical subarea or division if caught in the Convention Area; and/or

(b) by FAO statistical area, subarea or division if caught outside the Convention Area;

(v) the dates within which the catch was taken;

(vi) the date and the port at which the catch was landed or the date and the vessel, its flag and national registry number, to which the catch was transhipped;

(vii) the name, address, telephone and fax numbers of the recipient(s) of the catch and the amount of each species and product type received.

9. Procedures for completing DCDs in respect of vessels are set forth in paragraphs A1 to A10 of Annex 10-05/A to this measure. The standard catch document is attached to the annex.

10. Each Contracting Party shall require that each shipment of Dissostichus spp. imported into or exported from its territory be accompanied by the export-validated DCD(s) and, where appropriate, validated re-export document(s) that account for all the Dissostichus spp. contained in the shipment. The import, export or re-export of Dissostichus spp. without a catch document is prohibited.

11. An export-validated DCD issued in respect of a vessel is one that:

(i) includes all relevant information and signatures provided in accordance with paragraphs A1 to A11 of Annex 10-05/A to this measure;

(ii) includes a signed and stamped certification by a responsible official of the exporting State of the accuracy of the information contained in the document.

12. Each Contracting Party shall ensure that its customs government authorities or other appropriate government officials request and examine the documentation of each shipment of Dissostichus spp. imported into or exported from its territory to verify that it includes the export-validated DCD(s) and, where appropriate, validated re-export document(s) that account for all the Dissostichus spp. contained in the shipment. These officials may also examine the content of any shipment to verify the information contained in the catch document or documents.

13. If, as a result of an examination referred to in paragraph 12 above, a question arises regarding the information contained in a DCD or a re-export document, the exporting State whose government authority validated the document(s) and, as appropriate, the Flag State whose vessel completed the document are called on to cooperate with the importing State with a view to resolving such question.

14. Each Contracting Party shall promptly provide by the most rapid electronic means, copies to the CCAMLR Secretariat of all export-validated DCDs and, where relevant, validated re-export documents that it issued from and received into its territory and shall submit annually to the Secretariat a summary list of documents issued from or received into its territory in respect of transhipments, landings, exports, re-exports and imports. The list shall include: document identification numbers; date of landing, export, re-export, import; weights landed, exported, re-exported or imported.

15. Each Contracting Party, and any non-Contracting Party that issues DCDs in respect of its flag vessels in accordance with paragraph 6, shall inform the CCAMLR Secretariat of the government authority or authorities (including names, addresses, phone and fax numbers and e-mail addresses) responsible for issuing and validating DCDs.

16. Notwithstanding the above, any Contracting Party, or any non-Contracting Party participating in the CDS, may require additional verification of catch documents by Flag States by using, inter alia, VMS, in respect of catches ¹ taken on the high seas outside the Convention Area, when landed at, imported into or exported from its territory.

17. If, following an examination under paragraph 12, questions under paragraph 13 or requests for additional verification of documents under paragraph 16, it is determined, after consultation with the States concerned, that a catch document is invalid, the import, export or re-export of Dissostichus spp. being the subject of the document is prohibited.

18. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

19. A Contracting Party may transfer all or part of the proceeds from the sale of seized or confiscated Dissostichus spp. into the CDS Fund created by the Commission or into a national fund which promotes achievement of the objectives of the Convention. A Contracting Party may, consistent with its domestic legislation, decline to provide a market for toothfish offered for sale with a SVDCD by another State. Provisions concerning the uses of the CDS Fund are found in Annex 10-05/B.

¹ Excluding by-catches of Dissostichus spp. by trawlers fishing on the high seas outside the Convention Area. A by-catch shall be defined as no more than 5% of total catch of all species and no more than 50 tonnes for an entire fishing trip by a vessel.

Annex 10-05/A

A1. Each Flag State shall ensure that each Dissostichus catch document form that it issues includes a specific identification number consisting of:

(i) a four-digit number, consisting of the two-digit International Standards Organization (ISO) country code plus the last two digits of the year for which the form is issued;

(ii) a three-digit sequence number (beginning with 001) to denote the order in which catch document forms are issued.

It shall also enter on each Dissostichus catch document form the number as appropriate of the licence or permit issued to the vessel.

A2. The master of a vessel which has been issued a Dissostichus catch document form or forms shall adhere to the following procedures prior to each landing or transhipment of Dissostichus spp.:

(i) the master shall ensure that the information specified in paragraph 7 of this conservation measure is accurately recorded on the Dissostichus catch document form;

(ii) if a landing or transhipment includes catch of both Dissostichus spp., the master shall record on the Dissostichus catch document form the total amount of the catch landed or transhipped by weight of each species;

(iii) if a landing or transhipment includes catch of Dissostichus spp. taken from different statistical subareas and/or divisions, the master shall record on the Dissostichus catch document form the amount of the catch by weight of each species taken from each statistical subarea and/or division and indicating whether the catch was caught in an EEZ or on the high seas, as appropriate;

(iv) the master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches ¹ taken in the Convention Area or on the high seas outside the Convention Area, the Flag State verifies, by the use of a VMS (as described in paragraph 1 of Conservation Measure 10-04), the area fished and that the catch to be landed or transhipped as reported by its vessel is accurately recorded and taken in a manner consistent with its authorisation to fish, it shall convey a unique Flag State confirmation number to the vessel's master by the most rapid electronic means available. The Dissostichus catch document will receive a confirmation number from the Flag State, only when it is convinced that the information submitted by the vessel fully satisfies the provisions of this conservation measure.

A4. The master shall enter the Flag State confirmation number on the Dissostichus catch document form.

A5. The master of a vessel that has been issued a Dissostichus catch document form or forms shall adhere to the following procedures immediately after each landing or transhipment of Dissostichus spp.:

(i) in the case of a transhipment, the master shall confirm the transhipment obtaining the signature on the Dissostichus catch document of the master of the vessel to which the catch is being transferred;

(ii) in the case of a landing, the master or authorised representative shall confirm the landing by obtaining a signed and stamped certification on the Dissostichus catch document by a responsible official of the Port State of landing or free trade zone who is acting under the direction of either the customs or fisheries authority of the Port State and is competent with regard to the validation of Dissostichus catch documents;

(iii) in the case of a landing, the master or authorised representative shall also obtain the signature on the Dissostichus catch document of the individual that receives the catch at the port of landing or free trade zone;

(iv) in the event that the catch is divided upon landing, the master or authorised representative shall present a copy of the Dissostichus catch document to each individual that receives a part of the catch at the port of landing or free trade zone, record on that copy of the catch document the amount and origin of the catch received by that individual and obtain the signature of that individual.

A6. In respect of each landing or transhipment, the master or authorised representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorised representative shall retain the original copies of the signed Dissostichus catch document(s) and return them to the Flag State no later than one month after the end of the fishing season.

A9. The master of a vessel to which catch has been transhipped (receiving vessel) shall adhere to the following procedures immediately after each landing of such catch in order to complete each Dissostichus catch document received from transhipping vessels:

(i) the master of the receiving vessel shall confirm the landing by obtaining a signed and stamped certification on the Dissostichus catch document by a responsible official of the Port State of landing or free trade zone who is acting under the direction of either the customs or fisheries authority of the Port State and is competent with regard to the validation of Dissostichus catch documents;

(ii) the master of the receiving vessel shall also obtain the signature on the Dissostichus catch document of the individual that receives the catch at the port of landing or free trade;

(iii) in the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorised representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported from the country of landing, the exporter shall adhere to the following procedures to obtain the necessary export validation of the Dissostichus catch document(s) that account for all the Dissostichus spp. contained in the shipment:

(i) the exporter shall enter on each Dissostichus catch document the amount of each Dissostichus spp. reported on the document that is contained in the shipment;

(ii) the exporter shall enter on each Dissostichus catch document the name and address of the importer of the shipment and the point of import;

(iii) the exporter shall enter on each Dissostichus catch document the exporter's name and address, and shall sign the document;

(iv) the exporter shall obtain a signed and stamped validation of the Dissostichus catch document (including the attachments if provided) by a responsible official of the exporting State.

(v) the exporter shall indicate the transport details as appropriate:

if by sea

container(s) number(s) if appropriate, or

vessel name, and

bill of lading number, date and place of issue;

if by air

flight number, airway bill number, place and date of issue;

if by other means (ground transportation)

truck registration number and nationality,

railway transport number, date and place of issue.

A12. In the case of re-export, the re-exporter shall adhere to the following procedures to obtain the necessary re-export validation of the Dissostichus catch document(s) that account for all the Dissostichus spp. contained in the shipment:

(i) the re-exporter shall supply details of the net weight of product of all species to be re-exported, together with the Dissostichus catch document number to which each species and product relates;

(ii) the re-exporter shall supply the name and address of the importer of the shipment, the point of import and the name and address of the exporter;

(iii) the re-exporter shall obtain a signed and stamped validation of the above details by the responsible official of the exporting State on the accuracy of information contained in the document(s);

(iv) the re-exporter shall indicate the transport details as appropriate:

if by sea

container(s) number(s) if appropriate, or

vessel name, and

bill of lading number, date and place of issue;

if by air

flight number, airway bill number, place and date of issue;

if by other means (ground transportation)

truck registration number and nationality,

railway transport number, date and place of issue.

(v) the responsible official of the re-exporting State shall immediately transmit by the most rapid electronic means a copy of the re-export document to the Secretariat to be made available next working day to all Contracting Parties.

The standard form for re-export is attached to this annex.

¹ Excluding by-catches of Dissostichus spp. by trawlers fishing on the high seas outside the Convention Area. A by-catch shall be defined as no more than 5% of total catch of all species and no more than 50 tonnes for an entire fishing trip by a vessel.

BILLING CODE 3510-22-P

BILLING CODE 3510-22-C

Annex 10-05/B

The Use of the CDS Fund

B1. The purpose of the CDS Fund (‘the Fund’) is to enhance the capacity of the Commission in improving the effectiveness of the CDS and by this, and other means, to prevent, deter and eliminate IUU fishing in the Convention Area.

B2. The Fund will be operated according to the following provisions:

(i) The Fund shall be used for special projects, or special needs of the Secretariat if the Commission so decides, aimed at assisting the development and improving the effectiveness of the CDS. The Fund may also be used for special projects and other activities contributing to the prevention, deterrence and elimination of IUU fishing in the Convention Area, and for other such purposes as the Commission may decide.

(ii) The Fund shall be used primarily for projects conducted by the Secretariat, although the participation of Members in these projects is not precluded. While individual Member projects may be considered, this shall not replace the normal responsibilities of Members of the Commission. The Fund shall not be used for routine Secretariat activities.

(iii) Proposals for special projects may be made by Members, by the Commission or the Scientific Committee and their subsidiary bodies, or by the Secretariat. Proposals shall be made to the Commission in writing and be accompanied by an explanation of the proposal and an itemised statement of estimated expenditure.

(iv) The Commission will, at each annual meeting, designate six Members to serve on a Review Panel to review proposals made intersessionally and to make recommendations to the Commission on whether to fund special projects or special needs. The Review Panel will operate by e-mail intersessionally and meet during the first week of the Commission's annual meeting.

(v) The Commission shall review all proposals and decide on appropriate projects and funding as a standing agenda item at its annual meeting.

(vi) The Fund may be used to assist Acceding States and non-Contracting Parties that wish to cooperate with CCAMLR and participate in the CDS, so long as this use is consistent with provisions (i) and (ii) above. Acceding States and non-Contracting Parties may submit proposals if the proposals are sponsored by, or in cooperation with, a Member.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat in sufficient time to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

Annex 10-05/C

Procedure Regarding Cooperation With CCAMLR in the Implementation of the CDS by Non-Contracting Parties Involved in the Trade of Dissostichus Spp.

C1. Each year, the Executive Secretary shall contact all non-Contracting Parties which are known to be involved in the trade with Dissostichus spp. to urge them to become a Contracting Party to CCAMLR or to attain the status of a non-Contracting Party cooperating with CCAMLR by participating in the Catch Documentation Scheme for Dissostichus spp. (CDS) in accordance with the provisions of Conservation Measure 10-05. In doing so, the Executive Secretary shall provide copies of this conservation measure and any related resolutions adopted by the Commission.

C2. Any non-Contracting Party that seeks to be accorded the status of non-Contracting Party cooperating with CCAMLR by participating in the CDS shall apply to the Executive Secretary requesting such status. Such requests must be received by the Executive Secretary no later than ninety (90) days in advance of an annual meeting of the CAMLR Commission in order to be considered at that meeting.

C3. Any non-Contracting Party requesting the status of a non-Contracting Party cooperating with CCAMLR by participating in the CDS shall fulfil the following requirements in order to have this status considered by the Commission:

(i) Information requirements:

(a) communicate the data required under the CDS.

(ii) Compliance requirements:

(a) implement all the provisions of Conservation Measure 10-05;

(b) inform CCAMLR of all the measures taken to ensure compliance by its vessels used for the transhipments of Dissostichus spp. and its operators, including inter alia, and as appropriate, inspection at sea and in port, CDS implementation;

(c) respond to alleged violations of CCAMLR measures by its vessels transhipping Dissostichus spp. and its operators, as determined by the appropriate bodies, and communicate to CCAMLR the actions taken against operators.

C4. An applicant for the status of a non-Contracting Party cooperating with CCAMLR by participating in the CDS shall also:

(i) confirm its commitment to implement Conservation Measure 10-05; and

(ii) inform the Commission of the measures it takes to ensure compliance by its operators with Conservation Measure 10-05.

C5. The Standing Committee for Implementation and Compliance (SCIC) shall be responsible for reviewing requests for the status of non-Contracting Party cooperating with CCAMLR by participating in the CDS and for recommending to the Commission whether the applicants should be granted such status.

C6. Annually the Commission shall review the status granted to each non-Contracting Party and may revoke this status if the non-Contracting Party concerned has not complied with the criteria for attaining such status established by this measure.

Conservation Measure 10-06 (2006)

Scheme to promote compliance by Contracting Party vessels with CCAMLR conservation measures

(Species: all; Area: all; Season: all; Gear: all)

The Commission,

Convinced that illegal, unreported and unregulated (IUU) fishing compromises the objective of the Convention,

Aware that a number of vessels registered to Parties and non-Parties are engaged in activities which diminish the effectiveness of CCAMLR conservation measures,

Recalling that Contracting Parties are required to cooperate in taking appropriate action to deter any activities which are not consistent with the objective of the Convention,

Resolved to reinforce its integrated administrative and political measures aimed at eliminating IUU fishing in the Convention Area,

hereby adopts the following conservation measure in accordance with Article IX.2(i) of the Convention:

1. At each annual meeting, the Commission will identify those Contracting Parties whose vessels have engaged in fishing activities in the Convention Area in a manner which has diminished the effectiveness of CCAMLR conservation measures in force, and shall establish a list of such vessels (CP-IUU Vessel List), in accordance with the procedures and criteria set out hereafter.

2. This identification shall be documented, inter alia, on reports relating to the application of Conservation Measure 10-03, trade information obtained on the basis of the implementation of Conservation Measure 10-05 and relevant trade statistics such as Food and Agriculture Organization of the United Nations (FAO) and other national or international verifiable statistics, as well as any other information obtained from Port States and/or gathered from the fishing grounds which is suitably documented.

3. Where a Contracting Party obtains information that vessels flying the flag of another Contracting Party have engaged in activities set out in paragraph 5, it shall submit a report containing this information, within 30 days of having become aware of it, to the Executive Secretary and the Contracting Party concerned. Contracting Parties shall indicate that the information is provided for the purposes of considering whether to include the vessel concerned in the CP-IUU Vessel List under Conservation Measure 10-06. The Executive Secretary shall within one business day circulate the report to the other Contracting Parties and to non-Contracting Parties cooperating with the Commission by participating in the Catch Documentation Scheme for Dissostichus spp. (CDS), and invite them to communicate any information available to them in respect of the vessels referred to above, including their ownership, operators and their trade activities.

4. For the purposes of this conservation measure, the Contracting Parties are considered as having carried out fishing activities that have diminished the effectiveness of the conservation measures adopted by the Commission if:

(i) the Parties do not ensure compliance by their vessels with the conservation measures adopted by the Commission and in force, in respect of the fisheries in which they participate that are placed under the competence of CCAMLR;

(ii) their vessels are repeatedly included in the CP-IUU Vessel List.

5. In order for a Contracting Party's vessel to be included in the CP-IUU Vessel List there must be evidence, gathered in accordance with paragraphs 2 and 3, that the vessel has:

(i) engaged in fishing activities in the CCAMLR Convention Area without a licence issued in accordance with Conservation Measure 10-02, or in violation of the conditions under which such licence would have been issued in relation to authorised areas, species and time periods; or

(ii) not recorded or not declared its catches made in the CCAMLR Convention Area in accordance with the reporting system applicable to the fisheries it engaged in, or made false declarations; or

(iii) fished during closed fishing periods or in closed areas in contravention of CCAMLR conservation measures; or

(iv) used prohibited gear in contravention of applicable CCAMLR conservation measures; or

(v) transhipped or participated in joint fishing operations with, supported or re-supplied other vessels identified by CCAMLR as carrying out IUU fishing activities (i.e. vessels on the CP-IUU Vessel List or the NCP-IUU Vessel List established under Conservation Measure 10-07); or

(vi) failed to provide, when required under Conservation Measure 10-05, a valid catch document for Dissostichus spp.; or

(vii) engaged in fishing activities in a manner that undermines the attainment of the objectives of the Convention in waters adjacent to islands within the area to which the Convention applies over which the existence of State sovereignty is recognised by all Contracting Parties, in the terms of the statement made by the Chairman on 19 May 1980; or

(viii) engaged in fishing activities contrary to any other CCAMLR conservation measures in a manner that undermines the attainment of the objectives of the Convention according to Article XXII of the Convention.

Draft CP-IUU Vessel List

6. The Executive Secretary shall, before 1 July of each year, draw up a draft list of Contracting Party vessels (the Draft CP-IUU Vessel List), listing all Contracting Party vessels that, on the basis of the information gathered in accordance with paragraphs 2 and 3, and any other information that the Executive Secretary might have obtained in relation thereto, and the criteria defined in paragraph 4, might be presumed to have engaged in any of the activities referred to in paragraph 5 during the period beginning 30 days before the start of the previous CCAMLR annual meeting. The Draft CP-IUU Vessel List shall be distributed immediately to the Contracting Parties concerned.

7. Contracting Parties whose vessels are included in the Draft CP-IUU Vessel List shall transmit their comments to the Executive Secretary before 1 September, including verifiable VMS data and other supporting information showing that the vessels listed have not engaged in the activities which led to their inclusion in the Draft CP-IUU Vessel List.

Provisional CP-IUU Vessel List

8. The Executive Secretary shall create a new list (‘the Provisional CP-IUU Vessel List’) which shall comprise the Draft CP-IUU Vessel List and all information received pursuant to paragraph 7. Before 1 October, the Executive Secretary shall transmit the Provisional CP-IUU Vessel List, the CP-IUU Vessel List agreed at the previous CCAMLR annual meeting, and any evidence or documented information received since that meeting regarding vessels on the Provisional CP-IUU Vessel List and CP-IUU Vessel List to all Contracting Parties and non-Contracting Parties cooperating with the Commission by participating in the CDS. The Executive Secretary shall at the same time:

(i) request non-Contracting Parties cooperating with the Commission by participating in the CDS that, to the extent possible in accordance with their applicable laws and regulations, they do not register or de-register vessels that have been placed on the Provisional CP-IUU Vessel List until such time as the Commission has had the opportunity to consider the List and has made its determination;

(ii) invite non-Contracting Parties cooperating with the Commission by participating in the CDS to submit any evidence or documented information regarding vessels on the Provisional CP-IUU Vessel List and CP-IUU Vessel List, at the latest 30 days before the start of the next CCAMLR annual meeting. Where the incident occurs within the month preceding the next CCAMLR annual meeting, evidence or documented information should be provided as soon as possible.

9. Contracting Parties shall take all necessary measures, to the extent possible in accordance with their applicable laws and regulations, in order that:

(i) they do not register or de-register vessels that have been placed on the Provisional CP-IUU List until such time as the Commission has had the opportunity to examine the List and has made its determination;

(ii) if they do de-register a vessel on the Provisional CP-IUU Vessel List they inform, where possible, the Executive Secretary of the proposed new Flag State of the vessel, whereupon the Executive Secretary shall inform that State that the vessel is on the Provisional CP-IUU Vessel List and urge that State not to register the vessel.

Proposed and Final CP-IUU Vessel List

10. Contracting Parties shall submit to the Executive Secretary any additional information which might be relevant for the establishment of the CP-IUU Vessel List within 30 days of having become aware of such information and at the latest 30 days before the start of the CCAMLR annual meeting. A report containing this information shall be submitted in the format set out in paragraph 16, and Contracting Parties shall indicate that the information is provided for the purposes of considering whether to include the vessel concerned in the CP-IUU Vessel List under Conservation Measure 10-06. The Secretariat shall collate all information received and, where this has not been provided in relation to a vessel, attempt to obtain the information in paragraphs 16(i) to (vii).

11. The Executive Secretary shall circulate to Contracting Parties, at the latest 30 days before the start of the CCAMLR annual meeting, all evidence or documented information received under paragraphs 8 and 9, together with any other evidence or documented information received in terms of paragraphs 2 and 3.

12. At each CCAMLR annual meeting, the Standing Committee on Implementation and Compliance (SCIC) shall, by consensus:

(i) adopt a Proposed CP-IUU Vessel List, following consideration of the Provisional CP-IUU Vessel List and information and evidence circulated under paragraph 10. The Proposed CP-IUU Vessel List shall be submitted to the Commission for approval;

(ii) recommend to the Commission which, if any, vessels should be removed from the CP-IUU Vessel List adopted at the previous CCAMLR annual meeting, following consideration of that List and information and evidence circulated under paragraph 10.

13. SCIC shall include a vessel on the Proposed CP-IUU Vessel List only if one or more of the criteria in paragraph 5 have been satisfied.

14. SCIC shall recommend that the Commission should remove a vessel from the CP-IUU Vessel List if the Contracting Party proves that:

(i) the vessel did not take part in the activities described in paragraph 1 which led to the inclusion of the vessel in the CP-IUU Vessel List; or

(ii) it has taken effective action in response to the activities in question, including prosecution and imposition of sanctions of adequate severity; or

(iii) the vessel has changed ownership, including beneficial ownership if known to be distinct from the registered ownership, and that the new owner can establish the previous owner no longer has any legal, financial, or real interests in the vessel, or exercises control over it and that the new owner has not participated in IUU fishing; or

(iv) it has taken measures considered sufficient to ensure the granting of the right to the vessel to fly its flag will not result in IUU fishing.

15. In order to facilitate the work of SCIC and the Commission, the Executive Secretary shall prepare a paper for each CCAMLR annual meeting, summarising and annexing all the information, evidence and comments submitted in respect of each vessel to be considered.

16. The Draft CP-IUU Vessel List, Provisional CP-IUU Vessel List, Proposed CP-IUU Vessel List and the CP-IUU Vessel List shall contain the following details:

(i) name of vessel and previous names, if any;

(ii) flag of vessel and previous flags, if any;

(iii) owner of vessel and previous owners, including beneficial owners, if any;

(iv) operator of vessel and previous operators, if any;

(v) call sign of vessel and previous call signs, if any;

(vi) Lloyds/IMO number;

(vii) photographs of the vessel, where available;

(viii) date vessel was first included on the CP-IUU Vessel List;

(ix) summary of activities which justify inclusion of the vessel on the List, together with references to all relevant documents informing of and evidencing those activities.

17. On approval of the CP-IUU Vessel List, the Commission shall request Contracting Parties whose vessels appear thereon to take all necessary measures to address these activities, including if necessary, the withdrawal of the registration or of the fishing licences of these vessels, the nullification of the relevant catch documents and denial of further access to the CDS, and to inform the Commission of the measures taken in this respect.

18. Contracting Parties shall take all necessary measures, subject to and in accordance with their applicable laws and regulations and international law, in order that:

(i) the issuance of a licence to vessels on the CP-IUU Vessel List to fish in the Convention Area is prohibited;

(ii) the issuance of a licence to vessels on the CP-IUU Vessel List to fish in waters under their fisheries jurisdiction is prohibited;

(iii) fishing vessels, support vessels, refuel vessels, mother ships and cargo vessels flying their flag do not in any way, in the Convention Area, assist vessels on the CP-IUU Vessel List by participating in any transhipment or joint fishing operations, supporting or resupplying such vessels;

(iv) vessels on the CP-IUU Vessel List should be denied access to ports unless for the purpose of enforcement action or for reasons of force majeure or for rendering assistance to vessels, or persons on those vessels, in danger or distress. Vessels allowed entry to port are to be inspected in accordance with relevant conservation measures;

(v) where port access is granted to such vessels:

(a) documentation and other information, including DCDs where relevant are examined, with a view to verifying the area in which the catch was taken; and where the origin cannot be adequately verified, the catch is detained or any landing or transhipment of the catch is refused; and

(b) where possible

i. in the event catch is found to be taken in contravention of CCAMLR conservation measures, catch is confiscated;

ii. all support to such vessels, including non-emergency refueling, resupplying and repairs is prohibited.

(vi) the chartering of vessels on the CP-IUU Vessel List is prohibited;

(vii) granting of their flag to vessels on the CP-IUU Vessel List is refused;

(viii) imports, exports and re-exports of Dissostichus spp. from vessels on the CP-IUU Vessel List are prohibited;

(ix) ‘Export or Re-export Government Authority Validation' is not certified when the shipment (of Dissostichus spp.) is declared to have been caught by any vessel on the CP-IUU Vessel List;

(x) importers, transporters and other sectors concerned are encouraged to refrain from dealing with and from transhipping of fish caught by vessels on the CP-IUU Vessel List;

(xi) any appropriate information which is suitably documented is collected and submitted to the Executive Secretary, to be forwarded to Contracting Parties, and non-Contracting Parties, entities or fishing entities cooperating with the Commission by participating in the CDS, with the aim of detecting, controling and preventing the importation or exportation of, and other trade-related activities relating to, catches from vessels on the CP-IUU Vessel List intended to circumvent this conservation measure.

19. The Executive Secretary shall place the CP-IUU Vessel List approved by the Commission on the public section of the CCAMLR Web site. Furthermore, the Executive Secretary shall communicate the CP-IUU Vessel List to the FAO and appropriate regional fisheries organisations to enhance cooperation between CCAMLR and these organisations for the purposes of preventing, deterring and eliminating IUU fishing.

20. The Executive Secretary shall circulate to non-Contracting Parties cooperating with the Commission by participating in the CDS the CP-IUU Vessel List, together with the request that, to the extent possible in accordance with their applicable laws and regulations, they do not register vessels that have been placed on the List unless they are removed from the List by the Commission.

21. If Contracting Parties obtain new or changed information for vessels on the CP-IUU Vessel List in relation to the details in paragraphs 16(i) to (vii), they shall notify the Executive Secretary who shall place a notification on the secure section of the CCAMLR Web site and advise all Contracting Parties of the notification. If there are no comments on the information within seven (7) days, the Executive Secretary will revise the CP-IUU Vessel List.

22. Without prejudice to their rights to take proper action consistent with international law, Contracting Parties should not take any trade measures or other sanctions which are inconsistent with their international obligations against vessels using as the basis for the action the fact that the vessel or vessels have been included in the Draft CP-IUU Vessel List drawn up by the Executive Secretary, pursuant to paragraph 6.

23. The Chair of the Commission shall request the Contracting Parties identified pursuant to paragraph 1 to take all necessary measures to avoid diminishing the effectiveness of CCAMLR conservation measures resulting from their vessels' activities, and to advise the Commission of actions taken in that regard.

24. The Commission shall review, at subsequent CCAMLR annual meetings, as appropriate, action taken by those Contracting Parties to which requests have been made pursuant to paragraph 23, and identify those which have not rectified their activities.

25. The Commission shall decide appropriate measures to be taken in respect to Dissostichus spp. so as to address these issues with those identified Contracting Parties. In this respect, Contracting Parties may cooperate to adopt appropriate multilaterally agreed trade-related measures, consistent with their obligations as members of the World Trade Organization, that may be necessary to prevent, deter and eliminate the IUU activities identified by the Commission. Multilateral trade-related measures may be used to support cooperative efforts to ensure that trade in Dissostichus spp. and its products does not in any way encourage IUU fishing or otherwise diminish the effectiveness of CCAMLR's conservation measures which are consistent with the United Nations Convention on the Law of the Sea 1982.

Conservation Measure 10-07 (2006)

Scheme to promote compliance by non-Contracting Party vessels with CCAMLR conservation measures

(Species: all; Area: all; Season: all; Gear: all)

The Commission,

Convinced that illegal, unreported and unregulated (IUU) fishing compromises the objective of the Convention,

Aware that a significant number of vessels registered to non-Contracting Parties are engaged in activities which diminish the effectiveness of CCAMLR conservation measures,

Recalling that Contracting Parties are required to cooperate in taking appropriate action to deter any activities which are not consistent with the objective of the Convention,

Resolved to reinforce its integrated administrative and political measures aimed at eliminating IUU fishing in the Convention Area,

hereby adopts the following conservation measure in accordance with Article IX.2(i) of the Convention:

1. The Contracting Parties request non-Contracting Parties to cooperate fully with the Commission with a view to ensuring that the effectiveness of CCAMLR conservation measures is not undermined.

2. At each annual meeting the Commission shall identify those non-Contracting Parties whose vessels are engaged in IUU fishing activities in the Convention Area that threaten to undermine the effectiveness of CCAMLR conservation measures, and shall establish a list of such vessels (NCP-IUU Vessel List), in accordance with the procedures and criteria set out hereafter.

3. This identification shall be documented, inter alia, on reports relating to the application of Conservation Measure 10-03, trade information obtained on the basis of the implementation of Conservation Measure 10-05 and relevant trade statistics such as Food and Agriculture Organization of the United Nations (FAO) and other national or international verifiable statistics, as well as any other information obtained from Port States and/or gathered from the fishing grounds which is suitably documented.

4. A non-Contracting Party vessel which has been sighted engaging in fishing activities in the Convention Area or which has been denied port access, landing or transhipment in accordance with Conservation Measure 10-03 is presumed to be undermining the effectiveness of CCAMLR conservation measures. In the case of any transhipment activities involving a sighted non-Contracting Party vessel inside or outside the Convention Area, the presumption of undermining the effectiveness of CCAMLR conservation measures applies to any other non-Contracting Party vessel which has engaged in such activities with that vessel.

5. When a non-Contracting Party vessel referred to in paragraph 4 enters a port of any Contracting Party, it shall be inspected by authorised Contracting Party officials in accordance with Conservation Measure 10-03 and shall not be allowed to land or tranship any fish species subject to CCAMLR conservation measures it might be holding on board unless the vessel establishes that the fish were caught in compliance with all relevant CCAMLR conservation measures and requirements under this Convention.

6. A Contracting Party which sights a non-Contracting Party vessel engaging in fishing activities in the Convention Area or denies a non-Contracting Party port access, landing or transhipment under paragraph 5 shall attempt to inform the vessel that it is presumed to be undermining the effectiveness of CCAMLR conservation measures, and that this information will be distributed to the Executive Secretary, all Contracting Parties and the Flag State of the vessel.

7. Information regarding such sightings or denial of port access, landings or transhipments, and the result of all inspections conducted in the ports of Contracting Parties, and any subsequent action shall be transmitted within one business day to the Commission in accordance with Article XXII of the Convention. The Executive Secretary shall transmit this information to all Contracting Parties, within one business day of receiving it, and to the Flag State of the vessel concerned as soon as possible and to appropriate regional fisheries organisations. At this time, the Executive Secretary shall, in consultation with the Chair of the Commission, request the Flag State concerned that, where appropriate, measures be taken in accordance with its applicable laws and regulations to ensure that the vessel desists from any activities that undermine the effectiveness of CCAMLR conservation measures, and that the Flag State report back to CCAMLR on the results of such enquiries and/or on the measures it has taken in respect of the vessel. The other Contracting Parties and non-Contracting Parties cooperating with the Commission by participating in the Catch Documentation Scheme for Dissostichus spp. (CDS) shall be invited to communicate any information available to them in respect of the vessels referred to above, including their ownership, operators and their trade activities.

8. Where a Contracting Party obtains information that a non-Contracting Party vessel has engaged in activities set out in paragraph 9, it shall submit a report containing this information, within 30 days of having become aware of it, to the Executive Secretary (including where such information has already been transmitted under paragraph 7). Contracting Parties shall indicate that the information is provided for the purposes of considering whether to include the vessel concerned in the NCP-IUU Vessel List under Conservation Measure 10-07. In addition, the Contracting Party may also submit the report directly to the non-Contracting Party concerned. The Executive Secretary shall promptly forward the information to the non-Contracting Party concerned, indicating that it has been provided for the purposes of considering whether to include the vessel concerned in the NCP-IUU Vessel List under Conservation Measure 10-07. The Executive Secretary shall request that the Flag State take action to prevent the vessel undertaking any activities that undermine the effectiveness of CCAMLR conservation measures and that the Flag State report back to CCAMLR on the measures it has taken in respect of the vessel concerned. The Executive Secretary shall circulate the information and any report from the Flag State to all other Contracting Parties as soon as possible.

9. In order for a non-Contracting Party's vessel to be included in the NCP-IUU Vessel List, there must be evidence, gathered in accordance with paragraphs 3 and 8, that the vessel has:

(i) been sighted engaging in fishing activities in the CCAMLR Convention Area; or

(ii) been denied port access, landing or transhipment in accordance with Conservation Measure 10-03; or

(iii) transhipped or participated in joint fishing operations with, supported or resupplied other vessels identified by CCAMLR as carrying out IUU fishing activities (i.e. vessels on the NCP-IUU Vessel List or the CP-IUU Vessel List established under Conservation Measure 10-06); or

(iv) failed to provide, when required under Conservation Measure 10-05, a valid catch document for Dissostichus spp.; or

(v) engaged in fishing activities in a manner that undermines the attainment of the objectives of the Convention in waters adjacent to islands within the area to which the Convention applies over which the existence of State sovereignty is recognised by all Contracting Parties, in the terms of the statement made by the Chairman on 19 May 1980; or

(vi) engaged in fishing activities contrary to any other CCAMLR conservation measures in a manner that undermines the attainment of the objectives of the Convention according to Article XXII of the Convention.

Draft NCP-IUU Vessel List

10. The Executive Secretary shall, before 1 July of each year, draw up a draft list (‘the Draft NCP-IUU Vessel List’), listing all non-Contracting Party vessels that, on the basis of the information gathered in accordance with paragraphs 3 and 8 and any other information that the Executive Secretary might have obtained in relation thereto, might be presumed to have engaged in any of the activities referred to in paragraph 9 during the period beginning 30 days before the start of the previous CCAMLR annual meeting. The Draft NCP-IUU Vessel List shall be distributed immediately to the non-Contracting Parties concerned and to all Contracting Parties.

11. The Executive Secretary shall invite non-Contracting Parties whose vessels are included in the Draft NCP-IUU Vessel List to transmit their comments to the Executive Secretary before 1 September, including verifiable VMS data and other supporting information showing that the vessels listed have not engaged in the activities which led to their inclusion in the Draft NCP-IUU Vessel List.

Provisional NCP-IUU Vessel List

12. The Executive Secretary shall create a new list (‘the Provisional NCP-IUU Vessel List’) which shall comprise the Draft NCP-IUU Vessel List and all information received pursuant to paragraph 11. Before 1 October, the Executive Secretary shall transmit the Provisional NCP-IUU Vessel List, the NCP-IUU Vessel List agreed at the previous CCAMLR annual meeting, and any evidence or documented information received since that meeting regarding vessels on the Provisional NCP-IUU Vessel List or the NCP-IUU Vessel List to all Contracting Parties and non-Contracting Parties cooperating with the Commission by participating in the CDS. The Executive Secretary shall at the same time:

(i) request non-Contracting Parties cooperating with the Commission by participating in the CDS that, to the extent possible in accordance with their applicable laws and regulations, they do not register or de-register vessels that have been placed on the List until such time as the Commission has had the opportunity to consider the List and has made its determination;

(ii) invite non-Contracting Parties cooperating with the Commission by participating in the CDS to submit any evidence or documented information regarding vessels on the Provisional NCP-IUU Vessel List and NCP-IUU Vessel List, at the latest 30 days before the start of the next CCAMLR annual meeting. Where the incident occurs within the month preceding the next CCAMLR annual meeting, evidence or documented information should be provided as soon as possible;

(iii) transmit the Provisional NCP-IUU Vessel List and any evidence or documented information received regarding vessels on that List to all non-Contracting Parties whose vessels are included in the List and who are not non-Contracting Parties cooperating with the Commission by participating in the CDS.

13. Contracting Parties shall take all necessary measures, to the extent possible in accordance with their applicable laws and regulations, in order that:

(i) they do not register vessels that have been placed on the Provisional NCP-IUU Vessel List until such time as the Commission has had the opportunity to examine the List and has made its determination;

(ii) if they do de-register a vessel on the Provisional NCP-IUU Vessel List they inform, where possible, the Executive Secretary of the proposed new Flag State of the vessel, whereupon the Executive Secretary shall inform that State that the vessel is on the Provisional NCP-IUU Vessel List and urge that State not to register the vessel.

Proposed and Final NCP-IUU Vessel List

14. Contracting Parties shall submit to the Executive Secretary any additional information which might be relevant for the establishment of the NCP-IUU Vessel List within 30 days of having become aware of such information and at the latest 30 days before the start of the CCAMLR annual meeting. A report containing this information shall be submitted in the format set out in paragraph 20, and Contracting Parties shall indicate that the information is provided for the purposes of considering whether to include the vessel concerned in the NCP-IUU Vessel List under Conservation Measure 10-07. The Executive Secretary shall collate all information received and, where this has not been provided in relation to a vessel, attempt to obtain the information in paragraphs 20(i) to (vii).

15. The Executive Secretary shall circulate to Contracting Parties, at the latest 30 days before the start of the CCAMLR annual meeting, all evidence or documented information received under paragraphs 12 and 13, together with any other evidence or documented information received in terms of paragraphs 3 and 8.

16. At each CCAMLR annual meeting, the Standing Committee on Implementation and Compliance (SCIC) shall, by consensus:

(i) adopt a Proposed NCP-IUU Vessel List, following consideration of the Provisional NCP-IUU Vessel List and information and evidence circulated under paragraph 14. The Proposed NCP-IUU Vessel List shall be submitted to the Commission for approval;

(ii) recommend to the Commission which, if any, vessels should be removed from the NCP-IUU Vessel List adopted at the previous CCAMLR annual meeting, following consideration of that List and information and evidence circulated under paragraph 14.

17. SCIC shall include a vessel on the Proposed NCP-IUU Vessel List only if one or more of the criteria in paragraph 9 have been satisfied.

18. SCIC shall recommend that the Commission should remove a vessel from the NCP-IUU Vessel List if the non-Contracting Party proves that:

(i) the vessel did not take part in the activities described in paragraph 9 which led to the inclusion of the vessel in the NCP-IUU Vessel List; or

(ii) it has taken effective action in response to the activities in question, including prosecution and imposition of sanctions of adequate severity; or

(iii) the vessel has changed ownership including beneficial ownership if known to be distinct from the registered ownership and that the new owner can establish the previous owner no longer has any legal, financial, or real interests in the vessel, or exercises control over it and that the new owner has not participated in IUU fishing; or

(iv) it has taken measures considered sufficient to ensure the granting of the right to the vessel to fly its flag will not result in IUU fishing.

19. In order to facilitate the work of SCIC and the Commission, the Executive Secretary shall prepare a paper for each CCAMLR annual meeting, summarising and annexing all the information, evidence and comments submitted in respect of each vessel to be considered.

20. The Draft NCP-IUU Vessel List, Provisional NCP-IUU Vessel List, Proposed NCP-IUU Vessel List and the NCP-IUU Vessel List shall contain the following details:

(i) name of vessel and previous names, if any;

(ii) flag of vessel and previous flags, if any;

(iii) owner of vessel and previous owners including beneficial owners, if any;

(iv) operator of vessel and previous operators, if any;

(v) call sign of vessel and previous call signs, if any;

(vi) Lloyds/IMO number;

(vii) photographs of the vessel, where available;

(viii) date vessel was first included on the NCP-IUU Vessel List;

(ix) summary of activities which justify inclusion of the vessel in the List, together with references to all relevant documents informing of and evidencing those activities.

21. On approval of the NCP-IUU Vessel List, the Commission shall request non-Contracting Parties whose vessels appear thereon to take all necessary measures to address these activities, including if necessary, the withdrawal of the registration or of the fishing licences of these vessels, the nullification of the relevant catch documents and denial of further access to the CDS, and to inform the Commission of the measures taken in this respect.

22. Contracting Parties shall take all necessary measures, subject to and in accordance with their applicable laws and regulations and international law, in order that:

(i) the issuance of a licence to vessels on the NCP-IUU Vessel List to fish in waters under their fisheries jurisdiction is prohibited;

(ii) fishing vessels, support vessels, refuel vessels, mother-ships and cargo vessels flying their flag do not in any way assist vessels on the NCP-IUU Vessel List by participating in any transhipment or joint fishing operations, supporting or resupplying such vessels;

(iii) vessels on the NCP-IUU Vessel List should be denied access to ports unless for the purpose of enforcement action or for reasons of force majeure or for rendering assistance to vessels, or persons on those vessels, in danger or distress. Vessels allowed entry to port are to be inspected in accordance with relevant conservation measures;

(iv) where port access is granted to such vessels:

(a) documentation and other information, including DCDs where relevant are examined, with a view to verifying the area in which the catch was taken; and where the origin cannot be adequately verified, the catch is detained or any landing or transhipment of the catch is refused; and

(b) where possible

i. in the event catch is found to be taken in contravention of CCAMLR conservation measures, catch is confiscated;

ii. all support to such vessels, including non-emergency refuelling, resupplying and repairs is prohibited.

(v) the chartering of vessels on the NCP-IUU Vessel List is prohibited;

(vi) granting of their flag to vessels on the NCP-IUU Vessel List is refused;

(vii) imports, exports and re-exports of Dissostichus spp. from vessels on the NCP-IUU Vessel List are prohibited;

(viii) ‘Export or Re-export Government Authority Validation’ is not certified when the shipment (of Dissostichus spp.) is declared to have been caught by any vessel on the NCP-IUU Vessel List;

(ix) importers, transporters and other sectors concerned are encouraged to refrain from dealing with and from transhipping of fish caught by vessels on the NCP-IUU Vessel List;

(x) any appropriate information which is suitably documented is collected and submitted to the Executive Secretary, to be forwarded to Contracting Parties and non-Contracting Parties, entities or fishing entities cooperating with the Commission by participating in the CDS, with the aim of detecting, controlling and preventing the importation or exportation of, and other trade-related activities relating to, catches from vessels on the NCP-IUU Vessel List intended to circumvent this conservation measure.

23. The Executive Secretary shall place the NCP-IUU Vessel List approved by the Commission on the public section of the CCAMLR Web site. Furthermore, the Executive Secretary shall communicate the NCP-IUU Vessel List to the FAO and appropriate regional fisheries organisations to enhance cooperation between CCAMLR and these organisations for the purposes of preventing, deterring and eliminating IUU fishing.

24. The Executive Secretary shall circulate to non-Contracting Parties cooperating with the Commission by participating in the CDS the NCP-IUU Vessel List, together with the request that, to the extent possible in accordance with their applicable laws and regulations, they do not register vessels that have been placed on the List unless they are removed from the List by the Commission.

25. If Contracting Parties obtain new or changed information for vessels on the NCP-IUU Vessel List in relation to the details in paragraphs 20(i) to (vii), they shall notify the Executive Secretary who shall place a notification on the secure section of the CCAMLR Web site and advise all Contracting Parties and the non-Contracting Party concerned of the notification. If there are no comments on the information within seven (7) days, the Executive Secretary will revise the NCP-IUU Vessel List.

26. Without prejudice to their rights to take proper action consistent with international law, Contracting Parties should not take any trade measures or other sanctions which are inconsistent with their international obligations against vessels using as the basis for the action the fact that the vessel or vessels have been included in the Draft NCP-IUU Vessel List drawn up by the Executive Secretary, pursuant to paragraph 10.

27. The Chair of the Commission shall request the non-Contracting Parties identified pursuant to paragraph 1 to take all necessary measures to avoid diminishing the effectiveness of CCAMLR conservation measures resulting from their vessels' activities, including if necessary withdrawal of a vessel's registration or fishing licence, nullification of the relevant CDS documents and denial of further access to the CDS, and to advise the Commission of actions taken in that regard.

28. Contracting Parties shall jointly and/or individually request non-Contracting Parties identified pursuant to paragraph 2 to cooperate fully with the Commission in order to avoid diminishing the effectiveness of conservation measures adopted by the Commission.

29. The Commission shall review, at subsequent CCAMLR annual meetings, as appropriate, action taken by those non-Contracting Parties to which requests have been made pursuant to paragraph 26, and identify those which have not rectified their activities.

30. The Commission shall decide appropriate measures to be taken in respect to Dissostichus spp. so as to address these issues with those identified non-Contracting Parties. In this respect, Contracting Parties may cooperate to adopt appropriate multilaterally agreed trade-related measures, consistent with their obligations as members of the World Trade Organization, that may be necessary to prevent, deter and eliminate the IUU activities identified by the Commission. Multilateral trade-related measures may be used to support cooperative efforts to ensure that trade in Dissostichus spp. and its products does not in any way encourage IUU fishing or otherwise diminish the effectiveness of CCAMLR's conservation measures which are consistent with the United Nations Convention on the Law of the Sea 1982.

Conservation Measure 10-08 (2006)

Scheme to promote compliance by Contracting Party nationals with CCAMLR conservation measures

(Species: all; Area: all; Season: all; Gear: all)

The Commission,

Convinced that illegal, unreported and unregulated (IUU) fishing compromises the objectives of the Convention,

Concerned that some Flag States do not comply with their obligations regarding jurisdiction and control according to international law in respect of fishing vessels entitled to fly their flag that carry out their activities in the Convention Area, and that as a result these vessels are not under the effective control of such Flag States,

Aware that the lack of effective control facilitates fishing by these vessels in the Convention Area in a manner that undermines the effectiveness of CCAMLR conservation measures, and can lead to illegal, unreported and unregulated (IUU) catches of fish and unacceptable levels of incidental mortality of seabirds,

Concerned that vessels that carry out activities in the Convention Area which do not comply with the CCAMLR conservation measures are benefiting from the support provided by persons subject to the jurisdiction of Contracting Parties, including through participation in transhipment, transport and trade of illegally harvested catches or engagement on board or in the management of these vessels,

Noting that the FAO International Plan of Action to Prevent, Deter and Eliminate Illegal, Unreported and Unregulated Fishing calls on States to take measures to discourage nationals subject to their jurisdiction from supporting and engaging in any activity that undermines the effectiveness of international conservation and management measures,

Recalling that Contracting Parties should cooperate in taking appropriate action to deter any activities which are not consistent with the objective of the Convention,

Resolved to reinforce its integrated administrative and political measures aimed at eliminating IUU fishing in the Convention Area,

hereby adopts the following conservation measure in accordance with Article IX.2(i) of the Convention:

1. Without prejudice to the primacy of the responsibility of the Flag State, the Contracting Parties shall take appropriate measures, subject to and in accordance with their applicable laws and regulations:

(i) to verify if any natural or legal persons subject to their jurisdiction are engaged in the activities described in paragraphs 5(i) to (viii) of Conservation Measure 10-06 and 9(i) to (vi) of Conservation Measure 10-07;

(ii) take appropriate action in response to any verified activities referred to in paragraph 1(i); and

(iii) cooperate for the purpose of implementing the measures and actions referred to in paragraph 1(i). To this end, relevant agencies of Contracting Parties should cooperate to implement CCAMLR conservation measures and Contracting Parties shall seek cooperation by industries within their jurisdiction.

2. To assist with the implementation of this conservation measure, Contracting Parties shall submit reports to the CCAMLR Secretariat and the Contracting Parties and non-Contracting Parties cooperating with CCAMLR for the purpose of implementing the Catch Documentation Scheme for Dissostichus spp. on the actions and measures taken in accordance with paragraph 1, in a timely fashion.

3. These provisions shall be applicable from 1 July 2008. Contracting Parties may voluntarily decide to implement these provisions prior to this date.

Conservation Measure 21-01 (2006) ¹ ²

Notification that Members are considering initiating a new fishery

(Species: all; Area: all; Season: all; Gear: all)

The Commission,

Recognising that in the past, Antarctic fisheries have been initiated in the Convention Area before sufficient information was available upon which to base management advice,

Noting that in recent years new fisheries have started without adequate information being available to evaluate either the fishery potential or the possible impacts on the target stocks or species dependent on them,

Believing that without prior notification of a new fishery, the Commission is unable to fulfill its function under Article IX,

hereby adopts the following conservation measure in accordance with Article IX of the Convention:

1. A new fishery, for the purposes of this conservation measure, is a fishery on a species using a particular fishing method in a statistical subarea for which:

(i) information on distribution, abundance, demography, potential yield and stock identity from comprehensive research/surveys or exploratory fishing have not been submitted to CCAMLR; or

(ii) catch and effort data have never been submitted to CCAMLR; or

(iii) catch and effort data from the two most recent seasons in which fishing occurred have not been submitted to CCAMLR.

2. In addition to those fisheries identified according to paragraph 1, the use of fishing methods in high-seas areas of the Convention Area as specified in Annex 21-01/A will constitute new fisheries and will require approval of the Commission for specific areas before proceeding.

3. A Member intending to develop a new fishery shall notify the Commission not less than three months in advance of the next regular meeting of the Commission, where the matter shall be considered. The Member shall not initiate a new fishery pending the process specified in paragraphs 6 and 7 below.

4. The notification shall be accompanied by as much of the following information as the Member is able to provide:

(i) the nature of the proposed fishery including target species, methods of fishing, proposed region and any minimum level of catches that would be required to develop a viable fishery;

(ii) biological information from comprehensive research/survey cruises, such as distribution, abundance, demographic data and information on stock identity;

(iii) details of dependent and associated species and the likelihood of them being affected by the proposed fishery;

(iv) information from other fisheries in the region or similar fisheries elsewhere that may assist in the valuation of potential yield;

(v) if the proposed fishery will be undertaken using bottom trawl gear, information on the known and anticipated impacts of this gear on vulnerable marine ecosystems, including benthos and benthic communities.

5. New fisheries shall be open only to those vessels that are equipped and configured so that they can comply with all relevant conservation measures. A vessel with a confirmed involvement in illegal, unreported or unregulated fishing in respect of Conservation Measures 10-06 and 10-07 shall not be permitted to participate in new fisheries.

6. The information provided in accordance with paragraph 4, together with any other relevant information, shall be considered by the Scientific Committee, which shall then advise the Commission.

7. After its review of the information on the proposed new fishery, taking full account of the recommendations and the advice of the Scientific Committee, the Commission may then take such action as it deems necessary.

¹ Except for waters adjacent to the Kerguelen and Crozet Islands.

² Except for waters adjacent to the Prince Edward Islands.

Annex 21-01/A

Additional Fishing Methods

Bottom trawling in high-seas areas of the Convention Area.

Conservation Measure 21-02 (2006) ¹ ²

Exploratory fisheries

(Species: all; Area: all; Season: all; Gear: all)

The Commission,

Recognising that in the past, some Antarctic fisheries had been initiated and subsequently expanded in the Convention Area before sufficient information was available upon which to base management advice,

Agreeing that exploratory fishing should not be allowed to expand faster than the acquisition of information necessary to ensure that the fishery can and will be conducted in accordance with the principles set forth in Article II,

hereby adopts the following conservation measure in accordance with Article IX of the Convention:

1. For the purposes of this conservation measure, exploratory fisheries are defined as follows:

(i) an exploratory fishery shall be defined as a fishery that was previously classified as a ‘new fishery’, as defined by Conservation Measure 21-01;

(ii) an exploratory fishery shall continue to be classified as such until sufficient information is available:

(a) to evaluate the distribution, abundance, and demography of the target species, leading to an estimate of the fishery's potential yield;

(b) to review the fishery's potential impacts on dependent and related species;

(c) to allow the Scientific Committee to formulate and provide advice to the Commission on appropriate harvest catch levels, as well as effort levels and fishing gear, where appropriate.

2. To ensure that adequate information is made available to the Scientific Committee for evaluation, during the period when a fishery is classified as exploratory, the Scientific Committee shall develop (and update annually as appropriate) a Data Collection Plan, which should include research proposals, as appropriate. This shall identify the data needed and describe any operational research actions necessary to obtain the relevant data from the exploratory fishery to enable an assessment of the stock to be made.

3. The Data Collection Plan shall include, where appropriate:

(i) a description of the catch, effort, and related biological, ecological, and environmental data required to undertake the evaluations described in paragraph 1(ii), and the date by which such data are to be reported annually to CCAMLR;

(ii) a plan for directing fishing effort during the exploratory phase to permit the acquisition of relevant data to evaluate the fishery potential and the ecological relationships among harvested, dependent and related populations and the likelihood of adverse impacts;

(iii) where appropriate, a plan for the acquisition of any other research data by fishing vessels, including activities that may require the cooperative activities of scientific observers and the vessel, as may be required for the Scientific Committee to evaluate the fishery potential and the ecological relationships among harvested, dependent and related populations and the likelihood of adverse impacts;

(iv) an evaluation of the time-scales involved in determining the responses of harvested, dependent and related populations to fishing activities.

4. The Commission shall annually determine a precautionary catch limit at a level not substantially above that necessary to obtain the information specified in the Data Collection Plan and required to undertake the evaluations described in paragraph 1(ii).

5. Any Member proposing to participate in an exploratory fishery shall:

(i) notify its intention to the Commission not less than three months in advance of the next regular meeting of the Commission. This notification shall include the information prescribed in paragraph 4 of Conservation Measure 10-02 in respect of vessels proposing to participate in the fishery, with the exception that the notification shall not be required to specify the information referred to in subparagraph 4(ii) of Conservation Measure 10-02. Members shall, to the extent practicable, also provide in their notification the additional information detailed in paragraph 5 of Conservation Measure 10-02 in respect to each fishing vessel notified. Members are not hereby exempted from their obligations under Conservation Measure 10-02 to submit any necessary updates to vessel and licence details within the deadline established therein as of issuance of the licence to the vessel concerned;

(ii) prepare and submit to CCAMLR by a specified date a Fishery Operations Plan for the fishing season, for review by the Scientific Committee and the Commission. The Fishery Operations Plan shall include as much of the following information as the Member is able to provide, so as to assist the Scientific Committee in its preparation of the Data Collection Plan:

(a) the nature of the exploratory fishery, including target species, methods of fishing, proposed region and maximum catch levels proposed for the forthcoming season;

(b) biological information on the target species from comprehensive research/survey cruises, such as distribution, abundance, demographic data, and information on stock identity;

(c) details of dependent and related species and the likelihood of their being affected by the proposed fishery;

(d) information from other fisheries in the region or similar fisheries elsewhere that may assist in the evaluation of potential yield;

(e) if the proposed fishery will be undertaken using bottom trawl gear, information on the known and anticipated impacts of this gear on vulnerable marine ecosystems, including benthos and benthic communities.

(iii) provide a commitment, in its proposal, to implement any Data Collection Plan developed by the Scientific Committee for the fishery.

6. On the basis of the information submitted in accordance with paragraph 5, and taking into account the advice and evaluation provided by the Scientific Committee and the Standing Committee on Implementation and Compliance (SCIC), the Commission shall annually consider adoption of relevant conservation measures for each exploratory fishery.

7. The Commission shall not consider a notification by a Member unless the information required by paragraph 5 has been submitted by the due date.

8. Notwithstanding paragraph 7, Members shall be entitled under Conservation Measure 10-02 to authorise participation in an exploratory fishery by a vessel other than that identified by the Commission in accordance with paragraph 5 if the notified vessel is prevented from participation due to legitimate operational or force majeure reasons. In such circumstances the Member concerned shall immediately inform the Secretariat thereof providing:

(i) full details of the intended replacement vessel(s) as prescribed in subparagraph 5(i);

(ii) a comprehensive account of the reasons justifying the replacement and any relevant supporting evidence or references. The Secretariat shall immediately circulate this information to all Members.

9. Members whose vessels participate in exploratory fisheries in accordance with paragraphs 5 and/or 8 shall:

(i) ensure that their vessels are equipped and configured so that they can comply with all relevant conservation measures;

(ii) ensure that each vessel carries a CCAMLR-designated scientific observer to collect data in accordance with the Data Collection Plan, and to assist in collecting biological and other relevant data;

(iii) annually (by the specified date) submit to CCAMLR the data specified by the Data Collection Plan;

(iv) be prohibited from continuing participation in the relevant exploratory fishing if the data specified in the Data Collection Plan have not been submitted to CCAMLR for the most recent season in which fishing occurred, until the relevant data have been submitted to CCAMLR and the Scientific Committee has been allowed an opportunity to review the data.

10. A vessel on either of the IUU Vessel Lists established under Conservation Measures 10-06 and 10-07 shall not be permitted to participate in exploratory fisheries.

11. Notifications for exploratory fisheries pursuant to the provisions above shall be subject to an administrative cost-recovery scheme and shall therefore be accompanied by a payment per vessel, the amount and refundable component of which shall be decided by the Commission, as well as the conditions and modalities according to which such payment shall be made.

¹ Except for waters adjacent to the Kerguelen and Crozet Islands.

² Except for waters adjacent to the Prince Edward Islands.

Conservation Measure 21-03 (2006) 1 2

Notifications of intent to participate in a krill fishery

(Species: krill; Area: all; Season: all; Gear: trawl)

All Contracting Parties intending to fish for krill in the Convention Area shall notify the Secretariat of their intent not less than four (4) months in advance of the regular annual meeting of the Commission, immediately prior to the season in which they intend to fish, using the pro forma in Annex 21-03/A.

¹ Except for waters adjacent to the Kerguelen and Crozet Islands.

² Except for waters adjacent to the Prince Edward Islands.

Conservation Measure 22-01 (1986)

Regulation on mesh size measurement (this conservation measure supplements Conservation Measure 22-02)

(Species: all; Area: all; Season: all; Gear: trawl)

Article 1

Description of Gauges

1. Gauges to be used for determining mesh sizes shall be 2 mm thick, flat, of durable material and capable of retaining their shape. They shall have either a series of parallel-edged sides connected by intermediate tapering edges with a taper of one to eight on each side, or only tapering edges with the taper defined above. They shall have a hole at the narrowest extremity.

2. Each gauge shall be inscribed on its face with the width in millimeters both on the parallelπsided section, if any, and on the tapering section. In the case of the latter the width shall be inscribed every 1 mm interval and the indication of the width shall appear at regular intervals.

Article 2

Use of the Gauge

1. The net shall be stretched in the direction of the long diagonal of the meshes.

2. A gauge as described in Article 1 shall be inserted by its narrowest extremity into the mesh opening in a direction perpendicular to the plane of the net.

3. The gauge shall be inserted into the mesh opening either with a manual force or using a weight or dynamometer, until it is stopped at the tapering edges by the resistance of the mesh.

Article 3

Selection of Meshes to be Measured

1. Meshes to be measured shall form a series of 20 consecutive meshes chosen in the direction of the long axis of the net.

2. Meshes less than 50 cm from lacings, ropes or codline shall not be measured. This distance shall be measured perpendicular to the lacings, ropes or codline with the net stretched in the direction of that measurement. Nor shall any mesh be measured which has been mended or broken or has attachments to the net fixed at that mesh.

3. By way of derogation from paragraph 1, the meshes to be measured need not be consecutive if the application of paragraph 2 prevents it.

4. Nets shall be measured only when wet and unfrozen.

Article 4

Measurement of Each Mesh

The size of each mesh shall be the width of the gauge at the point where the gauge is stopped, when using this gauge in accordance with Article 2.

Article 5

Determination of the Mesh Size of the Net

1. The mesh size of the net shall be the arithmetical mean in millimetres of the measurements of the total number of meshes selected and measured as provided for in Articles 3 and 4, the arithmetical mean being rounded up to the next millimetre.

2. The total number of meshes to be measured is provided for in Article 6.

Article 6

Sequence of Inspection Procedure

1. The inspector shall measure one series of 20 meshes, selected in accordance with Article 3, inserting the gauge manually without using a weight or dynamometer. The mesh size of the net shall then be determined in accordance with Article 5.

If the calculation of the mesh size shows that the mesh size does not appear to comply with the rules in force, then two additional series of 20 meshes selected in accordance with Article 3 shall be measured. The mesh size shall then be recalculated in accordance with Article 5, taking into account the 60 meshes already measured. Without prejudice to paragraph 2, this shall be the mesh size of the net.

2. If the captain of the vessel contests the mesh size determined in accordance with paragraph 1, such measurement will not be considered for the determination of the mesh size and the net shall be remeasured.

A weight or dynamometer attached to the gauge shall be used for remeasurement.

The choice of weight or dynamometer shall be at the discretion of the inspector.

The weight shall be fixed to the hole in the narrowest extremity of the gauge using a hook. The dynamometer may either be fixed to the hole in the narrowest extremity of the gauge or be applied at the largest extremity of the gauge.

The accuracy of the weight or dynamometer shall be certified by the appropriate national authority.

For nets of a mesh size of 35 mm or less as determined in accordance with paragraph 1, a force of 19.61 newtons (equivalent to a mass of 2 kilograms) shall be applied and for other nets, a force of 49.03 newtons (equivalent to a mass of 5 kilograms).

For the purposes of determining the mesh size in accordance with Article 5 when using a weight or dynamometer, one series of 20 meshes only shall be measured.

Conservation Measure 22-02 (1984)

Mesh size (as amended in accordance with Conservation Measure 22-03)

(Species: toothfish, target demersal; Area: all; Season: all; Gear: trawl)

1. The use of pelagic and bottom trawls having the mesh size in any part of a trawl less than indicated is prohibited for any directed fishery for:

Notothenia rossii, Dissostichus eleginoides: 120 mm.

Gobionotothen gibberifrons, Notothenia kempi, Lepidonotothen squamifrons: 80 mm.

2. It is prohibited to use any means or device which would obstruct or diminish the size of the meshes.

3. This conservation measure does not apply to fishing conducted for scientific research purposes.

4. This measure will apply as of 1 September 1985.

Conservation Measure 22-03 (1990) ¹

Mesh size for Champsocephalus gunnari

(Species: icefish; Area: all; Season: all; Gear: trawl)

1. The use of pelagic and bottom trawls having the mesh size in any part of a trawl less than 90 mm is prohibited for any directed fishery for Champsocephalus gunnari.

2. The mesh size specified above is defined in accordance with the regulations on mesh size measurement, Conservation Measure 22-01 (1986).

3. It is prohibited to use any means or device which would obstruct or diminish the size of the meshes.

4. This conservation measure does not apply to fishing conducted for scientific research purposes.

5. This measure will apply as of 1 November 1991.

6. Conservation Measure 22-02 is amended accordingly.

¹ Except for waters adjacent to the Kerguelen and Crozet Islands.

Conservation Measure 22-04 (2006)

Interim prohibition of deep-sea gillnetting

(Species: all; Area: all; Season: all; Gear: gillnet)

The Commission,

Concerned that there have been sightings of illegal, unreported and unregulated (IUU) vessels fishing in the Convention Area using gillnetting,

Also concerned that deep-sea gillnetting in the Convention Area and the associated ghost-fishing by lost or discarded nets has serious detrimental effects on the marine environment and many species of marine living resources,

Aware of the large quantities of non-target species, especially sharks and rays, that are killed by deep-sea gillnetting, and greatly concerned by the impacts on their populations,

Desiring to clearly indicate to the international community that the Commission considers deep-sea gillnetting to be a potentially destructive fishing method, and a practice which may undermine the ability of the Commission to achieve its conservation objective,

Noting that any application in respect of scientific research is subject to the requirements of Conservation Measure 24-01,

hereby adopts the following conservation measure in accordance with Article IX of the Convention:

1. The use of gillnets ¹ in the Convention Area, for purposes other than scientific research, is prohibited until such time as the Scientific Committee has investigated and reported on the potential impacts of this gear and the Commission has agreed on the basis of advice from the Scientific Committee that such a method may be used in the Convention Area.

2. The use of gillnets for scientific research in waters shallower than 100 metres shall be permitted subject to the requirements of Conservation Measure 24-01.

3. Proposals for the use of gillnets for scientific research in waters deeper than 100 metres shall be notified in advance to the Scientific Committee and be approved by the Commission before such research can commence.

4. Any vessel seeking to transit the Convention Area carrying gillnets must give advance notice of its intent, including the expected dates of its passage through the Convention Area, to the Secretariat. Any vessel in possession of gillnets within the Convention Area which has not given such advance notice shall be in breach of this conservation measure.

¹ Gillnets are strings of single, double or triple netting walls, vertical, near the surface, in midwater or on the bottom, in which fish will gill, entangle or enmesh. Gillnets have floats on the upper line (headrope) and, in general, weights on the ground-line (footrope). Gillnets consist of single or, less commonly, double or triple netting (known as ‘trammel net') mounted together on the same frame ropes. Several types of nets may be combined in one gear (for example, trammel net combined with gillnet). These nets can be used either alone or, as is more usual, in large numbers placed in line (‘fleets' of nets). The gear can be set, anchored to the bottom or left drifting, free or connected with the vessel.

Conservation Measure 22-05 (2006)

Interim restrictions on the use of bottom trawling gear in high-seas areas of the Convention Area for the fishing seasons 2006/07 and 2007/08

(Species: all; Area: high seas; Season: 2006/07, 2007/08; Gear: bottom trawl)

The Commission hereby adopts the following conservation measure in accordance with Article IX of the Convention:

1. The use of bottom trawling gear in the high-seas areas of the Convention Area is restricted to areas for which the Commission has conservation measures in force for bottom trawling gear.

2. In 2007, the Scientific Committee shall review the use of bottom trawling gear in high-seas areas of the Convention Area, including with respect to relevant criteria for determining what constitutes significant harm to benthos and benthic communities.

3. This conservation measure does not apply to the use of bottom trawling gear in conducting scientific research in the Convention Area.

4. This conservation measure shall be reviewed by the Commission in 2007 based on the best scientific evidence available.

Conservation Measure 23-01 (2005)

Five-day Catch and Effort Reporting System

(Species: all; Area: various; Season: all; Gear: various)

This conservation measure is adopted in accordance with Conservation Measure 31-01 where appropriate:

1. For the purposes of this Catch and Effort Reporting System the calendar month shall be divided into six reporting periods, viz: day 1 to day 5, day 6 to day 10, day 11 to day 15, day 16 to day 20, day 21 to day 25 and day 26 to the last day of the month. These reporting periods are hereinafter referred to as periods A, B, C, D, E and F.

2. At the end of each reporting period, each Contracting Party shall obtain from each of its vessels its total catch of all species, including by-catch species, and total days and hours fished for that period and shall, by facsimile or e-mail, transmit the aggregated catch and days and hours fished for its vessels. The catch and effort data shall reach the Executive Secretary not later than two (2) working days after the end of the reporting period. In the case of longline fisheries, the number of hooks shall also be reported. In the case of pot fisheries, the number of pots shall also be reported.

3. A report must be submitted by every Contracting Party taking part in the fishery for each reporting period for the duration of the fishery even if no catches are taken. A Contracting Party may authorise each of its vessels to report directly to the Secretariat.

4. Such reports shall specify the month and reporting period (A, B, C, D, E or F) to which each report refers.

5. Immediately after the deadline has passed for receipt of the reports for each period, the Executive Secretary shall notify all Contracting Parties engaged in fishing activities in the area, of the total catch taken during the reporting period, the total aggregate catch for the season to date together with an estimate of the date upon which the total allowable catch is likely to be reached for that season. In the case of exploratory fisheries, the Executive Secretary shall also notify the total aggregate catch for the season to date in each small-scale research unit (SSRU) together with an estimate of the date upon which the total allowable catch is likely to be reached in each SSRU for that season. Estimates shall be based on a projection forward of the trend in daily catch rates, obtained using linear regression techniques from a number of the most recent catch reports.

6. At the end of every six reporting periods, the Executive Secretary shall inform all Contracting Parties of the total catch taken during the six most recent reporting periods, the total aggregate catch for the season to date together with an estimate of the date upon which the total allowable catch is likely to be reached for that season.

7. If the estimated date of completion of the total allowable catch is within five days of the date on which the Secretariat received the report of the catches, the Executive Secretary shall inform all Contracting Parties that the fishery will close on that estimated day or on the day on which the report was received, whichever is the later. In the case of exploratory fisheries, if the estimated date of completion of the catch in any SSRU is within five days of the day on which the Secretariat received the report of catches, the Executive Secretary shall additionally inform all Contracting Parties, and their relevant fishing vessels if so authorised, that fishing in that SSRU will be prohibited from that calculated day, or on the day on which the report was received, whichever is the later.

8. Should a Contracting Party, or where a vessel is authorised to report directly to the Secretariat, the vessel, fail to transmit a report to the Executive Secretary in the appropriate form by the deadline specified in paragraph 2, the Executive Secretary shall issue a reminder to the Contracting Party. If at the end of a further two five-day periods, or, in the case of exploratory fisheries, a further one five-day period, those data have still not been provided, the Executive Secretary shall notify all Contracting Parties of the closure of the fishery to the vessel which has failed to supply the data as required and the Contracting Party concerned shall require the vessel to cease fishing. If the Executive Secretary is notified by the Contracting Party that the failure of the vessel to report is due to technical difficulties, the vessel may resume fishing once the report or explanation concerning the failure has been submitted.

Conservation Measure 23-02 (1993)

Ten-day Catch and Effort Reporting System

(Species: all; Area: various; Season: all; Gear: various)

This conservation measure is adopted in accordance with Conservation Measure 31-01 where appropriate:

1. For the purposes of this Catch and Effort Reporting System the calendar month shall be divided into three reporting periods, viz: day 1 to day 10, day 11 day 20, day 21 to the last day of the month. These reporting periods are hereinafter referred to as periods A, B, and C.

2. At the end of each reporting period, each Contracting Party shall obtain from each of its vessels its total catch and total days and hours fished for that period and shall, by cable, telex or facsimile, transmit the aggregated catch and days and hours fished for its vessels so as to reach the Executive Secretary not later than the end of the next reporting period. In the case of longline fisheries, the number of hooks shall also be reported.

3. A report must be submitted by every Contracting Party taking part in the fishery for each reporting period for the duration of the fishery even if no catches are taken.

4. The retained catch of all species and by-catch species, must be reported.

5. Such reports shall specify the month and reporting period (A, B and C) to which each report refers.

6. Immediately after the deadline has passed for receipt of the reports for each period, the Executive Secretary shall notify all Contracting Parties engaged in fishing activities in the area, of the total catch taken during the reporting period, the total aggregate catch for the season to date together with an estimate of the date upon which the total allowable catch is likely to be reached for that season. The estimate shall be based on a projection forward of the trend in daily catch rates, obtained using linear regression techniques from a number of the most recent catch reports.

7. At the end of every three reporting periods, the Executive Secretary shall inform all Contracting Parties of the total catch taken during the three most recent reporting periods, the total aggregate catch for the season to date together with an estimate of the date upon which the total allowable catch is likely to be reached for that season.

8. If the estimated date of completion of the TAC is within ten days of the date on which the Secretariat received the report of the catches, the Executive Secretary shall inform all Contracting Parties that the fishery will close on that estimated day or on the day on which the report was received, whichever is the later.

Conservation Measure 23-03 (1991)

Monthly Catch and Effort Reporting System

(Species: all; Area: various; Season: all; Gear: various)

This conservation measure is adopted in accordance with Conservation Measure 31-01 where appropriate:

1. For the purposes of this Catch and Effort Reporting System the reporting period shall be defined as one calendar month.

2. At the end of each reporting period, each Contracting Party shall obtain from each of its vessels its total catch and total days and hours fished for that period and shall, by cable or telex, transmit the aggregated catch and days and hours fished for its vessels so as to reach the Executive Secretary not later than the end of the next reporting period.

3. Such reports shall specify the month to which each report refers.

4. Immediately after the deadline has passed for receipt of the reports for each period, the Executive Secretary shall notify all Contracting Parties of the total catch taken during the reporting period, the total aggregate catch for the season to date together with an estimate of the date upon which the total allowable catch is likely to be reached for that season. The estimate shall be based on a projection forward of the trend in daily catch rates, obtained using linear regression techniques from a number of the most recent catch reports.

5. In the case of finfish, if the estimated date of completion of the TAC is within one reporting period of the date on which the Secretariat received the report of the catches, the Executive Secretary shall inform all Contracting Parties that the fishery will close on that estimated day or on the day on which the report was received, whichever is the later.

Conservation Measure 23-04 (2000) 1 2

Monthly Fine-Scale Catch and Effort Data Reporting System for Trawl, Longline and Pot Fisheries

(Species: all except krill; Area: all; Season: all; Gear: all)

The Commission hereby adopts the following conservation measure in accordance with Conservation Measure 31-01, where appropriate.

This conservation measure is invoked by the conservation measures to which it is attached.

1. Specification of ‘target species' and ‘by-catch species' referred to in this conservation measure shall be made in the conservation measure to which it is attached.

2. At the end of each month each Contracting Party shall obtain from each of its vessels the data required to complete the CCAMLR fine-scale catch and effort data form (trawl fisheries Form C1, longline fisheries Form C2, or pot fisheries Form C5). It shall transmit those data in the specified format to the Executive Secretary not later than the end of the following month.

3. The catch of all target and by-catch species must be reported by species.

4. The numbers of seabirds and marine mammals of each species caught and released or killed must be reported.

5. Should a Contracting Party fail to transmit the fine-scale catch and effort data to the Executive Secretary in the appropriate form by the deadline specified in paragraph 2, the Executive Secretary shall issue a reminder to the Contracting Party. If at the end of a further two months those data have still not been provided, the Executive Secretary shall notify all Contracting Parties of the closure of the fishery to vessels of the Contracting Party which has failed to supply the data as required.

¹ Except for waters adjacent to the Kerguelen and Crozet Islands.

² Except for waters adjacent to the Prince Edward Islands.

Conservation Measure 23-05 (2000)1 2

Monthly Fine-Scale Biological Data Reporting System for Trawl, Longline and Pot Fisheries

(Species: all except krill; Area: all; Season: all; Gear: all)

The Commission hereby adopts the following conservation measure in accordance with Conservation Measure 31-01, where appropriate.

This conservation measure is invoked by the conservation measures to which it is attached.

1. Specification of ‘target species’ and ‘by-catch species’ referred to in this conservation measure shall be made in the conservation measure to which it is attached.

2. At the end of each month each Contracting Party shall obtain from each of its vessels representative samples of length composition measurements of the target species and by-catch species from the fishery (Form B2). It shall transmit those data in the specified form to the Executive Secretary not later than the end of the following month.

3. For the purpose of implementing this conservation measure:

(i) length measurements of fish should be of total length to the nearest centimetre below;

(ii) a representative sample of length composition should be taken from each single fine-scale grid rectangle (0.5° latitude by 1° longitude) in which fishing occurs. In the event that the vessel moves from one fine-scale grid rectangle to another during the course of a month, then a separate length composition should be submitted for each fine-scale grid rectangle.

4. Should a Contracting Party fail to transmit the fine-scale length composition data to the Executive Secretary in the appropriate form by the deadline specified in paragraph 2, the Executive Secretary shall issue a reminder to the Contracting Party. If at the end of a further two months those data have still not been provided, the Executive Secretary shall notify all Contracting Parties of the closure of the fishery to vessels of the Contracting Party which has failed to supply the data as required.

¹Except for waters adjacent to the Kerguelen and Crozet Islands.

² Except for waters adjacent to the Prince Edward Islands.

Conservation Measure 23-06 (2005)

Data Reporting System for Krill Fisheries

(Species: krill; Area: all; Season: all; Gear: all)

1. This conservation measure is invoked by the conservation measures to which it is attached.

2. Catches shall be reported in accordance with the monthly catch and effort reporting system set out in Conservation Measure 23-03 according to the statistical areas, subareas, divisions or any other area or unit specified with catch limits in Conservation Measures 51-01, 51-02 and 51-03.

3. At the end of each fishing season each Contracting Party shall obtain from each of its vessels the haul-by-haul data required to complete the CCAMLR fine-scale catch and effort data form (trawl fisheries Form C1). It shall transmit those data in the specified format to the Executive Secretary not later than 1 April of the following year.

Conservation Measure 24-01 (2005)1 2

The application of conservation measures to scientific research

(Species: all; Area: all; Season: all; Gear: all)

This conservation measure governs the application of conservation measures to scientific research and is adopted in accordance with Article IX of the Convention.

1. General application:

(a) Catches taken by any vessel for research purposes will be considered as part of any catch limits in force for each species taken unless the catch limit in an area³ is set at zero.

(b) In the event of research being undertaken in an area³ with a zero catch limit, then the catches adopted under paragraphs 2 or 3 below shall be considered to be the catch limit for the season in that area. When such an area sits within a group of areas to which an overall catch limit applies, that overall catch limit shall not be exceeded including any catch taken for research purposes.

2. Application to Members taking less than 50 tonnes of finfish in a season including no more than the amounts specified for finfish taxa in Annex 24-01/B and less than 0.1% of a given catch limit for non-finfish taxa indicated in Annex 24-01/B:

(a) Any Member planning to use a vessel or vessels for research purposes when the estimated seasonal catch is as above shall notify the Secretariat of the Commission which in turn will notify all Members immediately, according to the format provided in Annex 24-01/A.

(b) Vessels to which the provisions of paragraph 2(a) above apply, shall be exempt from conservation measures relating to mesh size regulations, prohibition of types of gear, closed areas, fishing seasons and size limits, and reporting system requirements other than those specified in paragraph 4 below.

3. Application to Members taking more than 50 tonnes of finfish or more than the amounts specified for finfish taxa in Annex 24-01/B or more than 0.1% of a given catch limit for non-finfish taxa indicated in Annex 24-01/B:

(a) Any Member planning to use any type of vessel or vessels to conduct fishing for research purposes when the estimated seasonal catch is as above, shall notify the Commission and provide the opportunity for other Members to review and comment on its research plan. The plan shall be provided to the Secretariat for distribution to Members at least six months in advance of the planned starting date for the research. In the event of any request for a review of such plan being lodged within two months of its circulation, the Executive Secretary shall notify all Members and submit the plan to the Scientific Committee for review. Based on the submitted research plan and any advice provided by the appropriate working group, the Scientific Committee will provide advice to the Commission where the review process will be concluded. Until the review process is complete the planned fishing for research purposes shall not proceed.

(b) Research plans shall be reported in accordance with the standardised guidelines and formats adopted by the Scientific Committee, given in Annex 24-01/A.

4. Reporting requirements for these research activities are:

(a) The CCAMLR within-season five-day reporting system shall apply.

(b) All research catches shall be reported to CCAMLR as part of the annual STATLANT returns.

(c) A summary of the results of any research subject to the above provisions shall be provided to the Secretariat within 180 days of the completion of the research fishing. A full report shall be provided within 12 months.

(d) Catch, effort and biological data resulting from research fishing should be reported to the Secretariat according to the haul-by-haul reporting format for research vessels (C4).

¹ Except for waters adjacent to the Kerguelen and Crozet Islands.

² Except for waters adjacent to the Prince Edward Islands.

³ Any management area including subarea, division or SSRU, whichever is designated as a zero catch limit.

BILLING CODE 3510-22-P

BILLING CODE 3510-22-C

Conservation measure 24-02 (2005)

Longline weighting for seabird conservation

(Species: seabirds; Area: selected; Season: all; Gear: longline)

In respect of fisheries in Statistical Subareas 48.6, 88.1 and 88.2 and Statistical Divisions 58.4.1, 58.4.2, 58.4.3a, 58.4.3b and 58.5.2, paragraph 4 of Conservation Measure 25-02 shall not apply only where a vessel can demonstrate its ability to fully comply with one of the following protocols.

Protocol A (for vessels monitoring longline sink rate with Time-Depth Recorders (TDRs) and using longlines to which weights are manually attached):

A1. Prior to entry into force of the licence for this fishery and once per fishing season prior to entering the Convention Area, the vessel shall, under observation by a scientific observer:

(i) set a minimum of two longlines with a minimum of four TDRs on the middle one-third of each longline, where:

(a) for vessels using the auto longline system, each longline shall be at least 6,000 m in length;

(b) for vessels using the Spanish longline system, each longline shall be at least 16,000 m in length;

(c) for vessels using the Spanish longline system, with longlines less than 16,000 m in length, each longline shall be of the maximum length to be used by the vessel in the Convention Area;

(d) for vessels using a longline system other than an autoline or Spanish longline system, each longline shall be of the maximum length to be used by the vessel in the Convention Area.

(ii) randomise TDR placement on the longline, noting that all tests should be applied midway between weights;

(iii) calculate an individual sink rate for each TDR when returned to the vessel, where:

(a) the sink rate shall be measured as an average of the time taken for the longline to sink from the surface (0 m) to 15 m;

(b) this sink rate shall be at a minimum rate of 0.3 m/s;

(iv) if the minimum sink rate is not achieved at all eight sample points (four tests on two longlines), continue the testing until such time as a total of eight tests with a minimum sink rate of 0.3 m/s are recorded;

(v) all equipment and fishing gear used in the tests is to be to the same specifications as that to be used in the Convention Area.

A2. During fishing, for a vessel to be allowed to maintain the exemption to night-time setting requirements (paragraph 4 of Conservation Measure 25-02), regular longline sink monitoring shall be undertaken by the CCAMLR scientific observer. The vessel shall cooperate with the CCAMLR observer who shall:

(i) attempt to conduct a TDR test on one longline set every twenty-four hour period;

(ii) every seven days place at least four TDRs on a single longline to determine any sink rate variation along the longline;

(iii) randomise TDR placement on the longline, noting that all tests should be applied halfway between weights;

(iv) calculate an individual longline sink rate for each TDR when returned to the vessel;

(v) measure the longline sink rate as an average of the time taken for the longline to sink from the surface (0 m) to 15 m.

A3. The vessel shall:

(i) ensure that all longlines are weighted to achieve a minimum longline sink rate of 0.3 m/s at all times whilst operating under this exemption;

(ii) report daily to its national agency on the achievement of this target whilst operating under this exemption;

(iii) ensure that data collected from longline sink rate tests prior to entering the Convention Area and longline sink rate monitoring during fishing are recorded in the CCAMLR-approved format ¹ and submitted to the relevant national agency and CCAMLR Data Manager within two months of the vessel departing a fishery to which this measure applies.

Protocol B (for vessels monitoring longline sink rate with bottle tests and using longlines to which weights are manually attached):

B1. Prior to entry into force of the licence for this fishery and once per fishing season prior to entering the Convention Area, the vessel shall, under observation by a scientific observer:

(i) set a minimum of two longlines with a minimum of four bottle tests (see paragraphs B5 to B9) on the middle one-third of each longline, where:

(a) for vessels using the auto longline system, each longline shall be at least 6,000 m in length;

(b) for vessels using the Spanish longline system, each longline shall be at least 16,000 m in length;

(c) for vessels using the Spanish longline system, with longlines less than 16,000 m in length, each longline shall be of the maximum length to be used by the vessel in the Convention Area;

(d) for vessels using a longline system other than an autoline or Spanish longline system, each longline shall be of the maximum length to be used by the vessel in the Convention Area;

(ii) randomise bottle test placement on the longline, noting that all tests should be applied midway between weights;

(iii) calculate an individual sink rate for each bottle test at the time of the test, where:

(a) the sink rate shall be measured as the time taken for the longline to sink from the surface (0 m) to 10 m;

(b) this sink rate shall be at a minimum rate of 0.3 m/s;

(iv) if the minimum sink rate is not achieved at all eight sample points (four tests on two longlines), continue the testing until such time as a total of eight tests with a minimum sink rate of 0.3 m/s are recorded;

(v) all equipment and fishing gear used in the tests is to be to the same specifications as that to be used in the Convention Area.

B2. During fishing, for a vessel to be allowed to maintain the exemption to night-time setting requirements (paragraph 4 of Conservation Measure 25-02), regular longline sink rate monitoring shall be undertaken by the CCAMLR scientific observer. The vessel shall cooperate with the CCAMLR observer who shall:

(i) attempt to conduct a bottle test on one longline set every twenty-four hour period;

(ii) every seven days conduct at least four bottle tests on a single longline to determine any sink rate variation along the longline;

(iii) randomise bottle test placement on the longline, noting that all tests should be applied halfway between weights;

(iv) calculate an individual longline sink rate for each bottle test at the time of the test;

(v) measure the longline sink rate as the time taken for the longline to sink from the surface (0 m) to 10 m.

B3. The vessel shall:

(i) ensure that all longlines are weighted to achieve a minimum longline sink rate of 0.3 m/s at all times whilst operating under this exemption;

(ii) report daily to its national agency on the achievement of this target whilst operating under this exemption;

(iii) ensure that data collected from longline sink rate tests prior to entering the Convention Area and longline sink rate monitoring during fishing are recorded in the CCAMLR-approved format ¹ and submitted to the relevant national agency and CCAMLR Data Manager within two months of the vessel departing a fishery to which this measure applies.

B4. A bottle test is to be conducted as described below.

Bottle Set Up

B5. 10 m of 2 mm multifilament nylon snood twine, or equivalent, is securely attached to the neck of a 500-1,000 ml plastic bottle ² with a longline clip attached to the other end. The length measurement is taken from the attachment point (terminal end of the clip) to the neck of the bottle, and should be checked by the observer every few days.

B6. Reflective tape should be wrapped around the bottle to allow it to be observed in low light conditions and at night.

Test

B7. The bottle is emptied of water, the stopper is left open and the twine is wrapped around the body of the bottle for setting. The bottle with the encircled twine is attached to the longline,³ midway between weights (the attachment point).

B8. The observer records the time at which the attachment point enters the water as t1 in seconds. The time at which the bottle is observed to be pulled completely under is recorded as t2 in seconds.⁴ The result of the test is calculated as follows:

Longline sink rate = 10 / (t2 − t1).

B9. The result should be equal to or greater than 0.3 m/s. These data are to be recorded in the space provided in the electronic observer logbook.

Protocol C (for vessels monitoring longline sink rate with either (TDR) or bottle tests, and using internally weighted longlines with integrated weight of at least 50 g/m and designed to sink instantly with a linear profile at greater than 0.2 m/s with no external weights attached):

C1. Prior to entry into force of the licence for this fishery and once per fishing season prior to entering the Convention Area, the vessel shall, under observation by a scientific observer:

(i) set a minimum of two longlines with either a minimum of four TDRs, or a minimum of four bottle tests (see paragraphs B5 to B9) on the middle one-third of each longline, where:

(a) for vessels using the auto longline system, each longline shall be at least 6,000 m in length;

(b) for vessels using the Spanish longline system, each longline shall be at least 16,000 m in length;

(c) for vessels using the Spanish longline system, with longlines less than 16,000 m in length, each longline shall be of the maximum length to be used by the vessel in the Convention Area;

(d) for vessels using a longline system other than an autoline or Spanish longline system, each longline shall be of the maximum length to be used by the vessel in the Convention Area;

(ii) randomise TDR or bottle test placement on the longline;

(iii) calculate an individual sink rate for each TDR when returned to the vessel, or for each bottle test at the time of the test, where:

(a) the sink rate shall be measured as an average of the time taken for the longline to sink from the surface (0 m) to 15 m for TDRs and the time taken for the longline to sink from the surface (0 m) to 10 m for bottle tests;

(b) this sink rate shall be at a minimum rate of 0.2 m/s;

(iv) if the minimum sink rate is not achieved at all eight sample points (four tests on two longlines), continue the testing until such time as a total of eight tests with a minimum sink rate of 0.2 m/s are recorded;

(v) all equipment and fishing gear used in the tests is to be to the same specifications as that to be used in the Convention Area.

C2. During fishing, for a vessel to be allowed to maintain the exemption to night-time setting requirements (paragraph 4 of Conservation Measure 25-02), regular longline sink rate monitoring shall be undertaken by the CCAMLR scientific observer. The vessel shall cooperate with the CCAMLR observer who shall:

(i) attempt to conduct a TDR or bottle test on one longline set every twenty-four hour period;

(ii) every seven days conduct at least four TDR or bottle tests on a single longline to determine any sink rate variation along the longline;

(iii) randomise TDR or bottle test placement on the longline;

(iv) calculate an individual longline sink rate for each TDR when returned to the vessel or each bottle test at the time of the test;

(v) measure the longline sink rate for bottle tests as the time taken for the longline to sink from the surface (0 m) to 10 m, or for TDRs the average of the time taken for the longline to sink from the surface (0 m) to 15 m.

C3. The vessel shall:

(i) ensure that all longlines are set so as to achieve a minimum longline sink rate of 0.2 m/s at all times whilst operating under this exemption;

(ii) report daily to its national agency on the achievement of this target whilst operating under this exemption;

(iii) ensure that data collected from longline sink rate tests prior to entering the Convention Area and longline sink rate monitoring during fishing are recorded in the CCAMLR-approved format ¹ and submitted to the relevant national agency and CCAMLR Data Manager within two months of the vessel departing a fishery to which this measure applies.

¹ Included in the scientific observer electronic logbook.

² A plastic water bottle that has a ‘stopper’ is needed. The stopper of the bottle is left open so that the bottle will fill with water after being pulled under water. This allows the plastic bottle to be re-used rather than being crushed by water pressure.

³ On autolines attach to the backbone; on the Spanish longline system attach to the hookline.

⁴ Binoculars will make this process easier to view, especially in foul weather.

Conservation Measure 25-02 (2005) ¹ ²

Minimisation of the incidental mortality of seabirds in the course of longline fishing or longline fishing research in the Convention Area

(Species: seabirds; Area: all; Season: all; Gear: longline)

The Commission,

Noting the need to reduce the incidental mortality of seabirds during longline fishing by minimising their attraction to fishing vessels and by preventing them from attempting to seize baited hooks, particularly during the period when the lines are set,

Recognising that in certain subareas and divisions of the Convention Area there is also a high risk that seabirds will be caught during line hauling,

Adopts the following measures to reduce the possibility of incidental mortality of seabirds during longline fishing.

1. Fishing operations shall be conducted in such a way that hooklines ³ sink beyond the reach of seabirds as soon as possible after they are put in the water.

2. Vessels using autoline systems should add weights to the hookline or use integrated weight hooklines while deploying longlines. Integrated weight (IW) longlines of a minimum of 50 g/m or attachment to non-IW longlines of 5 kg weights at 50 to 60 m intervals are recommended.

3. Vessels using the Spanish method of longline fishing should release weights before line tension occurs; weights of at least 8.5 kg mass shall be used, spaced at intervals of no more than 40 m, or weights of at least 6 kg mass shall be used, spaced at intervals of no more than 20 m.

4. Longlines shall be set at night only (i.e., during the hours of darkness between the times of nautical twilight 4 5. During longline fishing at night, only the minimum ship's lights necessary for safety shall be used.

5. The dumping of offal is prohibited while longlines are being set. The dumping of offal during the haul shall be avoided. Any such discharge shall take place only on the opposite side of the vessel to that where longlines are hauled. For vessels or fisheries where there is not a requirement to retain offal on board the vessel, a system shall be implemented to remove fish hooks from offal and fish heads prior to discharge.

6. Vessels which are so configured that they lack on-board processing facilities or adequate capacity to retain offal on board, or the ability to discharge offal on the opposite side of the vessel to that where longlines are hauled, shall not be authorised to fish in the Convention Area.

7. A streamer line shall be deployed during longline setting to deter birds from approaching the hookline. Specifications of the streamer line and its method of deployment are given in the appendix to this measure.

8. A device designed to discourage birds from accessing baits during the haul of longlines shall be employed in those areas defined by CCAMLR as average-to-high or high (Level of Risk 4 or 5) in terms of risk of seabird by-catch. These areas are currently Statistical Subareas 48.3, 58.6 and 58.7 and Statistical Divisions 58.5.1 and 58.5.2.

9. Every effort should be made to ensure that birds captured alive during longlining are released alive and that wherever possible hooks are removed without jeopardising the life of the bird concerned.

10. Other variations in the design of mitigation measures may be tested on vessels carrying two observers, at least one appointed in accordance with the CCAMLR Scheme of International Scientific Observation, providing that all other elements of this conservation measure are complied with.⁶ Full proposals for any such testing must be notified to the Working Group on Fish Stock Assessment (WG-FSA) in advance of the fishing season in which the trials are proposed to be conducted.

¹ Except for waters adjacent to the Kerguelen and Crozet Islands.

² Except for waters adjacent to the Prince Edward Islands.

³ Hookline is defined as the groundline or mainline to which the baited hooks are attached by snoods.

⁴ The exact times of nautical twilight are set forth in the Nautical Almanac tables for the relevant latitude, local time and date. A copy of the algorithm for calculating these times is available from the CCAMLR Secretariat. All times, whether for ship operations or observer reporting, shall be referenced to GMT.

⁵ Wherever possible, setting of lines should be completed at least three hours before sunrise (to reduce loss of bait to/catches of white-chinned petrels).

⁶ The mitigation measures under test should be constructed and operated taking full account of the principles set out in WG-FSA-03/22 (the published version of which is available from the CCAMLR Secretariat and Web site); testing should be carried out independently of actual commercial fishing and in a manner consistent with the spirit of Conservation Measure 21-02.

Appendix to Conservation Measure 25-02

1. The aerial extent of the streamer line, which is the part of the line supporting the streamers, is the effective seabird deterrent component of a streamer line. Vessels are encouraged to optimise the aerial extent and ensure that it protects the hookline as far astern of the vessel as possible, even in crosswinds.

2. The streamer line shall be attached to the vessel such that it is suspended from a point a minimum of 7 m above the water at the stern on the windward side of the point where the hookline enters the water.

3. The streamer line shall be a minimum of 150 m in length and include an object towed at the seaward end to create tension to maximise aerial coverage. The object towed should be maintained directly behind the attachment point to the vessel such that in crosswinds the aerial extent of the streamer line is over the hookline.

4. Branched streamers, each comprising two strands of a minimum of 3 mm diameter brightly coloured plastic tubing ⁷ or cord, shall be attached no more than 5 m apart commencing 5 m from the point of attachment of the streamer line to the vessel and thereafter along the aerial extent of the line. Streamer length shall range between minimums of 6.5 m from the stern to 1 m for the seaward end. When a streamer line is fully deployed, the branched streamers should reach the sea surface in the absence of wind and swell. Swivels or a similar device should be placed in the streamer line in such a way as to prevent streamers being twisted around the streamer line. Each branched streamer may also have a swivel or other device at its attachment point to the streamer line to prevent fouling of individual streamers.

5. Vessels are encouraged to deploy a second streamer line such that streamer lines are towed from the point of attachment each side of the hookline. The leeward streamer line should be of similar specifications (in order to avoid entanglement the leeward streamer line may need to be shorter) and deployed from the leeward side of the hookline.

⁷ Plastic tubing should be of a type that is manufactured to be protected from ultraviolet radiation.

Conservation Measure 25-03 (2003) ¹

Minimisation of the incidental mortality of seabirds and marine mammals in the course of trawl fishing in the Convention Area

(Species: seabirds, marine mammals; Area: all; Season: all; Gear: trawl)

The Commission,

Noting the need to reduce the incidental mortality of or injury to seabirds and marine mammals from fishing operations,

Adopts the following measures to reduce the incidental mortality of or injury to seabirds and marine mammals during trawl fishing.

1. The use of net monitor cables on vessels in the CCAMLR Convention Area is prohibited.

2. Vessels operating within the Convention Area should at all times arrange the location and level of lighting so as to minimise illumination directed out from the vessel, consistent with the safe operation of the vessel.

3. The discharge of offal shall be prohibited during the shooting and hauling of trawl gear.

4. Nets should be cleaned prior to shooting to remove items that might attract birds.

5. Vessels should adopt shooting and hauling procedures that minimise the time that the net is lying on the surface of the water with the meshes slack. Net maintenance should, to the extent possible, not be carried out with the net in the water.

6. Vessels should be encouraged to develop gear configurations that will minimise the chance of birds encountering the parts of the net to which they are most vulnerable. This could include increasing the weighting or decreasing the buoyancy of the net so that it sinks faster, or placing coloured streamers or other devices over particular areas of the net where the mesh sizes create a particular danger to birds.

¹ Except for waters adjacent to the Kerguelen and Crozet Islands.

Conservation Measure 26-01 (2006)1 2

General environmental protection during fishing

(Species: all; Area: all; Season: all; Gear: all)

The Commission,

Concerned that certain activities associated with fishing may affect the Antarctic marine environment and that these activities have played a notable role in CCAMLR's efforts to minimise incidental mortality of non-target species such as seabirds and seals,

Noting that previous CCAMLR recommendations, and the provisions of the MARPOL 73/78 Convention and its Annexes, prohibit the disposal of all plastics at sea, in the CCAMLR Convention Area,

Noting various provisions of the Protocol on Environmental Protection to the Antarctic Treaty in particular its Annexes as well as related Recommendations and Measures of the Antarctic Treaty Consultative Meetings,

Recollecting that for many years advice from the Scientific Committee has indicated that significant numbers of Antarctic fur seals have been entangled and killed in plastic packaging bands in the Convention Area,

Noting the recommendations of CCAMLR and the provisions of the MARPOL Convention and its Annexes which prohibit the jettisoning of all plastics at sea and that entanglement of fur seals is still continuing,

Recognising that the bait boxes used on fishing vessels in particular and other packages in general need not be secured by plastic packaging bands because suitable alternatives exist,

Adopts the following Conservation Measure to minimise possible effects on the marine environment arising from fishing-related activities in the context of mitigating incidental mortality of non-target species and protecting the marine environment in accordance with Article IX of the Convention.

Disposal of Plastic Packaging Bands

1. The use on fishing vessels of plastic packaging bands to secure bait boxes shall be prohibited.

2. The use of other plastic packaging bands for other purposes on fishing vessels which do not use on-board incinerators (closed systems) shall be prohibited.

3. Any packaging bands, once removed from packages, shall be cut, so that they do not form a continuous loop and at the earliest opportunity burned in the on-board incinerator.

4. Any plastic residue shall be stored on board the vessel until reaching port and in no case discarded at sea.

Prohibition of Discharge in High-Latitude Fisheries

5. Vessels fishing south of 60°S shall be prohibited from dumping or discharging:

(i) Oil or fuel products or oily residues into the sea, except as permitted under Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots;

(vi) Offal; or

(vii) Incineration ash.

Translocation of Poultry

6. Live poultry or other living birds shall not be brought into areas south of 60°S, and any dressed poultry not consumed shall be removed from those areas.

¹ Except for waters adjacent to the Kerguelen and Crozet Islands.

² Except for waters adjacent to the Prince Edward Islands.

Conservation Measure 31-01 (1986)

Regulation of fishing around South Georgia (Statistical Subarea 48.3)

(Species: target; Area: 48.3; Season: all; Gear: all)

Without prejudice to other Conservation Measures adopted by the Commission, for species upon which fisheries are permitted around South Georgia (Statistical Subarea 48.3), the Commission shall, at its 1987 Meeting, adopt limitations on catch, or equivalent measures, binding for the 1987/88 season.

Such limitations of catch or equivalent measures shall be based upon the advice of the Scientific Committee, taking into account any data resulting from fishery surveys around South Georgia.

For each fishing season after 1987/88, the Commission shall establish such limitations or other measures, as necessary, around South Georgia on a similar basis at the meeting of the Commission immediately preceding that season.

Conservation Measure 32-01 (2001)

Fishing seasons

(Species: all; Area: all; Season: all; Gear: all)

The Commission hereby adopts the following Conservation Measure in accordance with Article IX of the Convention:

The fishing season for all Convention Area species is 1 December to 30 November of the following year, unless otherwise set in specific Conservation Measures.

Conservation Measure 32-02 (1998)

Prohibition of directed fishing for finfish in Statistical Subarea 48.1

(Species: target finfish; Area: 48.1; Season: all; Gear: all)

Taking of finfish, other than for scientific research purposes, is prohibited in Statistical Subarea 48.1 from 7 November 1998 until at least such time that a survey of stock biomass is carried out, its results reported to and analysed by the Working Group on Fish Stock Assessment and a decision that the fishery be reopened is made by the Commission based on the advice of the Scientific Committee.

Conservation Measure 32-03 (1998)

Prohibition of directed fishing for finfish in Statistical Subarea 48.2

(Species: target finfish; Area: 48.2; Season: all; Gear: all)

Taking of finfish, other than for scientific research purposes, is prohibited in Statistical Subarea48.2 from 7 November 1998 until at least such time that a survey of stock biomass is carried out, its results reported to and analysed by the Working Group on Fish Stock Assessment and a decision that the fishery be reopened is made by the Commission based on the advice of the Scientific Committee.

Conservation Measure 32-04 (1986) ¹

Prohibition of directed fishery on Notothenia rossii in the Peninsula area (Statistical Subarea 48.1)

(Species: rockcod; Area: 48.1; Season: all; Gear: all)

The Commission hereby adopts the following Conservation Measure in accordance with Article IX of the Convention:

Directed fishing on Notothenia rossii in the Peninsula area (Statistical Area 48.1) is prohibited.

By-catches of Notothenia rossii in fisheries directed to other species shall be kept to the level allowing the optimum recruitment to the stock.

¹ This Conservation Measure remains in force, but is currently encompassed within the provisions in Conservation Measure 32-02.

Conservation Measure 32-05 (1986) ¹

Prohibition of directed fishery on Notothenia rossii around South Orkneys (Statistical Subarea 48.2)

(Species: rockcod; Area: 48.2; Season: all; Gear: all)

The Commission hereby adopts the following Conservation Measure in accordance with Article IX of the Convention:

Directed fishing on Notothenia rossii around South Orkneys (Statistical Subarea 48.2) is prohibited.

By-catches of Notothenia rossii in fisheries directed to other species shall be kept to the level allowing the optimum recruitment to the stock.

¹ This Conservation Measure remains in force, but is currently encompassed within the provisions in Conservation Measure 32-03.

Conservation Measure 32-06 (1985)

Prohibition of directed fishery on Notothenia rossii around South Georgia (Statistical Subarea 48.3)

(Species: rockcod; Area: 48.3; Season: all; Gear: all)

1. Directed fishing on Notothenia rossii around South Georgia (Statistical Subarea 48.3) is prohibited.

2. By-catches of Notothenia rossii in fisheries directed to other species shall be kept to the level allowing the optimum recruitment to the stock.

Conservation Measure 32-07 (1999)

Prohibition of directed fishery on Gobionotothen gibberifrons, Chaenocephalus aceratus, Pseudochaenichthys georgianus, Lepidonotothen squamifrons and Patagonotothen guntheri in Statistical Subarea 48.3

(Species: target demersal; Area: 48.3; Season: all; Gear: trawl)

The Commission hereby adopts the following Conservation Measure in accordance with Conservation Measure 31-01:

Directed fishing on Gobionotothen gibberifrons, Chaenocephalus aceratus, Pseudochaenichthys georgianus, Lepidonotothen squamifrons and Patagonotothen guntheri in Statistical Subarea 48.3 is prohibited until a decision that the fishery be reopened is made by the Commission based on the advice of the Scientific Committee.

Conservation Measure 32-08 (1997)

Prohibition of directed fishing for Lepidonotothen squamifrons in Statistical Division 58.4.4 (Ob and Lena Banks)

(Species: rockcod; Area: 58.4.4; Season: all; Gear: all)

Directed fishing for Lepidonotothen squamifrons, other than for scientific research purposes, is prohibited in Statistical Division 58.4.4 from 8 November 1997 until at least such time that a survey of stock biomass is carried out, its results reported to and analysed by the Working Group on Fish Stock Assessment and a decision that the fishery be reopened is made by the Commission based on the advice of the Scientific Committee.

Conservation Measure 32-09 (2006)

Prohibition of directed fishing for Dissostichus spp. except in accordance with specific Conservation Measures in the 2006/07 season

(Species: toothfish; Area: 48.5; Season: 2006/07; Gear: all)

The Commission hereby adopts the following Conservation Measure in accordance with Article IX of the Convention:

Directed fishing for Dissostichus spp. in Statistical Subarea 48.5 is prohibited from 1 December 2006 to 30 November 2007.

Conservation Measure 32-10 (2002)

Prohibition of directed fishing for Dissostichus spp. in Statistical Division 58.4.4 outside areas of national jurisdiction

(Species: toothfish; Area: 58.4.4; Season: all; Gear: all)

Taking of Dissostichus spp., other than for scientific research purposes in accordance with Conservation Measure 24-01, is prohibited in Statistical Division 58.4.4 from 1 December 2002. This prohibition shall apply until at least such time that a survey of the Dissostichus spp. stock in this division is carried out, its results reported to and analysed by the Working Group on Fish Stock Assessment and a decision that the fishery be reopened is made by the Commission based on the advice of the Scientific Committee.

Conservation Measure 32-11 (2002) 1 2

Prohibition of directed fishing for Dissostichus eleginoides in Statistical Subarea 58.6

(Species: toothfish; Area: 58.6; Season: all; Gear: all)

Taking of Dissostichus eleginoides, other than for scientific research purposes in accordance with Conservation Measure 24-01, is prohibited in Statistical Subarea 58.6 from 1 December 2002. This prohibition shall apply until at least such time that a survey of the Dissostichus eleginoides stock in this subarea is carried out, its results reported to and analysed by the Working Group on Fish Stock Assessment and a decision that the fishery be reopened is made by the Commission based on the advice of the Scientific Committee.

¹ Except for waters adjacent to the Prince Edward Islands.

² Except for waters adjacent to the Crozet Islands.

Conservation Measure 32-12 (1998) ¹

Prohibition of directed fishing for Dissostichus eleginoides in Statistical Subarea 58.7

(Species: toothfish; Area: 58.7; Season: all; Gear: all)

Taking of Dissostichus eleginoides, other than for scientific research purposes in accordance with Conservation Measure 24-01, is prohibited in Statistical Subarea 58.7 from 7 November 1998. This prohibition shall apply until at least such time that a survey of the Dissostichus eleginoides stock in this subarea is carried out, its results reported to and analysed by the Working Group on Fish Stock Assessment and a decision that the fishery be reopened is made by the Commission based on the advice of the Scientific Committee.

¹ Except for waters adjacent to the Prince Edward Islands.

Conservation Measure 32-13 (2003)

Prohibition of directed fishing for Dissostichus eleginoides in Statistical Division 58.5.1 outside areas of national jurisdiction

(Species: toothfish; Area: 58.5.1; Season: all; Gear: all)

Taking of Dissostichus eleginoides, other than for scientific research purposes in accordance with Conservation Measure 24-01, is prohibited in Statistical Division 58.5.1 outside areas of national jurisdiction from 1 December 2003. This prohibition shall apply until at least such time that a survey of the Dissostichus eleginoides stock in this division is carried out, its results reported to and analysed by the Working Group on Fish Stock Assessment (WG-FSA) and a decision that the fishery be reopened is made by the Commission based on the advice of the Scientific Committee.

Conservation Measure 32-14 (2003)

Prohibition of directed fishing for Dissostichus eleginoides in Statistical Division 58.5.2 east of 79°20′E and outside the EEZ to the west of 79°20′E

(Species: toothfish; Area: 58.5.2; Season: all; Gear: all)

Taking of Dissostichus eleginoides, other than for scientific research purposes in accordance with Conservation Measure 24-01, is prohibited in Statistical Division 58.5.2 east of 79°20′E and outside the EEZ to the west of 79°20′E from 1 December 2003. This prohibition shall apply until at least such time that a survey of the Dissostichus eleginoides stock in this division is carried out, its results reported to and analysed by the Working Group on Fish Stock Assessment (WG-FSA) and a decision that the fishery be reopened is made by the Commission based on the advice of the Scientific Committee.

Conservation Measure 32-15 (2003)

Prohibition of directed fishing for Dissostichus spp. in Statistical Subarea 88.2 north of 65°S

(Species: toothfish; Area: 88.2; Season: all; Gear: all)

Taking of Dissostichus spp., other than for scientific research purposes in accordance with Conservation Measure 24-01, is prohibited in Statistical Subarea 88.2 north of 65°S from 1 December 2003. This prohibition shall apply until at least such time that a survey of the Dissostichus spp. stock in this subarea is carried out, its results reported to and analysed by the Working Group on Fish Stock Assessment (WG-FSA) and a decision that the fishery be reopened is made by the Commission based on the advice of the Scientific Committee.

Conservation Measure 32-16 (2003)

Prohibition of directed fishing for Dissostichus spp. in Statistical Subarea 88.3

(Species: toothfish; Area: 88.3; Season: all; Gear: all)

Taking of Dissostichus spp., other than for scientific research purposes in accordance with Conservation Measure 24-01, is prohibited in Statistical Subarea 88.3 from 1 December 2003. This prohibition shall apply until at least such time that a survey of the Dissostichus spp. stock in this subarea is carried out, its results reported to and analysed by the Working Group on Fish Stock Assessment (WG-FSA) and a decision that the fishery be reopened is made by the Commission based on the advice of the Scientific Committee.

Conservation Measure 32-17 (2003)

Prohibition of directed fishing for Electrona carlsbergi in Statistical Subarea 48.3

(Species: lanternfish; Area: 48.3; Season: all; Gear: all)

Taking of Electrona carlsbergi, other than for scientific research purposes in accordance with Conservation Measure 24-01, is prohibited in Statistical Subarea 48.3 from 1 December 2003. This prohibition shall apply until at least such time that a survey of the Electrona carlsbergi stock in this subarea is carried out, its results reported to and analysed by the Working Group on Fish Stock Assessment (WG-FSA) and a decision that the fishery be reopened is made by the Commission based on the advice of the Scientific Committee; or a research plan for an exploratory fishery is submitted and approved by the Scientific Committee consistent with Conservation Measure 24-01.

Conservation Measure 32-18 (2006)

Conservation of sharks

(Species: sharks; Area: all; Season: all; Gear: all)

The Commission,

Recalling the aims of the Convention, and particularly its Article IX,

Recognising that the Food and Agriculture Organization of the United Nations (FAO), in its International Plan of Action for the Conservation and Management of Sharks, requests that States, within the framework of their respective competencies and consistent with international law, should strive to cooperate through regional fisheries management organisations with a view to ensuring the sustainability of shark stocks,

Mindful of the fact that a large number of sharks are caught in fisheries operating within the Convention Area and that such catch may be unsustainable,

Bearing in mind, furthermore, that, pending the collection of information on the status of shark stocks, it would be appropriate to restrict and, if possible, to reduce removals from these stocks,

Recognising the need to collect data on catches, discards and trade in order to manage and conserve sharks, hereby adopts the following Conservation Measure, in accordance with Article IX of the Convention:

1. Directed fishing on shark species in the Convention Area, for purposes other than scientific research, is prohibited. This prohibition shall apply until such time as the Scientific Committee has investigated and reported on the potential impacts of this fishing activity and the Commission has agreed on the basis of advice from the Scientific Committee that such fishing may occur in the Convention Area.

2. Any by-catch of shark, especially juveniles and gravid females, taken accidentally in other fisheries, shall, as far as possible, be released alive.

Conservation Measure 33-01 (1995)

Limitation of the by-catch of Gobionotothen gibberifrons, Chaenocephalus aceratus, Pseudochaenichthys georgianus, Notothenia rossii and Lepidonotothen squamifrons in Statistical Subarea 48.3

(Species: bycatch; Area: 48.3; Season: all; Gear: all)

This Conservation Measure is adopted in accordance with Conservation Measure 31-01: In any directed fishery in Statistical Subarea 48.3 in any fishing season, the by-catch of Gobionotothen gibberifrons shall not exceed 1,470 tonnes; the by-catch of Chaenocephalus aceratus shall not exceed 2,200 tonnes; and the by-catch of Pseudochaenichthys georgianus, Notothenia rossii and Lepidonotothen squamifrons shall not exceed 300 tonnes each. These limits shall be kept under review by the Commission taking into account the advice of the Scientific Committee.

Conservation Measure 33-02 (2006)

Limitation of by-catch in Statistical Division 58.5.2 in the 2006/07 season

(Species: by-catch; Area: 58.5.2; Season: 2006/07; Gear: all)

1. There shall be no directed fishing for any species other than Dissostichus eleginoides and Champsocephalus gunnari in Statistical Division 58.5.2 in the 2006/07 fishing season.

2. In directed fisheries in Statistical Division 58.5.2 in the 2006/07 season, the by-catch of Channichthys rhinoceratus shall not exceed 150 tonnes, the by-catch of Lepidonotothen squamifrons shall not exceed 80 tonnes, the by-catch of Macrourus spp. shall not exceed 360 tonnes and the by-catch of skates and rays shall not exceed 120 tonnes. For the purposes of this measure, ‘Macrourus spp.’ and ‘skates and rays’ should each be counted as a single species.

3. The by-catch of any fish species not mentioned in paragraph 2, and for which there is no other catch limit in force, shall not exceed 50 tonnes in Statistical Division 58.5.2.

4. If, in the course of a directed fishery, the by-catch in any one haul of Channichthys rhinoceratus, Lepidonotothen squamifrons, Macrourus spp., Somniosus spp. or skates and rays is equal to, or greater than 2 tonnes, then the fishing vessel shall not fish using that method of fishing at any point within 5 n miles ¹ of the location where the by-catch exceeded 2-tonnes for a period of at least five days ². The location where the by-catch exceeded 2-tonnes is defined as the path ³ followed by the fishing vessel.

5. If, in the course of a directed fishery, the by-catch in any one haul of any other by-catch species for which by-catch limitations apply under this Conservation Measure is equal to, or greater than 1 tonne, then the fishing vessel shall not fish using that method of fishing at any point within 5 n miles ¹ of the location where the by-catch exceeded 1 tonne for a period of at least five days ². The location where the by-catch exceeded 1 tonne is defined as the path ³ followed by the fishing vessel.

¹ This provision concerning the minimum distance separating fishing locations is adopted pending the adoption of a more appropriate definition of a fishing location by the Commission.

² The specified period is adopted in accordance with the reporting period specified in Conservation Measure 23-01, pending the adoption of a more appropriate period by the Commission.

³ For a trawl the path is defined from the point at which the fishing gear was first deployed from the fishing vessel to the point at which the fishing gear was retrieved by the fishing vessel. For a longline or a pot, the path is defined from the point at which the first anchor of a set was deployed to the point at which the last anchor of that set was deployed.

Conservation Measure 33-03 (2006) ¹ ²

Limitation of by-catch in new and exploratory fisheries in the 2006/07 season

(Species: by-catch; Area: various; Season: 2006/07; Gear: all)

1. This Conservation Measure applies to new and exploratory fisheries in all areas containing small-scale research units (SSRUs) in the 2006/07 season, except where specific by-catch Conservation Measures apply.

2. The catch limits for all by-catch species are set out in Annex 33-03/A. Within these catch limits, the total catch of by-catch species in any SSRU or combination of SSRUs as defined in relevant Conservation Measures shall not exceed the following limits:

• Skates and rays 5% of the catch limit of Dissostichus spp. or 50 tonnes whichever is greater;

• Macrourus spp. 16% of the catch limit for Dissostichus spp. or 20 tonnes, whichever is greater;

• All other species combined 20 tonnes.

3. For the purposes of this measure ‘Macrourus spp.’ and ‘skates and rays’ should each be counted as a single species.

4. If the by-catch of any one species is equal to or greater than 1 tonne in any one haul or set, then the fishing vessel shall move to another location at least 5 n miles ³ distant. The fishing vessel shall not return to any point within 5 n miles of the location where the by-catch exceeded 1 tonne for a period of at least five days ⁴. The location where the by-catch exceeded 1 tonne is defined as the path ⁵ followed by the fishing vessel.

5. If the catch of Macrourus spp. taken by a single vessel in any two 10-day periods ⁶ in a single SSRU exceeds 16% of the catch of Dissostichus spp. by that vessel in that SSRU in those periods, the vessel shall cease fishing in that SSRU for the remainder of the season.

¹ Except for waters adjacent to the Kerguelen and Crozet Islands.

² Except for waters adjacent to the Prince Edward Islands.

³ This provision concerning the minimum distance separating fishing locations is adopted pending the adoption of a more appropriate definition of a fishing location by the Commission.

⁴ The specified period is adopted in accordance with the reporting period specified in Conservation Measure 23-01, pending the adoption of a more appropriate period by the Commission.

⁵ For a trawl the path is defined from the point at which the fishing gear was first deployed from the fishing vessel to the point at which the fishing gear was retrieved by the fishing vessel. For a longline the path is defined from the point at which the first anchor of a set was deployed to the point at which the last anchor of that set was deployed.

⁶ A 10-day period is defined as day 1 to day 10, day 11 to day 20, or day 21 to the last day of the month.

Annex 33-03/A

Table 1.—By-Catch Limits for New and Exploratory Fisheries in 2006/07
Subarea/ division | Region | Dissostichus spp. catch limit (tonnes per region) | Skates and rays (tonnes per region) | By-catch catch limit Macrourus spp. (tonnes per region) | Other species (tonnes per SSRU)
48.6 | north of 60° S | 455 | 50 | 73 | 20
| south of 60° S | 455 | 50 | 73 | 20
58.4.1 | whole division | 600 | 50 | 96 | 20
58.4.2 | whole division | 780 | 50 | 124 | 20
58.4.3a | whole division | 250 | 50 | 26 | 20
58.4.3b | whole division | 300 | 50 | 159 | 20
88.1 | whole subarea | 3032 | 152 | 485 | 20
88.2 | south of 65° S | 547 | 50 | 88 | 20
Region: As defined in column 2 of this table.

Rules for catch limits for by-catch species:

Skates and rays: 5% of the catch limit for Dissostichus spp. or 50 tonnes, which ever is greatest (SC-CAMLR-XXI, paragraph 5.76).

Macrourus spp.: 16% of the catch limit for Dissostichus spp., except in Divisions 58.4.3a and 58.4.3b (SC-CAMLR-XXII, paragraph 4.207).

Other species: 20 tonnes per SSRU.

Conservation Measure 41-01 (2006) 1 2

General measures for exploratory fisheries for Dissostichus spp. in the Convention Area in the 2006/07 season

(Species: toothfish; Area: various; Season: 2006/07; Gear: longline, trawl)

The Commission hereby adopts the following Conservation Measure:

1. This Conservation Measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any small-scale research unit (SSRU) shall cease when the reported catch reaches the specified catch limit ³ and that SSRU shall be closed to fishing for the remainder of the season.

3. In order to give effect to paragraph 2 above:

(i) The precise geographic position of a haul in trawl fisheries will be determined by the mid-point of the path between the start-point and end-point of the haul for the purposes of catch and effort reporting;

(ii) The precise geographic position of a haul/set in longline fisheries will be determined by the centre-point of the line or lines deployed for the purposes of catch and effort reporting;

(iii) The vessel will be deemed to be fishing in any SSRU from the beginning of the setting process until the completion of the hauling of all lines;

(iv) Catch and effort information for each species by SSRU shall be reported to the Executive Secretary every five days using the Five-day Catch and Effort Reporting System set out in Conservation Measure 23-01;

(v) The Secretariat shall notify Contracting Parties participating in these fisheries when the total catch for Dissostichus eleginoides and Dissostichus mawsoni combined in any SSRU is likely to reach the specified catch limit, and of the closure of that SSRU when that limit is reached. Upon such notification from the Secretariat, all fishing gear shall be hauled immediately. No part of a trawl path may lie within a closed SSRU and no part of a longline may be set within a closed SSRU.

4. The by-catch in each exploratory fishery shall be regulated as in Conservation Measure 33-03.

5. The total number and weight of Dissostichus eleginoides and Dissostichus mawsoni discarded, including those with the ‘jellymeat’ condition, shall be reported.

6. Each vessel participating in the exploratory fisheries for Dissostichus spp. during the 2006/07 season shall have one scientific observer appointed in accordance with the CCAMLR Scheme of International Scientific Observation, and where possible one additional scientific observer, on board throughout all fishing activities within the fishing season.

7. The Data Collection Plan (Annex 41-01/A), Research Plan (Annex 41-01/B) and Tagging Program (Annex 41-01/C) shall be implemented. Data collected pursuant to the Data Collection and Research Plans for the period up to 31 August 2007 shall be reported to CCAMLR by 30 September 2007 so that the data will be available to the meeting of the Working Group on Fish Stock Assessment (WG-FSA) in 2007. Such data taken after 31 August 2007 shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

¹ Except for waters adjacent to the Kerguelen and Crozet Islands.

² Except for waters adjacent to the Prince Edward Islands.

³ Unless otherwise specified, the catch limit for Dissostichus spp. shall be 100 tonnes in any SSRU except in respect of Subarea 88.2.

Annex 41-01/A

Data Collection Plan for Exploratory Fisheries

1. All vessels will comply with the Five-day Catch and Effort Reporting System (Conservation Measure 23-01) and Monthly Fine-scale Catch, Effort and Biological Data Reporting Systems (Conservation Measures 23-04 and 23-05).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms;

(viii) Observation on occurrence and incidental mortality of seabirds and mammals in relation to fishing operations.

3. Data specific to longline fisheries will be collected. These include:

(i) Position and sea depth at each end of every line in a haul;

(ii) Setting, soak and hauling times;

(iii) Number and species of fish lost at surface;

(iv) Number of hooks set;

(v) Bait type;

(vi) Baiting success (%);

(vii) Hook type;

(viii) Sea and cloud conditions and phase of the moon at the time of setting the lines.

Annex 41-01/B

Research Plan for Exploratory Fisheries

1. Activities under this research plan shall not be exempted from any Conservation Measure in force.

2. This plan applies to all small-scale research units (SSRUs) as defined in Table 1 and Figure 1.

3. Except when fishing in Statistical Subareas 88.1 and 88.2 (see paragraph 5), any vessel undertaking prospecting or commercial fishing in any SSRU must undertake the following research activities:

(i) On first entry into an SSRU, the first 10 hauls, designated ‘first series’, whether by trawl or longline, shall be designated ‘research hauls’ and must satisfy the criteria set out in paragraph 4.

(ii) The next 10 hauls, or 10 tonnes of catch for longlining, whichever trigger level is achieved first, or 10 tonnes of catch for trawling, are designated the ‘second series’. Hauls in the second series can, at the discretion of the master, be fished as part of normal exploratory fishing. However, provided they satisfy the requirements of paragraph 4, these hauls can also be designated as research hauls.

(iii) On completion of the first and second series of hauls, if the master wishes to continue to fish within the SSRU, the vessel must undertake a ‘third series’ which will result in a total of 20 research hauls being made in all three series. The third series of hauls shall be completed during the same visit as the first and second series in an SSRU.

(iv) On completion of 20 research hauls the vessel may continue to fish within the SSRU.

4. To be designated as a research haul:

(i) Each research haul must be separated by not less than 5 n miles from any other research haul, distance to be measured from the geographical mid-point of each research haul;

(ii) Each haul shall comprise: for longlines, at least 3,500 hooks and no more than 10,000 hooks; this may comprise a number of separate lines set in the same location; for trawls, at least 30 minutes effective fishing time as defined in the Draft Manual for Bottom Trawl Surveys in the Convention Area (SC-CAMLR-XI, Annex 5, Appendix H, Attachment E, paragraph 4);

(iii) Each haul of a longline shall have a soak time of not less than six hours, measured from the time of completion of the setting process to the beginning of the hauling process.

5. In the exploratory fisheries in Subareas 88.1 and 88.2, all data specified in the Data Collection Plan (Annex 41-01/A) of this Conservation Measure shall be collected for every haul; all fish of each Dissostichus species in a haul (up to a maximum of 35 fish) are to be measured and randomly sampled for biological studies (paragraphs 2(iv) to (vi) of Annex 41-01/A).

6. In all other exploratory fisheries, all data specified in the Data Collection Plan (Annex 41-01/A) of this Conservation Measure shall be collected for every research haul; in particular, all fish in a research haul up to 100 fish are to be measured and at least 30 fish sampled for biological studies (paragraphs 2(iv) to (vi) of Annex 41-01/A). Where more than 100 fish are caught, a method for randomly subsampling the fish should be applied.

Table 1.—Description of Small-Scale Research Units (SSRUs)
[see also Figure 1]
Region | SSRU | Boundary line
48.6 | A | From 50° S 20° W, due east to 30° E, due south to 60° S, due west to 20° W, due north to 50° S.
| B | From 60° S 20° W, due east to 10° W, due south to coast, westward along coast to 20° W, due north to 60° S.
| C | From 60° S 10° W, due east to 0° longitude, due south to coast, westward along coast to 10° W, due north to 60° S.
| D | From 60° S 0° longitude, due east to 10° E, due south to coast, westward along coast to 0° longitude, due north to 60° S.
| E | From 60° S 10° E, due east to 20° E, due south to coast, westward along coast to 10° E, due north to 60° S.
| F | From 60° S 20° E, due east to 30° E, due south to coast, westward along coast to 20° E, due north to 60° S.
58.4.1 | A | From 55° S 86° E, due east to 150° E, due south to 60° S, due west to 86° E, due north to 55° S.
| B | From 60° S 86° E, due east to 90° E, due south to coast, westward along coast to 80° E, due north to 64° S, due east to 86° E, due north to 60° S.
| C | From 60° S 90° E, due east to 100° E, due south to coast, westward along coast to 90° E, due north to 60° S.
| D | From 60° S 100° E, due east to 110° E, due south to coast, westward along coast to 100° E, due north to 60° S.
| E | From 60° S 110° E, due east to 120° E, due south to coast, westward along coast to 110° E, due north to 60° S.
| F | From 60° S 120° E, due east to 130° E, due south to coast, westward along coast to 120° E, due north to 60° S.
| G | From 60° S 130° E, due east to 140° E, due south to coast, westward along coast to 130° E, due north to 60° S.
| H | From 60° S 140° E, due east to 150° E, due south to coast, westward along coast to 140° E, due north to 60° S.
58.4.2 | A | From 62° S 30° E, due east to 40° E, due south to coast, westward along coast to 30° E, due north to 62° S.
| B | From 62° S 40° E, due east to 50° E, due south to coast, westward along coast to 40° E, due north to 62° S.
| C | From 62° S 50° E, due east to 60° E, due south to coast, westward along coast to 50° E, due north to 62° S.
| D | From 62° S 60° E, due east to 70° E, due south to coast, westward along coast to 60° E, due north to 62° S.
| E | From 62° S 70° E, due east to 73° 10'E, due south to 64° S, due east to 80° E, due south to coast, westward along coast to 70° E, due north to 62° S.
58.4.3a | A | Whole division, from 56° S 60° E, due east to 73° 10'E, due south to 62° S, due west to 60° E, due north to 56° S.
58.4.3b | A | Whole division, from 56° S 73° 10'E, due east to 80° E, due north to 55° S, due east to 86° E, south to 64° S, due west to 73° 10'E, due north to 56° S.
58.4.4 | A | From 51° S 40° E, due east to 42° E, due south to 54° S, due west to 40° E, due north to 51° S.
| B | From 51° S 42° E, due east to 46° E, due south to 54° S, due west to 42° E, due north to 51° S.
| C | From 51° S 46° E, due east to 50° E, due south to 54° S, due west to 46° E, due north to 51° S.
| D | Whole division excluding SSRUs A, B, C, and with outer boundary from 50° S 30° E, due east to 60° E, due south to 62° S, due west to 30° E, due north to 50° S.
58.6 | A | From 45° S 40° E, due east to 44° E, due south to 48° S, due west to 40° E, due north to 45° S.
| B | From 45° S 44° E, due east to 48° E, due south to 48° S, due west to 44° E, due north to 45° S.
| C | From 45° S 48° E, due east to 51° E, due south to 48° S, due west to 48° E, due north to 45° S.
| D | From 45° S 51° E, due east to 54° E, due south to 48° S, due west to 51° E, due north to 45° S.
58.7 | A | From 45° S 37° E, due east to 40° E, due south to 48° S, due west to 37° E, due north to 45° S.
88.1 | A | From 60° S 150° E, due east to 170° E, due south to 65° S, due west to 150° E, due north to 60° S.
| B | From 60° S 170° E, due east to 179° E, due south to 66° 40'S, due west to 170° E, due north to 60° S.
| C | From 60° S 179° E, due east to 170° W, due south to 70° S, due west to 178° W, due north to 66° 40'S, due west to 179° E, due north to 60° S.
| D | From 65° S 150° E, due east to 160° E, due south to coast, westward along coast to 150° E, due north to 65° S.
| E | From 65° S 160° E, due east to 170° E, due south to 68° 30'S, due west to 160° E, due north to 65° S.
| F | From 68° 30'S 160° E, due east to 170° E, due south to coast, westward along coast to 160° E, due north to 68° 30'S.
| G | From 66° 40'S 170° E, due east to 178° W, due south to 70° S, due west to 178° 50'E, due south to 70° 50'S, due west to 170° E, due north to 66° 40'S.
| H | From 70° 50'S 170° E, due east to 178° 50'E, due south to 73° S, due west to coast, northward along coast to 170° E, due north to 70° 50'S.
| I | From 70° S 178° 50'E, due east to 170° W, due south to 73° S, due west to 178° 50'E, due north to 70° S.
| J | From 73° S at coast near 169° 30'E, due east to 178° 50'E, due south to 80° S, due west to coast, northward along coast to 73° S.
| K | From 73° S 178° 50'E, due east to 170° W, due south to 76° S, due west to 178° 50'E, due north to 73° S.
| L | From 76° S 178° 50'E, due east to 170° W, due south to 80° S, due west to 178° 50'E, due north to 76° S.
88.2 | A | From 60° S 170° W, due east to 160° W, due south to coast, westward along coast to 170° W, due north to 60° S.
| B | From 60° S 160° W, due east to 150° W, due south to coast, westward along coast to 160° W, due north to 60° S.
| C | From 60° S 150° W, due east to 140° W, due south to coast, westward along coast to 150° W, due north to 60° S.
| D | From 60° S 140° W, due east to 130° W, due south to coast, westward along coast to 140° W, due north to 60° S.
| E | From 60° S 130° W, due east to 120° W, due south to coast, westward along coast to 130° W, due north to 60° S.
| F | From 60° S 120° W, due east to 110° W, due south to coast, westward along coast to 120° W, due north to 60° S.
| G | From 60° S 110° W, due east to 105° W, due south to coast, westward along coast to 110° W, due north to 60° S.
88.3 | A | From 60° S 105° W, due east to 95° W, due south to coast, westward along coast to 105° W, due north to 60° S.
| B | From 60° S 95° W, due east to 85° W, due south to coast, westward along coast to 95° W, due north to 60° S.
| C | From 60° S 85° W, due east to 75° W, due south to coast, westward along coast to 85° W, due north to 60° S.
| D | From 60° S 75° W, due east to 70° W, due south to coast, westward along coast to 75° W, due north to 60° S.

Annex 41-01/C

Tagging Program for Dissostichus SPP. in Exploratory Fisheries

1. The responsibility for ensuring tagging, tag recovery and correct reporting shall lie with the Flag State of the fishing vessel. The fishing vessel shall cooperate with the CCAMLR scientific observer in undertaking the tagging program.

2. This program shall apply in each exploratory longline fishery, and any vessel that participates in more then one exploratory fishery shall apply the following in each exploratory fishery in which that vessel fishes:

(i) Each longline vessel shall tag and release Dissostichus spp. at a rate specified in the Conservation Measure for that fishery throughout the season according to the CCAMLR Tagging Protocol¹. Vessels shall only discontinue tagging after they have tagged 500 toothfish, or if they leave the fishery having tagged toothfish at the specified rate.

(ii) The program shall target toothfish of all sizes in order to meet the tagging requirement, only toothfish that are in good condition shall be tagged and the availability of these fish shall be reported by the observer. All released toothfish must be double-tagged and releases should cover as broad a geographical area as possible. In regions where both species occur, the tagging rate shall to the extent practicable be in proportion to the species and sizes of Dissostichus spp. present in the catches.

(iii) All tags shall be clearly imprinted with a unique serial number and a return address so that the origin of tags can be traced in the case of recapture of the tagged toothfish¹. From 1 September 2007, all tags for use in exploratory fisheries shall be sourced from the Secretariat.

(iv) Recaptured tagged fish (i.e. fish caught that have a previously inserted tag) shall not be re-released, even if at liberty for only a short period.

(v) All recaptured tagged fish should be biologically sampled (length, weight, sex, gonad stage), an electronic time-stamped photograph taken of the fish and tag², the otoliths recovered and the tag removed.

3. Toothfish that are tagged and released shall not be counted against the catch limits.

4. All relevant tag data and any data recording tag recaptures shall be reported electronically in the CCAMLR format¹ to the Executive Secretary (i) by the vessel every month along with its monthly fine-scale catch and effort (C2) data, and (ii) by the observer as part of the data reporting requirements for observer data¹.

5. All relevant tag data, any data recording tag recaptures, and specimens (tags and otoliths) from recaptures shall also be reported electronically in the CCAMLR format¹ to the relevant regional tag data repository as detailed in the CCAMLR Tagging Protocol (available at www.ccamlr.org).

¹ In accordance with the CCAMLR Tagging Protocol for exploratory fisheries which is available from the Secretariat and included in the scientific observer logbook forms.

² For a single trial year (2006/07) observers should take a time-stamped photographic record of all tags recovered and forward these photographs to the Secretariat.

Conservation Measure 41-02 (2006)

Limits on the fishery for Dissostichus eleginoides in Statistical Subarea 48.3 in the 2006/07 season

(Species: toothfish; Area: 48.3; Season: 2006/07; Gear: longline, pot)

The Commission hereby adopts the following Conservation Measure in accordance with Conservation Measure 31-01:

Access 1. The fishery for Dissostichus eleginoides in Statistical Subarea 48.3 shall be conducted by vessels using longlines and pots only.

2. For the purpose of this fishery, the area open to the fishery is defined as that portion of Statistical Subarea 48.3 that lies within the area bounded by latitudes 52°30′S and 56°0′S and by longitudes 33°30′W and 48°0′W.

3. A map illustrating the area defined by paragraph 2 is appended to this Conservation Measure (Annex 41-02/A). The portion of Statistical Subarea 48.3 outside that defined above shall be closed to directed fishing for Dissostichus eleginoides in the 2006/07 season.

Catch Limit 4. The total catch of Dissostichus eleginoides in Statistical Subarea 48.3 in the 2006/07 season shall be limited to 3-554 tonnes. The catch limit shall be further subdivided between the Management Areas shown in Annex 41-02/A as follows:

Management Area A: 0 tonnes

Management Area B: 1,066 tonnes

Management Area C: 2,488 tonnes

Season 5. For the purpose of the longline fishery for Dissostichus eleginoides in Statistical Subarea 48.3, the 2006/07 season is defined as the period from 1 May to 31 August 2007, or until the catch limit is reached, whichever is sooner. For the purpose of the pot fishery for Dissostichus eleginoides in Statistical Subarea 48.3, the 2006/07 season is defined as the period from 1 December 2006 to 30 November 2007, or until the catch limit is reached, whichever is sooner. The season for longline fishing operations may be extended to 14 September 2007 for any vessel which has demonstrated full compliance with Conservation Measure 25-02 in the 2005/06 season. This extension to the season shall also be subject to a catch limit of three (3) seabirds per vessel. If three seabirds are caught during the season extension, fishing shall cease immediately for that vessel.

By-catch 6. The by-catch of crab in any pot fishery undertaken shall be counted against the catch limit in the crab fishery in Statistical Subarea 48.3.

7. The by-catch of finfish in the fishery for Dissostichus eleginoides in Statistical Subarea 48.3 in the 2006/07 season shall not exceed 177 tonnes for skates and rays and 177 tonnes for Macrourus spp. For the purpose of these by-catch limits, “Macrourus spp.” and “skates and rays' shall each be counted as a single species.

8. If the by-catch of any one species is equal to or greater than 1 tonne in any one haul or set, then the fishing vessel shall move to another location at least 5 n miles¹ distant. The fishing vessel shall not return to any point within 5 n miles of the location where the by-catch exceeded 1 tonne for a period of at least five days². The location where the by-catch exceeded 1 tonne is defined as the path³ followed by the fishing vessel.

Mitigation 9. The operation of this fishery shall be carried out in accordance with Conservation Measure 25-02 so as to minimise the incidental mortality of seabirds in the course of fishing.

Observers 10. Each vessel participating in this fishery shall have at least one scientific observer appointed in accordance with the CCAMLR Scheme of International Scientific Observation, and where possible one additional scientific observer, on board throughout all fishing activities within the fishing period.

Data: Catch/Effort

11. For the purpose of implementing this Conservation Measure in the 2006/07 season, the following shall apply:

(i) The Five-day Catch and Effort Reporting System set out in Conservation Measure 23-01;

(ii) the Monthly Fine-scale Catch and Effort Reporting System set out in Conservation Measure 23-04. Fine-scale data shall be submitted on a haul-by-haul basis.

12. For the purpose of Conservation Measures 23-01 and 23-04, the target species is Dissostichus eleginoides and by-catch species are defined as any species other than Dissostichus eleginoides.

13. The total number and weight of Dissostichus eleginoides discarded, including those with the ‘jellymeat' condition, shall be reported. These fish will count towards the total allowable catch.

Data: Biological

14. Fine-scale biological data, as required under Conservation Measure 23-05, shall be collected and recorded. Such data shall be reported in accordance with the CCAMLR Scheme of International Scientific Observation.

Research Fishing

15. Research fishing under the provisions of Conservation Measure 24-01 shall be limited to 10 tonnes of catch and to one vessel in Management Area A shown in the map in Annex 41-02/A during the 2006/07 season.

16. Catches of Dissostichus eleginoides taken under the provisions of Conservation Measure 24-01 in the area of the fishery defined in this Conservation Measure shall be considered as part of the catch limit.

Environmental Protection

17. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

³ For a longline or a pot, the path is defined from the point at which the first anchor of a set was deployed to the point at which the last anchor of that set was deployed.

Conservation Measure 41-03 (2006)

Limits on the fishery for Dissostichus eleginoides in Statistical Subarea 48.4 in the 2005/06, 2006/07 and 2007/08 fishing seasons

(Species: toothfish; Area: 48.4; Season: 2005/06-2007/08; Gear: longline)

Access 1. Directed fishing shall be by longlines only. The use of all other methods of directed fishing for Dissostichus eleginoides in Statistical Subarea 48.4 shall be prohibited.

2. For the purpose of this fishery, the area open to fishing is defined as that portion of Statistical Subarea 48.4 that lies within the area bounded by latitudes 55°30′ S and 57°20′ S and by longitudes 25°30′ W and 29°30′ W.

3. A map illustrating the area defined by paragraph 2 is appended to this Conservation Measure (Annex 41-03/A). The portion of Statistical Subarea 48.4 outside that defined above shall be closed to directed fishing for Dissostichus eleginoides in the 2005/06, 2006/07 and 2007/08 seasons.

Catch Limit 4. The total catch of Dissostichus eleginoides in Statistical Subarea 48.4 shall be limited to 100 tonnes per season.

5. Taking of Dissostichus mawsoni, other than for scientific research purposes, is prohibited.

Season 6. For the purposes of the fishery for Dissostichus eleginoides in Statistical Subarea 48.4, the fishing season shall be 1 April to 30 September, or until the catch limit for Dissostichus eleginoides in Statistical Subarea 48.4 is reached, whichever is sooner.

Mitigation 7. The operation of this fishery shall be carried out in accordance with Conservation Measure 25-02 so as to minimise the incidental mortality of seabirds in the course of fishing.

Observers 8. Each vessel participating in the fishery for Dissostichus eleginoides in Statistical Subarea 48.4 shall have at least one scientific observer appointed in accordance with the ccamlr Scheme of International Scientific Observation, on board throughout all fishing activities within the fishing period.

Data: Catch/Effort

9. For the purpose of implementing this Conservation Measure, the following shall apply:

(i) The Five-day Catch and Effort Reporting System set out in Conservation Measure-23-01;

(ii) the Monthly Fine-scale Catch and Effort Data Reporting System set out in Conservation Measure 23-04. Data shall be reported on a haul-by-haul basis. For the purposes of Conservation Measure 23-04, the target species is Dissostichus eleginoides, and ‘by-catch species' are defined as any species other than Dissostichus eleginoides.

Data: Biological

10. Fine-scale biological data, as required under Conservation Measure 23-05 shall be collected and recorded. Such data shall be reported in accordance with the Scheme of International Scientific Observation.

Tagging Program

11. Each vessel taking part in the fishery for Dissostichus eleginoides in Statistical Subarea 48.4 shall undertake a tagging program in accordance with the CCAMLR Tagging Protocol. The following additional provisions shall apply:

(i) fish should be tagged at an average rate of five fish per tonne of green weight catch throughout the season;

(ii) fish should be tagged that have been caught across as broad a range of depths within the designated area as practicable;

(iii) fish of a range of total lengths should be tagged, concentrating in particular on animals in the vulnerable size range (6501-000 mm).

Environmental Protection

12. Conservation Measure 26-01 applies.

BILLING CODE 3510-22-P

BILLING CODE 3510-22-C

Conservation Measure 41-04 (2006)

Limits on the exploratory fishery for Dissostichus spp. in Statistical Subarea 48.6 in the 2006/07 season

(Species: toothfish; Area: 48.6; Season: 2006/2007; Gear: longline)

The Commission hereby adopts the following Conservation Measure in accordance with Conservation Measure 21-02:

Access 1. Fishing for Dissosichus spp. in Statistical Subarea 48.6 shall be limited to the exploratory longline fishery by Japan, Republic of Korea, New Zealand and Norway. The fishery shall be conducted by Japanese, Korean, New Zealand and Norwegian flagged vessels using longlines only. No more than one vessel per country shall fish at any one time.

Catch Limit 2. The total catch of Dissosichus spp. in Statistical Subarea 48.6 in the 2006/07 season shall not exceed a precautionary catch limit of 455 tonnes north of 60 ° S and 455 tonnes south of 60° S.

Season 3. For the purpose of the exploratory longline fishery for Dissosichus spp. in Statistical Subarea 48.6, the 2006/07 season is defined as the period from 1 December 2006 to 30 November 2007.

By-Catch 4. The by-catch in this fishery shall be regulated as set out in Conservation Measure 33-03.

Mitigation 5. The exploratory longline fishery for Dissosichus spp. in Statistical Subarea 48.6 shall be carried out in accordance with the provisions of Conservation Measure 25-02, except paragraph 4 (night setting), which shall not apply as long as the requirements of Conservation Measure 24-02 are met.¹

6. Any vessel catching a total of three (3) seabirds shall immediately revert to night setting in accordance with Conservation Measure 25-02.

Observers 7. Each vessel participating in the fishery shall have at least two scientific observers, one of whom shall be an observer appointed in accordance with the CCAMLR Scheme of International Scientific Observation, on board throughout all fishing activities within the fishing period.

Data: Catch/Effort

8. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

9. For the purpose of Conservation Measures 23-01 and 23-04, the target species is Dissosichus spp. and by-catch species are defined as any species other than Dissosichus spp.

Data: Biological

10. Fine-scale biological data, as required under Conservation Measure 23-05, shall be collected and recorded. Such data shall be reported in accordance with the CCAMLR Scheme of International Scientific Observation.

Research 11. Each vessel participating in this exploratory fishery shall conduct fishery-based research in accordance with the Research Plan and Tagging Program described in Conservation Measure 41-01, Annex B and Annex C respectively.

12. Toothfish shall be tagged at a rate of at least one fish per tonne green weight caught.

Environmental Protection

13. Conservation Measure 26-01 applies.

14. There shall be no offal discharge in this fishery.

¹ The Japanese-flagged vessel Shinsei Maru No. 3 is exempted from the requirement to conduct longline sink rate tests outside the Convention Area when fishing at the end of the 2005/06 season and into the 2006/07 season, provided that the vessel conducted regular longline sink rate testing in 2005/06.

Conservation Measure 41-05 (2006)

Limits on the exploratory fishery for Dissosichus spp. in Statistical Division 58.4.2 in the 2006/07 season

(Species: toothfish; Area: 58.4.2; Season: 2006/2007; Gear: longline)

The Commission hereby adopts the following Conservation Measure in accordance with Conservation Measure 21-02, and notes that this measure would be for one year and that data arising from these activities would be reviewed by the Scientific Committee:

Access 1. Fishing for Dissosichus spp. in Statistical Division 58.4.2 shall be limited to the exploratory longline fishery by Australia, Republic of Korea, Namibia, New Zealand, Spain and Uruguay. The fishery shall be conducted by one (1) Australian, three (3) Korean, one (1) Namibian, two (2) New Zealand, one (1) Spanish and one (1) Uruguayan flagged vessels using longlines only.

Catch Limit 2. The total catch of Dissosichus spp. in Statistical Division 58.4.2 in the 2006/07 season shall not exceed a precautionary catch limit of 780 tonnes, of which no more than 260 tonnes shall be taken in any one of the five small-scale research units (SSRUs) as detailed in Annex B of Conservation Measure 41-01.

3. Catch limits for each of the SSRUs for Statistical Division 58.4.2, shall be as follows: A — 260 tonnes; B — 0 tonnes; C — 260 tonnes; D — 0 tonnes; E — 260 tonnes.

Season 4. For the purpose of the exploratory longline fishery for Dissosichus spp. in Statistical Division 58.4.2, the 2006/07 season is defined as the period from 1 December 2006 to 30 November 2007.

Fishing Operations

5. The exploratory longline fishery for Dissosichus spp. in Statistical Division 58.4.2 shall be carried out in accordance with the provisions of Conservation Measure 41-01, except paragraph 6.

6. Fishing will be prohibited in depths less than 550 m in order to protect benthic communities.

By-Catch 7. The by-catch in this fishery shall be regulated as set out in Conservation Measure 33-03.

Mitigation 8. The exploratory longline fishery for Dissosichus spp. in Statistical Division 58.4.2 shall be carried out in accordance with the provisions of Conservation Measure 25-02, except paragraph 4 (night setting) shall not apply, providing that vessels comply with Conservation Measure 24-02.

9. Any vessel catching a total of three (3) seabirds shall immediately revert to night setting in accordance with Conservation Measure 25-02.

Observers 10. Each vessel participating in the fishery shall have at least two scientific observers, one of whom shall be an observer appointed in accordance with the CCAMLR Scheme of International Scientific Observation, on board throughout all fishing activities within the fishing period.

Research 11. Each vessel participating in this exploratory fishery shall conduct fishery-based research in accordance with the Research Plan and Tagging Program described in Conservation Measure 41-01, Annex B and Annex C respectively.

12. Toothfish shall be tagged at a rate of at least three fish per tonne green weight caught.

Data: Catch/Effort

13. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

14. For the purpose of Conservation Measures 23-01 and 23-04, the target species is Dissosichus spp. and by-catch species are defined as any species other than Dissosichus spp.

Data: Biological

15. Fine-scale biological data, as required under Conservation Measure 23-05, shall be collected and recorded. Such data shall be reported in accordance with the CCAMLR Scheme of International Scientific Observation.

Environmental Protection

16. Conservation Measure 26-01 applies.

Conservation Measure 41-06 (2006)

Limits on the exploratory fishery for Dissostichus spp. on Elan Bank (Statistical Division 58.4.3a) outside areas of national jurisdiction in the 2006/07 season

(Species: toothfish; Area: 58.4.3a; Season: 2006/2007; Gear: longline)

The Commission hereby adopts the following Conservation Measure in accordance with Conservation Measure 21-02:

Access 1. Fishing for Dissostichus spp. on Elan Bank (Statistical Division 58.4.3a) outside areas of national jurisdiction shall be limited to the exploratory fishery by Japan, Republic of Korea and Spain. The fishery shall be conducted by Japanese, Korean and Spanish flagged vessels using longlines only. No more than one vessel per country shall fish at any one time.

Catch Limit 2. The total catch of Dissostichus spp. on Elan Bank (Statistical Division 58.4.3a) outside areas of national jurisdiction in the 2006/07 season shall not exceed a precautionary catch limit of 250 tonnes.

Season 3. For the purpose of the exploratory longline fishery for Dissostichus spp. on Elan Bank (Statistical Division 58.4.3a) outside areas of national jurisdiction, the 2006/07 season is defined as the period from 1 May to 31 August 2007, or until the catch limit is reached, whichever is sooner.

By-Catch 4. The by-catch in this fishery shall be regulated as set out in Conservation Measure 33-03.

Mitigation 5. The operation of this fishery shall be carried out in accordance with Conservation Measure 25-02 so as to minimise the incidental mortality of seabirds in the course of fishing.

6. The fishery on Elan Bank (Statistical Division 58.4.3a) outside areas of national jurisdiction, may take place outside the prescribed season (paragraph 3) provided that, prior to entry into force of the licence and prior to entering the Convention Area, each vessel shall demonstrate its capacity to comply with longline weighting as approved by the Scientific Committee and described in Conservation Measure 24-02 and such data shall be reported to the Secretariat immediately.

7. Should a total of three (3) seabirds be caught by a vessel outside the normal season (defined in paragraph 3), the vessel shall cease fishing immediately and shall not be permitted to fish outside the normal fishing season for the remainder of the 2006/07 fishing season.

Observers 8. Each vessel participating in this fishery shall have at least one scientific observer appointed in accordance with the CCAMLR Scheme of International Scientific Observation, and where possible one additional scientific observer, on board throughout all fishing activities within the fishing period.

Data: Catch/Effort

9. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data: Biological

11. Fine-scale biological data, as required under Conservation Measure 23-05, shall be collected and recorded. Such data shall be reported in accordance with the CCAMLR Scheme of International Scientific Observation.

Research 12. Each vessel participating in this exploratory fishery shall conduct fishery-based research in accordance with the Research Plan and Tagging Program described in Conservation Measure 41-01, Annex B and Annex C respectively.

13. Toothfish shall be tagged at a rate of at least one fish per tonne green weight caught.

Environmental Protection

14. Conservation Measure 26-01 applies.

Conservation Measure 41-07 (2006)

Limits on the exploratory fishery for Dissostichus spp. on BANZARE Bank (Statistical Division 58.4.3b) outside areas of national jurisdiction in the 2006/07 season

(Species: toothfish; Area: 58.4.3b; Season: 2006/2007; Gear: longline)

The Commission hereby adopts the following Conservation Measure in accordance with Conservation Measure 21-02:

Access 1. Fishing for Dissostichus spp. on BANZARE Bank (Statistical Division 58.4.3b) outside areas of national jurisdiction shall be limited to the exploratory fishery by Australia, Japan, Republic of Korea, Namibia, Spain and Uruguay. The fishery shall be conducted by Australian, Japanese, Korean, Namibian, Spanish and Uruguayan flagged vessels using longlines only. No more than one vessel per country shall fish at any one time.

Catch Limit 2. The total catch of Dissostichus spp. on BANZARE Bank (Statistical Division 58.4.3b) outside areas of national jurisdiction in the 2006/07 season shall not exceed a precautionary catch limit of 300 tonnes.

Season 3. For the purpose of the exploratory longline fishery for Dissostichus spp. on BANZARE Bank (Statistical Division 58.4.3b) outside areas of national jurisdiction, the 2006/07 season is defined as the period from 1 May to 31 August 2007, or until the catch limit is reached, whichever is sooner.

By-Catch 4. The by-catch in this fishery shall be regulated as set out in Conservation Measure 33-03.

Mitigation 5. The operation of this fishery shall be carried out in accordance with Conservation Measure 25-02 so as to minimise the incidental mortality of seabirds in the course of fishing.

6. The fishery on BANZARE Bank (Statistical Division 58.4.3b) outside areas of national jurisdiction, may take place outside the prescribed season (paragraph 3) provided that, prior to entry into force of the licence and prior to entering the Convention Area, each vessel shall demonstrate its capacity to comply with experimental line-weighting trials as approved by the Scientific Committee and described in Conservation Measure 24-02 and such data shall be reported to the Secretariat immediately.

7. Should a total of three (3) seabirds be caught by a vessel outside the normal season (defined in paragraph 3), the vessel shall cease fishing immediately and shall not be permitted to fish outside the normal fishing season for the remainder of the 2006/07 fishing season.

Observers 8. Each vessel participating in this fishery shall have at least one scientific observer appointed in accordance with the CCAMLR Scheme of International Scientific Observation, and where possible one additional scientific observer, on board throughout all fishing activities within the fishing period.

Data: Catch/Effort

9. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data: Biological

11. Fine-scale biological data, as required under Conservation Measure 23-05, shall be collected and recorded. Such data shall be reported in accordance with the CCAMLR Scheme of International Scientific Observation.

Research 12. Each vessel participating in this exploratory fishery shall conduct fishery-based research in accordance with the Research Plan and Tagging Program described in Conservation Measure 41-01, Annex B and Annex C respectively.

13. Toothfish shall be tagged at a rate of at least one fish per tonne green weight caught.

Environmental Protection

14. Conservation Measure 26-01 applies.

Conservation Measure 41-08 (2006)

Limits on the fishery for Dissostichus eleginoides in Statistical Division 58.5.2 in the 2006/07 season

(Species: toothfish; Area: 58.5.2; Season: 2006/2007; Gear: various)

Access 1. The fishery for Dissostichus eleginoides in Statistical Division 58.5.2 shall be conducted by vessels using trawls, pots or longlines only.

Catch Limit 2. The total catch of Dissostichus eleginoides in Statistical Division 58.5.2 in the 2006/07 season shall be limited to 2,427 tonnes west of 79°20′E.

Season 3. For the purpose of the trawl and pot fisheries for Dissostichus eleginoides in Statistical Division 58.5.2, the 2006/07 season is defined as the period from 1 December 2006 to 30 November 2007, or until the catch limit is reached, whichever is sooner. For the purpose of the longline fishery for Dissostichus eleginoides in Statistical Division 58.5.2, the 2006/07 season is defined as the period from 1 May to 31 August 2007, or until the catch limit is reached, whichever is sooner. The season for longline fishing operations may be extended from 15 April to 30 April and 1 September to 30 September 2007 for any vessel which has demonstrated full compliance with Conservation Measure 25-02 in the 2005/06 season. These extensions to the season will also be subject to a total catch limit of three (3) seabirds per vessel. If three seabirds are caught during the season extension, fishing throughout the season extensions shall cease immediately for that vessel.

By-Catch 4. Fishing shall cease if the by-catch of any species reaches its by-catch limit as set out in Conservation Measure 33-02.

Mitigation 5. The operation of the trawl fishery shall be carried out in accordance with Conservation Measure 25-03 so as to minimise the incidental mortality of seabirds and mammals through the course of fishing. The operation of the longline fishery shall be carried out in accordance with Conservation Measure 25-02, except paragraph 4 (night setting) shall not apply for vessels using integrated weighted lines (IWLs) during the period 1 May to 30 September. Such vessels may deploy IWL gear during daylight hours if, prior to entry into force of the licence and prior to entering the Convention Area, each vessel shall demonstrate its capacity to comply with experimental line-weighting trials as approved by the Scientific Committee and described in Conservation Measure 24-02. During the period 15 April to 30 April, vessels shall use IWL gear and in a manner that ensures lines are set and hauled sequentially, in conjunction with night setting and paired streamer lines.

Observers 6. Each vessel participating in this fishery shall have at least one scientific observer, and may include one appointed in accordance with the CCAMLR Scheme of International Scientific Observation, on board throughout all fishing activities within the fishing period, with the exception of the period 15 April to 30 April when two scientific observers shall be carried.

Data: Catch/Effort

7. For the purpose of implementing this Conservation Measure, the following shall apply:

(i) the Ten-day Catch and Effort Reporting System set out in Annex 41-08/A;

(ii) the Monthly Fine-scale Catch and Effort Reporting System set out in Annex 41-08/A. Fine-scale data shall be submitted on a haul-by-haul basis.

8. For the purpose of Annex 41-08/A, the target species is Dissostichus eleginoides and by-catch species are defined as any species other than Dissostichus eleginoides.

9. The total number and weight of Dissostichus eleginoides discarded, including those with the ‘jellymeat' condition, shall be reported. These fish will count towards the total allowable catch.

Data: Biological

10. Fine-scale biological data, as required under Annex 41-08/A, shall be collected and recorded. Such data shall be reported in accordance with the CCAMLR Scheme of International Scientific Observation.

Environmental Protection

11. Conservation Measure 26-01 applies.

Annex 41-08/A

Data Reporting System

A ten-day catch and effort reporting system shall be implemented:

(i) for the purpose of implementing this system, the calendar month shall be divided into three reporting periods, viz: day 1 to day 10, day 11 to day 20 and day 21 to the last day of the month. The reporting periods are hereafter referred to as periods A, B and C;

(ii) at the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) a report must be submitted by every Contracting Party taking part in the fishery for each reporting period for the duration of the fishery, even if no catches are taken;

(iv) the catch of Dissostichus eleginoides and of all by-catch species must be reported;

(v) such reports shall specify the month and reporting period (A, B and C) to which each report refers;

(vi) immediately after the deadline has passed for receipt of the reports for each period, the Executive Secretary shall notify all Contracting Parties engaged in fishing activities in the division of the total catch taken during the reporting period and the total aggregate catch for the season to date;

(vii) at the end of every three reporting periods, the Executive Secretary shall inform all Contracting Parties of the total catch taken during the three most recent reporting periods and the total aggregate catch for the season to date.

A fine-scale catch, effort and biological data reporting system shall be implemented:

(i) the scientific observer(s) aboard each vessel shall collect the data required to complete the CCAMLR fine-scale catch and effort data form C1 for trawl fishing, form C2 for longline fishing, or form C5 for pot fishing, latest versions. These data shall be submitted to the CCAMLR Secretariat not later than one month after the vessel returns to port;

(ii) the catch of Dissostichus eleginoides and of all by-catch species must be reported;

(iii) the numbers of seabirds and marine mammals of each species caught and released or killed must be reported;

(iv) the scientific observer(s) aboard each vessel shall collect data on the length composition from representative samples of Dissostichus eleginoides and by-catch species:

(a) length measurements shall be to the nearest centimetre below;

(b) representative samples of length composition shall be taken from each fine-scale grid rectangle (0.5° latitude by 1° longitude) fished in each calendar month;

(v) the above data shall be submitted to the CCAMLR Secretariat not later than one month after the vessel returns to port.

Conservation Measure 41-09 (2006)

Limits on the exploratory fishery for Dissostichus spp. in Statistical Subarea 88.1 in the 2006/07 season

(Species: toothfish; Area: 88.1; Season: 2006/2007; Gear: longline)

The Commission hereby adopts the following Conservation Measure in accordance with Conservation Measure 21-02:

Access 1. Fishing for Dissostichus spp. in Statistical Subarea 88.1 shall be limited to the exploratory longline fishery by Argentina, Republic of Korea, New Zealand, Norway, Russia, South Africa, Spain, UK and Uruguay. The fishery shall be conducted by a maximum in the season of two (2) Argentine, three (3) Korean, four (4) New Zealand, one (1) Norwegian, two (2) Russian, one (1) South African, one (1) Spanish, two (2) UK and five (5) Uruguayan flagged vessels using longlines only.

Catch Limit 2. The total catch of Dissostichus spp. in Statistical Subarea 88.1 in the 2006/07 season shall not exceed a precautionary catch limit of 3,032 tonnes applied as follows:

SSRU A—0 tonnes

SSRUs B, C and G—356 tonnes total

SSRU D—0 tonnes

SSRU E—0 tonnes

SSRU F—0 tonnes

SSRUs H, I and K—1,936 tonnes total

SSRU J —564 tonnes

SSRU L—176 tonnes.

Season 3. For the purpose of the exploratory longline fishery for Dissostichus spp. in Statistical Subarea 88.1, the 2006/07 season is defined as the period from 1 December 2006 to 31 August 2007.

Fishing Operations

4. The exploratory longline fishery for Dissostichus spp. in Statistical Subarea 88.1 shall be carried out in accordance with the provisions of Conservation Measure 41-01, except paragraph 6.

By-Catch 5. The total by-catch in Statistical Subarea 88.1 in the 2006/07 season shall not exceed a precautionary catch limit of 152 tonnes of skates and rays, and 485 tonnes of Macrourus spp. Within these total by-catch limits, individual limits will apply as follows:

SSRU A—0 tonnes of any species

SSRUs B, C and G total—50 tonnes of skates and rays, 57 tonnes of Macrourus spp., 60 tonnes of other species

SSRU D—0 tonnes of any species

SSRU E—0 tonnes of any species

SSRU F—0 tonnes of any species

SSRUs H, I and K total—97 tonnes of skates and rays, 310 tonnes of Macrourus spp., 60 tonnes of other species

SSRU J—50 tonnes of skates and rays, 90 tonnes of Macrourus spp., 20 tonnes of other species

SSRU L—50 tonnes of skates and rays, 28 tonnes of Macrourus spp., 20 tonnes of other species.

The by-catch in this fishery shall be regulated as set out in Conservation Measure 33-03.

Mitigation 6. The exploratory longline fishery for Dissostichus spp. in Statistical Subarea 88.1 shall be carried out in accordance with the provisions of Conservation Measure 25-02, except paragraph 4 (night setting), which shall not apply as long as the requirements of Conservation Measure 24-02 are met.

7. Any vessel catching a total of three (3) seabirds shall immediately revert to night setting in accordance with Conservation Measure 25-02.

Observers 8. Each vessel participating in the fishery shall have at least two scientific observers, one of whom shall be an observer appointed in accordance with the CCAMLR Scheme of International Scientific Observation, on board throughout all fishing activities within the fishing period.

VMS 9. Each vessel participating in this exploratory longline fishery shall be required to operate a VMS at all times, in accordance with Conservation Measure 10-04.

CDS 10. Each vessel participating in this exploratory longline fishery shall be required to participate in the Catch Documentation Scheme for Dissostichus spp., in accordance with Conservation Measure 10-05.

Research 11. Each vessel participating in this exploratory fishery shall conduct fishery-based research in accordance with the Research Plan and Tagging Program described in Conservation Measure 41-01, Annex B and Annex C respectively. The setting of research hauls (Conservation Measure 41-01, Annex B, paragraphs 3 and 4) is not required.

12. Research fishing under Conservation Measure 24-01 shall be limited to 10 tonnes of Dissostichus spp. green weight and a single vessel in each of SSRUs A, D, E and F during the 2006/07 season. Catches of Dissostichus spp. taken in SSRUs A, D, E and F under the provisions of Conservation Measure 24-01 shall not be considered as part of the catch limit for Statistical Subarea 88.1.

13. Toothfish shall be tagged at a rate of at least one fish per tonne green weight caught in each SSRU, except in SSRUs A, D, E and F where, under the 10-tonne research fishing limit, toothfish shall be tagged at a rate of at least three fish per tonne green weight caught.

Data: Catch/Effort

14. For the purpose of implementing this Conservation Measure in the 2006/07 season, the following shall apply:

(i) The Five-day Catch and Effort Reporting System set out in Conservation Measure 23-01;

(ii) the Monthly Fine-scale Catch and Effort Reporting System set out in Conservation Measure 23-04. Fine-scale data shall be submitted on a haul-by-haul basis.

15. For the purpose of Conservation Measures 23-01 and 23-04, the target species is Dissostichus spp. and by-catch species are defined as any species other than Dissostichus spp.

Data: Biological

16. Fine-scale biological data, as required under Conservation Measure 23-05, shall be collected and recorded. Such data shall be reported in accordance with the CCAMLR Scheme of International Scientific Observation.

Environmental Protection

17. Conservation Measure 26-01 applies.

Additional Elements

18. Fishing for Dissostichus spp. in Statistical Subarea 88.1 shall be prohibited within 10 n miles of the coast of the Balleny Islands.

Conservation Measure 41-10 (2006)

Limits on the exploratory fishery for Dissostichus spp. in Statistical Subarea 88.2 in the 2006/07 season

(Species: toothfish; Area: 88.2; Season: 2006/2007; Gear: longline)

The Commission hereby adopts the following Conservation Measure in accordance with Conservation Measure 21-02:

Access 1. Fishing for Dissostichus spp. in Statistical Subarea 88.2 shall be limited to the exploratory longline fishery by Argentina, New Zealand, Norway, Russia, Spain, UK and Uruguay. The fishery shall be conducted by a maximum in the season of two (2) Argentine, four (4) New Zealand, one (1) Norwegian, two (2) Russian, one (1) Spanish, two (2) UK and four (4) Uruguayan flagged vessels using longlines only.

Catch Limit 2. The total catch of Dissostichus spp. in Statistical Subarea 88.2 south of 65°S in the 2006/07 season shall not exceed a precautionary catch limit of 547 tonnes applied as follows:

SSRU A—0 tonnes

SSRU B—0 tonnes

SSRUs C, D, F and G—206 tonnes total

SSRU E—341 tonnes.

Season 3. For the purpose of the exploratory longline fishery for Dissostichus spp. in Statistical Subarea 88.2, the 2006/07 season is defined as the period from 1 December 2006 to 31 August 2007.

4. The exploratory longline fishery for Dissostichus spp. in Statistical Subarea 88.2 shall be carried out in accordance with the provisions of Conservation Measure 41-01, except paragraph 6.

By-Catch 5. The total by-catch in Statistical Subarea 88.2 in the 2006/07 season shall not exceed a precautionary catch limit of 50 tonnes of skates and rays, and 88 tonnes of Macrourus spp. Within these total by-catch limits, individual limits will apply as follows:

SSRU A—0 tonnes of any species

SSRU B—0 tonnes of any species

SSRUs C, D, F, G—50 tonnes of skates and rays, 33 tonnes of Macrourus spp., 20 tonnes of other species in any SSRU

SSRU E—50 tonnes of skates and rays, 55 tonnes of Macrourus spp., 20 tonnes of other species.

The by-catch in this fishery shall be regulated as set out in Conservation Measure 33-03.

Mitigation 6. The exploratory longline fishery for Dissostichus spp. in Statistical Subarea 88.2 shall be carried out in accordance with the provisions of Conservation Measure 25-02, except paragraph 4 (night setting), which shall not apply as long as the requirements of Conservation Measure 24-02 are met.

7. Any vessel catching a total of three (3) seabirds shall immediately revert to night setting in accordance with Conservation Measure 25-02.

Observers 8. Each vessel participating in the fishery shall have at least two scientific observers, one of whom shall be an observer appointed in accordance with the CCAMLR Scheme of International Scientific Observation, on board throughout all fishing activities within the fishing period.

VMS 9. Each vessel participating in this exploratory longline fishery shall be required to operate a VMS at all times, in accordance with Conservation Measure 10-04.

CDS 10. Each vessel participating in this exploratory longline fishery shall be required to participate in the Catch Documentation Scheme for Dissostichus spp., in accordance with Conservation Measure 10-05.

Research 11. Each vessel participating in this exploratory fishery shall conduct fishery-based research in accordance with the Research Plan and Tagging Program described in Conservation Measure 41-01, Annex B and Annex C respectively. The setting of research hauls (Conservation Measure 41-01, Annex B, paragraphs 3 and 4) is not required.

12. Research fishing under Conservation Measure 24-01 shall be limited to 10 tonnes of Dissostichus spp. green weight and a single vessel in each of SSRUs A and B during the 2006/07 season. Catches of Dissostichus spp. taken under the provisions of Conservation Measure 24-01 shall not be considered as part of the catch limit for Subarea 88.2.

13. Toothfish shall be tagged at a rate of at least one fish per tonne green weight caught in each SSRU, except in SSRUs A and B where, under the 10-tonne research fishing limit, toothfish shall be tagged at a rate of at least three fish per tonne green weight caught.

Data: Catch/Effort

14. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

15. For the purpose of Conservation Measures 23-01 and 23-04, the target species is Dissostichus spp. and by-catch species are defined as any species other than Dissostichus spp.

Data: Biological

16. Fine-scale biological data, as required under Conservation Measure 23-05, shall be collected and recorded. Such data shall be reported in accordance with the CCAMLR Scheme of International Scientific Observation.

Environmental Protection

17. Conservation Measure 26-01 applies.

Conservation Measure 41-11 (2006)

Limits on the exploratory fishery for Dissostichus spp. in Statistical Division 58.4.1 in the 2006/07 season

(Species: toothfish; Area: 58.4.1; Season: 2006/2007; Gear: longline)

The Commission hereby adopts the following Conservation Measure in accordance with Conservation Measure 21-02, and notes that this measure would be for one year and that data arising from these activities would be reviewed by the Scientific Committee:

Access 1. Fishing for Dissostichus spp. in Statistical Division 58.4.1 shall be limited to the exploratory longline fishery by Australia, Republic of Korea, Namibia, New Zealand, Spain and Uruguay. The fishery shall be conducted by one (1) Australian, two (2) Korean, one (1) Namibian, three (3) New Zealand, one (1) Spanish and one (1) Uruguayan flagged vessels using longlines only.

Catch Limit 2. The total catch of Dissostichus spp. in Statistical Division 58.4.1 in the 2006/07 season shall not exceed a precautionary catch limit of 600 tonnes, of which no more than 200 tonnes shall be taken in any one of the eight small-scale research units (SSRUs) as detailed in Annex B of Conservation Measure 41-01.

3. Catch limits for each of the SSRUs for Statistical Division 58.4.1, shall be as follows: A—0 tonnes; B—0 tonnes; C—200 tonnes; D—0 tonnes; E—200 tonnes; F—0 tonnes; G—200 tonnes; H—0 tonnes.

Season 4. For the purpose of the exploratory longline fishery for Dissostichus spp. in Statistical Division 58.4.1, the 2006/07 season is defined as the period from 1 December 2006 to 30 November 2007.

Fishing Operations

5. The exploratory longline fishery for Dissostichus spp. in Statistical Division 58.4.1 shall be carried out in accordance with the provisions of Conservation Measure 41-01, except paragraph 6.

6. Fishing will be prohibited in depths less than 550 m in order to protect benthic communities.

By-catch 7. The by-catch in this fishery shall be regulated as set out in Conservation Measure 33-03.

Mitigation 8. The exploratory longline fishery for Dissostichus spp. in Statistical Division 58.4.1 shall be carried out in accordance with the provisions of Conservation Measure 25-02, except paragraph 4 (night setting) shall not apply, providing that vessels comply with Conservation Measure 24-02.

9. Any vessel catching a total of three (3) seabirds shall immediately revert to night setting in accordance with Conservation Measure 25-02.

Observers 10. Each vessel participating in the fishery shall have at least two scientific observers, one of whom shall be an observer appointed in accordance with the CCAMLR Scheme of International Scientific Observation, on board throughout all fishing activities within the fishing period.

Research 11. Each vessel participating in this exploratory fishery shall conduct fishery-based research in accordance with the Research Plan and Tagging Program described in Conservation Measure 41-01, Annex B and Annex C respectively.

12. Toothfish shall be tagged at a rate of at least three fish per tonne green weight caught.

Data: Catch/Effort

13. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data: Biological

15. Fine-scale biological data, as required under Conservation Measure 23-05, shall be collected and recorded. Such data shall be reported in accordance with the CCAMLR Scheme of International Scientific Observation.

Environmental Protection

16. Conservation Measure 26-01 applies.

17. There shall be no offal discharge in this fishery.

Conservation Measure 42-01 (2006)

Limits on the fishery for Champsocephalus gunnari in Statistical Subarea 48.3 in the 2006/07 season

(Species: icefish; Area: 48.3; Season: 2006/2007; Gear: trawl)

The Commission hereby adopts the following Conservation Measure in accordance with Conservation Measure 31-01:

Access 1. The fishery for Champsocephalus gunnari in Statistical Subarea 48.3 shall be conducted by vessels using trawls only. The use of bottom trawls in the directed fishery for Champsocephalus gunnari in Statistical Subarea 48.3 is prohibited.

2. Fishing for Champsocephalus gunnari shall be prohibited within 12 n miles of the coast of South Georgia during the period 1 March to 31 May (spawning period).

Catch Limit 3. The total catch of Champsocephalus gunnari in Statistical Subarea 48.3 in the 2006/07 season shall be limited to 4 337 tonnes. The total catch of Champsocephalus gunnari taken in the period 1 March to 31 May shall be limited to 1,084 tonnes.

4. Where any haul contains more than 100 kg of Champsocephalus gunnari, and more than 10% of the Champsocephalus gunnari by number are smaller than 240 mm total length, the fishing vessel shall move to another fishing location at least 5 n miles distant.¹ The fishing vessel shall not return to any point within 5 n miles of the location where the catch of small Champsocephalus gunnari exceeded 10%, for a period of at least five days. ² The location where the catch of small Champsocephalus gunnari exceeded 10% is defined as the path followed by the fishing vessel from the point at which the fishing gear was first deployed from the fishing vessel to the point at which the fishing gear was retrieved by the fishing vessel.

Season 5. For the purpose of the trawl fishery for Champsocephalus gunnari in Statistical Subarea 48.3, the 2006/07 season is defined as the period from 15 November 2006 to 14 November 2007, or until the catch limit is reached, whichever is sooner.

By-Catch 6. The by-catch in this fishery shall be regulated as set out in Conservation Measure 33-01. If, in the course of the directed fishery for Champsocephalus gunnari, the by-catch in any one haul of any of the species named in Conservation Measure 33-01

• is greater than 100 kg and exceeds 5% of the total catch of all fish by weight, or

• is equal to or greater than 2 tonnes, then

the fishing vessel shall move to another location at least 5 n miles distant.¹ The fishing vessel shall not return to any point within 5 n miles of the location where the by-catch of species named in Conservation Measure 33-01 exceeded 5% for a period of at least five days.² The location where the by-catch exceeded 5% is defined as the path followed by the fishing vessel from the point at which the fishing gear was first deployed from the fishing vessel to the point at which the fishing gear was retrieved by the fishing vessel.

Mitigation 7. The operation of this fishery shall be carried out in accordance with Conservation Measure 25-03 so as to minimise the incidental mortality of seabirds in the course of the fishery. Vessels are encouraged to use net binding ³ as a means to reduce seabird interactions.

8. Should any vessel catch a total of 20 seabirds, it shall cease fishing and shall be excluded from further participation in the fishery in the 2006/07 season.

Observers 9. Each vessel participating in this fishery shall have at least one scientific observer appointed in accordance with the CCAMLR Scheme of International Scientific Observation, and where possible one additional scientific observer, on board throughout all fishing activities within the fishing period.

Data: Catch/Effort

10. For the purpose of implementing this Conservation Measure in the 2006/07 season, the following shall apply:

(i) the Five-day Catch and Effort Reporting System set out in Conservation Measure 23-01;

(ii) the Monthly Fine-scale Catch and Effort Reporting System set out in Conservation Measure 23-04. Fine-scale data shall be submitted on a haul-by-haul basis.

11. For the purpose of Conservation Measures 23-01 and 23-04, the target species is Champsocephalus gunnari and by-catch species are defined as any species other than Champsocephalus gunnari.

Data: Biological

12. Fine-scale biological data, as required under Conservation Measure 23-05, shall be collected and recorded. Such data shall be reported in accordance with the CCAMLR Scheme of International Scientific Observation.

Research 13. Each vessel operating in this fishery during the period 1 March to 31 May 2007 shall conduct twenty (20) research trawls in the manner described in Annex 42-01/A.

Environmental Protection

14. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

³ See SC-CAMLR-XXV, Annex 5, Appendix D, paragraph 59 for guidelines for net binding.

Annex 42-01/A

Research Trawls During Spawning Season

1. All fishing vessels taking part in the fishery for Champsocephalus gunnari in Statistical Subarea 48.3 between 1 March and 31 May shall be required to conduct a minimum of 20 research hauls, to be completed during that period. Twelve research hauls shall be carried out in the Shag Rocks-Black Rocks area. These shall be distributed between the four sectors illustrated in Figure 1: Four each in the NW and SE sectors, and two each in the NE and SW sectors. A further eight research hauls shall be conducted on the northwestern shelf of South Georgia over water less than 300 m deep, as illustrated in Figure 1.

2. Each research haul must be at least 5 n miles distant from all others. The spacing of stations is intended to be such that both areas are adequately covered in order to provide information on the length, sex, maturity and weight composition of Champsocephalus gunnari.

3. If concentrations of fish are located en route to South Georgia, they should be fished in addition to the research hauls.

4. The duration of research hauls must be of a minimum of 30 minutes with the net at fishing depth. During the day, the net must be fished close to the bottom.

5. The catch of all research hauls shall be sampled by the international scientific observer on board. Samples should aim to comprise at least 100 fish, sampled using standard random sampling techniques. All fish in the sample should be at least examined for length, sex and maturity determination, and where possible, weight. More fish should be examined if the catch is large and time permits.

Conservation Measure 42-02 (2006)

Limits on the fishery for Champsocephalus gunnari in Statistical Division 58.5.2 in the 2006/07 season

(Species: icefish; Area: 58.5.2; Season: 2006/2007; Gear: trawl)

Access 1. The fishery for Champsocephalus gunnari in Statistical Division 58.5.2 shall be conducted by vessels using trawls only.

2. For the purpose of this fishery for Champsocephalus gunnari, the area open to the fishery is defined as that portion of Statistical Division 58.5.2 that lies within the area enclosed by a line:

(i) starting at the point where the meridian of longitude 72°15′E intersects the Australia France Maritime Delimitation Agreement Boundary then south along the meridian to its intersection with the parallel of latitude 53°25′S;

(ii) then east along that parallel to its intersection with the meridian of longitude 74°E;

(iii) then northeasterly along the geodesic to the intersection of the parallel of latitude 52°40′S and the meridian of longitude 76°E;

(iv) then north along the meridian to its intersection with the parallel of latitude 52°S;

(v) then northwesterly along the geodesic to the intersection of the parallel of latitude 51°S with the meridian of longitude 74°30′E;

(vi) then southwesterly along the geodesic to the point of commencement.

3. A chart illustrating the above definition is appended to this Conservation Measure (Annex 42-02/A). Areas in Statistical Division 58.5.2 outside that defined above shall be closed to directed fishing for Champsocephalus gunnari.

Catch Limit 4. The total catch of Champsocephalus gunnari in Statistical Division 58.5.2 in the 2006/07 season shall be limited to 42 tonnes.

5. Where any haul contains more than 100 kg of Champsocephalus gunnari, and more than 10% of the Champsocephalus gunnari by number are smaller than the specified minimum legal total length, the fishing vessel shall move to another fishing location at least 5 n miles distant ¹. The fishing vessel shall not return to any point within 5 n miles of the location where the catch of small Champsocephalus gunnari exceeded 10% for a period of at least five days ². The location where the catch of small Champsocephalus gunnari exceeded 10% is defined as the path followed by the fishing vessel from the point at which the fishing gear was first deployed from the fishing vessel to the point at which the fishing gear was retrieved by the fishing vessel. The minimum legal total length shall be 240 mm.

Season 6. For the purpose of the trawl fishery for Champsocephalus gunnari in Statistical Division 58.5.2, the 2006/07 season is defined as the period from 1 December 2006 to 30 November 2007, or until the catch limit is reached, whichever is sooner.

By-Catch 7. Fishing shall cease if the by-catch of any species reaches its by-catch limit as set out in Conservation Measure 33-02.

Mitigation 8. The operation of this fishery shall be carried out in accordance with Conservation Measure 25-03 so as to minimise the incidental mortality of seabirds in the course of fishing.

Observers 9. Each vessel participating in this fishery shall have at least one scientific observer, and may include one appointed in accordance with the CCAMLR Scheme of International Scientific Observation, on board throughout all fishing activities within the fishing period.

Data: Catch/Effort

10. For the purpose of implementing this Conservation Measure in the 2006/07 season, the following shall apply:

(i) the Ten-day Catch and Effort Reporting System set out in Annex 42-02/B;

(ii) the Monthly Fine-scale Catch and Effort Reporting System set out in Annex 42-02/B. Fine-scale data shall be submitted on a haul-by-haul basis.

11. For the purpose of Annex 42-02/B, the target species is Champsocephalus gunnari and by-catch species are defined as any species other than Champsocephalus gunnari.

Data: Biological

12. Fine-scale biological data, as required under Annex 42-02/B, shall be collected and recorded. Such data shall be reported in accordance with the CCAMLR Scheme of International Scientific Observation.

Environmental Protection

13. Conservation Measure 26-01 applies.

¹ This provision concerning the minimum distance separating fishing locations is adopted pending the adoption of a more appropriate definition of a fishing location by the Commission.

² The specified period is adopted in accordance with the reporting period specified in Conservation Measure 23-01, pending the adoption of a more appropriate period by the Commission.

BILLING CODE 3510-22-P

BILLING CODE 3510-22-C

Annex 42-02/B

Data Reporting System

A ten-day catch and effort reporting system shall be implemented:

(i) for the purpose of implementing this system, the calendar month shall be divided into three reporting periods, viz: day 1 to day 10, day 11 to day 20 and day 21 to the last day of the month. The reporting periods are hereafter referred to as periods A, B and C;

(ii) at the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) a report must be submitted by every Contracting Party taking part in the fishery for each reporting period for the duration of the fishery, even if no catches are taken;

(iv) the catch of Champsocephalus gunnari and of all by-catch species must be reported;

(v) such reports shall specify the month and reporting period (A, B and C) to which each report refers;

(vi) immediately after the deadline has passed for receipt of the reports for each period, the Executive Secretary shall notify all Contracting Parties engaged in fishing activities in the division of the total catch taken during the reporting period and the total aggregate catch for the season to date;

(vii) at the end of every three reporting periods, the Executive Secretary shall inform all Contracting Parties of the total catch taken during the three most recent reporting periods and the total aggregate catch for the season to date.

A fine-scale catch, effort and biological data reporting system shall be implemented:

(i) the scientific observer(s) aboard each vessel shall collect the data required to complete the CCAMLR fine-scale catch and effort data form C1, latest version. These data shall be submitted to the CCAMLR Secretariat not later than one month after the vessel returns to port;

(ii) the catch of Champsocephalus gunnari and of all by-catch species must be reported;

(iii) the numbers of seabirds and marine mammals of each species caught and released or killed must be reported;

(iv) the scientific observer(s) aboard each vessel shall collect data on the length composition from representative samples of Champsocephalus gunnari and by-catch species:

(a) length measurements shall be to the nearest centimetre below;

(b) representative samples of length composition shall be taken from each fine-scale grid rectangle (0.5° latitude by 1° longitude) fished in each calendar month;

(v) the above data shall be submitted to the CCAMLR Secretariat not later than one month after the vessel returns to port.

Conservation Measure 51-01 (2006)

Precautionary catch limitations on Euphausia superba in Statistical Area 48

(Species: krill; Area: 48; Season: all; Gear: trawl)

Catch Limit 1. The total catch of Euphausia superba in Statistical Area 48 shall be limited to 4.0 million tonnes in any fishing season.

2. The total catch shall be further subdivided into statistical subareas as follows:

Subarea 48.1—1.008 million tonnes

Subarea 48.2—1.104 million tonnes

Subarea 48.3—1.056 million tonnes

Subarea 48.4—0.832 million tonnes

3. Precautionary catch limits to be agreed by the Commission on the basis of advice of the Scientific Committee shall be applied to smaller management units, or on such other basis as the Scientific Committee may advise, if the total catch in Statistical Area 48 in any fishing season exceeds 620,000 tonnes.

4. This measure shall be kept under review by the Commission, taking into account the advice of the Scientific Committee.

Season 5. A fishing season begins on 1 December and finishes on 30 November of the following year.

Data 6. For the purpose of implementing this Conservation Measure, the data requirements set out in Conservation Measure 23-06 shall apply.

Environmental Protection

7. Conservation Measure 26-01 applies.

Conservation Measure 51-02 (2006)

Precautionary catch limitation on Euphausia superba in Statistical Division 58.4.1

(Species: krill; Area: 58.4.1; Season: all; Gear: trawl)

Catch Limit 1. The total catch of Euphausia superba in Statistical Division 58.4.1 shall be limited to 440,000 tonnes in any fishing season.

2. The total catch shall be further subdivided into two subdivisions within Statistical Division 58.4.1 as follows: west of 115° E, 277,000 tonnes; and east of 115° E, 163,000 tonnes.

3. This measure shall be kept under review by the Commission, taking into account the advice of the Scientific Committee.

Season 4. A fishing season begins on 1 December and finishes on 30 November the following year.

Data 5. For the purposes of implementing this Conservation Measure, the data requirements set out in Conservation Measure 23-06 shall apply.

Environmental Protection

6. Conservation Measure 26-01 applies.

Conservation Measure 51-03 (2006)

Precautionary catch limitation on Euphausia superba in Statistical Division 58.4.2

(Species: krill; Area: 58.4.2; Season: all; Gear: trawl)

Catch Limit 1. The total catch of Euphausia superba in Statistical Division 58.4.2 shall be limited to 450,000 tonnes in any fishing season. This limit shall be kept under review by the Commission, taking into account the advice of the Scientific Committee.

Season 2. A fishing season begins on 1 December and finishes on 30 November of the following year.

Data 3. For the purposes of implementing this Conservation Measure, the data requirements set out in Conservation Measure 23-06 shall apply.

Environmental Protection

4. Conservation Measure 26-01 applies.

Conservation Measure 52-01 (2006)

Limits on the fishery for crab in Statistical Subarea 48.3 in the 2006/07 season

(Species: crab; Area: 48.3; Season: 2006/07; Gear: pot)

The Commission hereby adopts the following Conservation Measure in accordance with Conservation Measure 31-01:

Access 1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and research and fishing operations plan of the vessel that the Member has authorised to participate in the crab fishery.

Catch Limit 4. The total catch of crab in Statistical Subarea 48.3 in the 2006/07 season shall not exceed a precautionary catch limit of 1,600 tonnes.

5. The crab fishery shall be limited to sexually mature male crabs—all female and undersized male crabs caught shall be released unharmed. In the case of Paralomis spinosissima and Paralomis formosa, males with a minimum carapace width of 94 and 90 mm respectively, may be retained in the catch.

Season 6. For the purpose of the pot fishery for crab in Statistical Subarea 48.3, the 2006/07 season is defined as the period from 1 December 2006 to 30 November 2007, or until the catch limit is reached, whichever is sooner.

By-Catch 7. The by-catch of Dissostichus eleginoides shall be counted against the catch limit in the fishery for Dissostichus eleginoides in Statistical Subarea 48.3.

Observers 8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data: Catch/Effort

9. For the purpose of implementing this Conservation Measure in the 2006/07 season, the following shall apply:

(i) the Ten-day Catch and Effort Reporting System set out in Conservation Measure 23-02;

(ii) the Monthly Fine-scale Catch and Effort Reporting System set out in Conservation Measure 23-04. Fine-scale data shall be submitted on a haul-by-haul basis.

10. For the purpose of Conservation Measures 23-02 and 23-04 the target species is crab and by-catch species are defined as any species other than crab.

Data: Biological

11. Fine-scale biological data, as required under Conservation Measure 23-05, shall be collected and recorded. Such data shall be reported in accordance with the CCAMLR Scheme of International Scientific Observation.

Research 12. Each vessel participating in this exploratory fishery shall conduct fishery-based research in accordance with the data requirements described in Annex 52-01/A and the experimental harvest regime described in Conservation Measure 52-02. Data collected for the period up to 31 August 2007 shall be reported to CCAMLR by 30 September 2007 so that the data will be available to the meeting of the Working Group on Fish Stock Assessment (WG-FSA) in 2007. Such data collected after 31 August 2007 shall be reported to CCAMLR not later than three months after the closure of the fishery.

Environmental Protection

13. Conservation Measure 26-01 applies.

Annex 52-01/A

Data Requirements on the Crab Fishery in Statistical Subarea 48.3

Catch and Effort Data:

Cruise Descriptions

Cruise code, vessel code, permit number, year.

Pot Descriptions

Diagrams and other information, including pot shape, dimensions, mesh size, funnel position, aperture and orientation, number of chambers, presence of an escape port.

Effort Descriptions

Date, time, latitude and longitude of the start of the set, compass bearing of the set, total number of pots set, spacing of pots on the line, number of pots lost, depth, soak time, bait type.

Catch Descriptions

Retained catch in numbers and weight, by-catch of all species (see Table 1), incremental record number for linking with sample information.

Table 1.—Data Requirements for By-Catch Species in the Crab Fishery in Statistical Subarea 48.3
Species | Data requirements
Dissostichus eleginoides | Numbers and estimated total weight.
Notothenia rossii | Numbers and estimated total weight.
Other species | Estimated total weight.

Biological Data:

For these data, crabs are to be sampled from the line hauled just prior to noon, by collecting the entire contents of a number of pots spaced at intervals along the line so that between 35 and 50 specimens are represented in the subsample.

Cruise Descriptions

Cruise code, vessel code, permit number.

Sample Descriptions

Date, position at start of the set, compass bearing of the set, line number.

Data

Species, sex, length of at least 35 individuals, presence/absence of rhizocephalan parasites, record of the destination of the crab (kept, discarded, destroyed), record of the pot number from which the crab comes.

Conservation Measure 52-02 (2006)

Experimental harvest regime for the crab fishery in Statistical Subarea 48.3 in the 2006/07 season

(Species: crab; Area: 48.3; Season: 2006/07; Gear: pot)

The following measures apply to all crab fishing within Statistical Subarea 48.3 in the 2006/07 fishing season. Every vessel participating in the crab fishery in Statistical Subarea 48.3 shall conduct fishing operations in accordance with an experimental harvest regime as outlined below:

1. Vessels shall conduct the experimental harvest regime in the 2006/07 season at the start of their first season of participation in the crab fishery and the following conditions shall apply:

(i) every vessel when undertaking an experimental harvesting regime shall expend its first 200,000 pot hours of effort within a total area delineated by twelve blocks of 0.5° latitude by 1.0° longitude. For the purposes of this Conservation Measure, these blocks shall be numbered A to L. In Annex 52-02/A, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) vessels shall not fish outside the area delineated by the 0.5° latitude by 1.0° longitude blocks prior to completing the experimental harvesting regime;

(iii) vessels shall not expend more than 30,000 pot hours in any single block of 0.5° latitude by 1.0° longitude;

(iv) if a vessel returns to port before it has expended 200,000 pot hours in the experimental harvesting regime, the remaining pot hours shall be expended before it can be considered that the vessel has completed the experimental harvesting regime;

(v) after completing 200,000 pot hours of experimental fishing, it shall be considered that vessels have completed the experimental harvesting regime and they shall be permitted to commence fishing in a normal fashion.

2. Data collected during the experimental harvest regime up to 30 June 2007 shall be submitted to CCAMLR by 31 August 2007.

3. Normal fishing operations shall be conducted in accordance with the regulations set out in Conservation Measure 52-01.

4. For the purposes of implementing normal fishing operations after completion of the experimental harvest regime, the Ten-day Catch and Effort Reporting System set out in Conservation Measure 23-02 shall apply.

5. Vessels that complete experimental harvest regime shall not be required to conduct experimental fishing in future seasons. However, these vessels shall abide by the guidelines set forth in Conservation Measure 52-01.

6. Fishing vessels shall participate in the experimental harvest regime independently (i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

Conservation Measure 61-01 (2006)

Limits on the exploratory fishery for Martialia hyadesi in Statistical Subarea 48.3 in the 2006/07 season

(Species: squid; Area: 48.3; Season: 2006/07; Gear: jig)

The Commission hereby adopts the following Conservation Measure in accordance with Conservation Measures 21-02 and 31-01:

Access 1. Fishing for Martialia hyadesi in Statistical Subarea 48.3 shall be limited to the exploratory jig fishery by notifying countries. The fishery shall be conducted by vessels using jigs only.

Catch Limit 2. The total catch of Martialia hyadesi in Statistical Subarea 48.3 in the 2006/07 season shall not exceed a precautionary catch limit of 2,500 tonnes.

Season 3. For the purpose of the exploratory jig fishery for Martialia hyadesi in Statistical Subarea 48.3, the 2006/07 season is defined as the period from 1 December 2006 to 30 November 2007, or until the catch limit is reached, whichever is sooner.

Observers 4. Each vessel participating in this fishery shall have at least one scientific observer appointed in accordance with the CCAMLR Scheme of International Scientific Observation, and where possible one additional scientific observer, on board throughout all fishing activities within the fishing period.

Data: Catch/Effort

5. For the purpose of implementing this Conservation Measure in the 2006/07 season, the following shall apply:

(i) the Ten-day Catch and Effort Reporting System set out in Conservation Measure 23-02;

(ii) the Monthly Fine-scale Catch and Effort Reporting System set out in Conservation Measure 23-04. Fine-scale data shall be submitted on a haul-by-haul basis.

6. For the purpose of Conservation Measures 23-02 and 23-04, the target species is Martialia hyadesi and by-catch species are defined as any species other than Martialia hyadesi.

Data: Biological

7. Fine-scale biological data, as required under Conservation Measure 23-05, shall be collected and recorded. Such data shall be reported in accordance with the CCAMLR Scheme of International Scientific Observation.

Research 8. Each vessel participating in this exploratory fishery shall collect data in accordance with the Data Collection Plan described in Annex 61-01/A. Data collected pursuant to the plan for the period up to 31 August 2007 shall be reported to CCAMLR by 30 September 2007 so that the data will be available to the meeting of the Working Group on Fish Stock Assessment (WG-FSA) in 2007.

Environmental Protection

9. Conservation Measure 26-01 applies.

Annex 61-01/A

Data Collection Plan for Exploratory Squid (Martialia Hyadesi) Fisheries in Statistical Subarea 48.3

1. All vessels will comply with conditions set by CCAMLR. These include data required to complete the data form (Form TAC) for the Ten-day Catch and Effort Reporting System, as specified by Conservation Measure 23-02; and data required to complete the CCAMLR standard fine-scale catch and effort data form for a squid jig fishery (Form C3). This includes numbers of seabirds and marine mammals of each species caught and released or killed.

2. All data required by the CCAMLR Scientific Observers Manual for squid fisheries will be collected. These include:

(i) vessel and observer program details (Form S1)

(ii) catch information (Form S2)

(iii) biological data (Form S3).

Conservation Measure 91-01 (2004)

Procedure for according protection to CEMP sites

(Species: all; Area: general)

The Commission,

Bearing in mind that the Scientific Committee has established a system of sites contributing data to the CCAMLR Ecosystem Monitoring Program (CEMP), and that additions may be made to this system in the future,

Recalling that it is not the purpose of the protection accorded to CEMP sites to restrict fishing activity in adjacent waters,

Recognising that studies being undertaken at CEMP sites may be vulnerable to accidental or wilful interference,

Concerned, therefore, to provide protection for CEMP sites, scientific investigations and the Antarctic marine living resources therein, in cases where a Member or Members of the Commission conducting or planning to conduct CEMP studies believes such protection to be desirable,

hereby adopts the following Conservation Measure in accordance with Article IX of the Convention:

1. In cases where a Member or Members of the Commission conducting, or planning to conduct, CEMP studies at a CEMP site believe it desirable that protection should be accorded to the site, it, or they, shall prepare a draft management plan in accordance with Annex A to this Conservation Measure.

2. Each such draft management plan shall be sent to the Executive Secretary for transmission to all Members of the Commission for their consideration at least three months before its consideration by WG-EMM.

3. The draft management plan shall be considered in turn by WG-EMM, the Scientific Committee and the Commission. In consultation with the Member or Members of the Commission which drew up the draft management plan, it may be amended by any of these bodies. If a draft management plan is amended by either WG-EMM or the Scientific Committee, it shall be passed on in its amended form either to the Scientific Committee or to the Commission as the case may be.

4. If, following completion of the procedures outlined in paragraphs 1 to 3 above, the Commission considers it appropriate to accord the desired protection to the CEMP site, the Commission shall adopt a Resolution calling on Members to comply, on a voluntary basis, with the provisions of the draft management plan, pending the conclusion of action in accordance with paragraphs 5 to 8 below.

5. The Executive Secretary shall communicate such a Resolution to SCAR, the Antarctic Treaty Consultative Parties and, if appropriate, the Contracting Parties to other components of the Antarctic Treaty System which are in force.

6. Unless, before the opening date of the next regular meeting of the Commission, the Executive Secretary has received:

(i) an indication from an Antarctic Treaty Consultative Party that it desires the resolution to be considered at a Consultative Meeting; or

(ii) an objection from any other quarter referred to in paragraph 5 above; the Commission may, by means of a Conservation Measure, confirm its adoption of the management plan for the CEMP site and shall include the management plan in Annex 91-01/A of that Conservation Measure.

7. In the event that an Antarctic Treaty Consultative Party has indicated its desire for the Resolution to be considered at a Consultative Meeting, the Commission shall await the outcome of such consideration, and may then proceed accordingly.

8. If objection is received in accordance with paragraphs 6(ii) or 7 above, the Commission may institute such consultations as it may deem appropriate to achieve the necessary protection and to avoid interference with the achievement of the principles and purposes of, and measures approved under, the Antarctic Treaty and other components of the Antarctic Treaty System which are in force.

9. The management plan of any site may be amended by decision of the Commission. In such cases full account shall be taken of the advice of the Scientific Committee. Any amendment which increases the area of the site or adds to categories or types of activities that would jeopardise the objectives of the site shall be subject to the procedures set out in paragraphs 5 to 8 above.

10. Entry into a CEMP site described by a Conservation Measure shall be prohibited except for the purposes authorised in the relevant management plan for the site and in accordance with a permit issued under paragraph 11.

11. Each Contracting Party shall, as appropriate, issue permits authorising its nationals to carry out activities consistent with the provisions of the management plans for CEMP sites and shall take such other measures, within its competence, as may be necessary to ensure that its nationals comply with the management plans for such sites.

12. Copies of such permits shall be sent to the Executive Secretary as soon as practical after they are issued. Each year the Executive Secretary shall provide the Commission and the Scientific Committee with a brief description of the permits that have been issued by the Parties. In cases where permits are issued for purposes not directly related to the conduct of CEMP studies at the site in question, the Executive Secretary shall forward a copy of the permit to the Member or Members of the Commission conducting CEMP studies at that site.

13. Each management plan shall be reviewed every five years by WG-EMM and the Scientific Committee to determine whether it requires revision and whether continued protection is necessary. The Commission may then act accordingly.

Annex 91-01/A

Information To Be Included in Management Plans for CEMP Sites

A. Geographical Information

1. A description of the site, and any buffer zone within the site, including:

1.1 geographical coordinates

1.2 natural features, including those that define the site

1.3 boundary markers

1.4 access points (pedestrian, vehicular, airborne, sea-borne)

1.5 pedestrian and vehicular routes

1.6 preferred anchorages

1.7 location of structures within the site

1.8 restricted areas within the site

1.9 location of nearby scientific stations or other facilities

1.10 location of areas or sites, in or near the site, which have been accorded protected status in accordance with measures adopted under the Antarctic Treaty or other components of the Antarctic Treaty System that are in force.

2. Maps, including the following elements where appropriate:

2.1 Essential features

2.1.1 Title

2.1.2 Latitude and longitude

2.1.3 Scale bar with numerical scale

2.1.4 Comprehensive legend

2.1.5 Adequate and approved place names

2.1.6 Map projection and spheroid modification (indicate beneath the scale bar)

2.1.7 North arrow

2.1.8 Contour interval

2.1.9 Date of map preparation

2.1.10 Map preparer

2.1.11 Date of image collection (where applicable)

2.2 Essential topographical features

2.2.1 Coastline, rock, and ice

2.2.2 Peaks and ridgelines

2.2.3 Ice margins and other glacial features, clear delineation between ice/snow and ice-free ground; if glacial features are part of the boundary, date of survey should be indicated

2.2.4 Contours (labelled as appropriate), survey points, and spot heights

2.2.5 Bathymetric contours of marine areas, with relevant bottom features if known

2.3 Natural features

2.3.1 Lakes, ponds, and streams

2.3.2 Moraines, screes, cliffs, beaches

2.3.3 Beach areas

2.3.4 Bird and seal concentrations or breeding colonies

2.3.5 Extensive areas of vegetation

2.3.6 Wildlife access areas to the sea

2.4 Anthropogenic features

2.4.1 Stations

2.4.2 Field huts, refuges

2.4.3 Campsites

2.4.4 Roads and vehicle tracks, footpaths, feature overlaps

2.4.5 Approach paths and landing areas for airplanes and helicopters

2.4.6 Approach paths and access points for boats (wharfs, jetties)

2.4.7 Power supplies, cables

2.4.8 Antennae

2.4.9 Fuel storage areas

2.4.10 Water reservoirs and pipes

2.4.11 Emergency caches

2.4.12 Markers, signs

2.4.13 Historic sites or artefacts, archaeological sites

2.4.14 Scientific installations or sampling areas

2.4.15 Site contamination or modification

2.5 Boundaries

2.5.1 Boundary of area

2.5.2 Boundaries of subsidiary zones and protected areas within the mapping area

2.5.3 Boundary signs and markers (including cairns)

2.5.4 Boat/aircraft approach routes

2.5.5 Navigation markers or beacons

2.5.6 Survey points and markers

2.6 Other mapping guidelines

2.6.1 Verify all features and boundaries by GPS if possible

2.6.2 Ensure visual balance among elements

2.6.3 Appropriate shading (shading should be distinguishable on a photocopy of the map)

2.6.4 Correct and appropriate text; no feature overlap

2.6.5 Appropriate legend; use SCAR approved map symbols when possible

2.6.6 Text appropriately shadowed on image data

2.6.7 Photographs may be used where appropriate

2.6.8 Official maps should be in black and white

2.6.9 Most likely two or more maps will be needed for a management plan, one showing the site and the vicinity, and one detailed map of the site showing features essential for the management plan objectives; other maps may be useful (i.e. geological map of the area, three dimensional terrain model).

B. Biological Features

1. A description of the biological features of the site, in both space and time, which it is the purpose of the management plan to protect.

C. CEMP Studies

1. A full description of the CEMP studies being conducted or planned to be conducted, including the species and parameters which are being or are to be studied.

D. Protection Measures

1. Statements of prohibited activities:

1.1 throughout the site at all times of the year

1.2 throughout the site at defined parts of the year

1.3 in parts of the site at all times of the year

1.4 in parts of the site at defined parts of the year.

2. Prohibitions regarding access to and movement within or over the site.

3. Prohibitions regarding:

3.1 the installation, modification, and/or removal of structures

3.2 the disposal of waste.

4. Prohibitions for the purpose of ensuring that activity in the site does not prejudice the purposes for which protection status has been accorded to areas or sites, in or near the site, under the Antarctic Treaty or other components of the Antarctic Treaty System which are in force.

E. Communications Information

1. The name, address, telephone and facsimile numbers, and e-mail addresses, of:

1.1 the organisation or organisations responsible for appointing national representative(s) to the Commission;

1.2 the national organisation or organisations conducting CEMP studies at the site.

Notes:

1. A code of conduct. If it would help towards achieving the scientific objectives of the site, a code of conduct may be annexed to the management plan. Such a code should be written in hortatory rather than mandatory terms, and must be consistent with the prohibitions contained in Section D above.

2. Members of the Commission preparing draft management plans for submission in accordance with this Conservation Measure should bear in mind that the primary purpose of the management plan is to provide for the protection of CEMP studies at the site through the application of the prohibitions contained in Section D. To that end, the management plan is to be drafted in concise and unambiguous terms. Information which is intended to help scientists, or others, appreciate broader considerations regarding the site (e.g. historical and bibliographic information) should not be included in the management plan but may be annexed to it.

Conservation Measure 91-02 (2004)

Protection of the Cape Shirreff CEMP site

(Species: all; Area: 48.1)

1. The Commission noted that a program of long-term studies is being undertaken at Cape Shirreff and the San Telmo Islands, Livingston Island, South Shetland Islands, as part of the CCAMLR Ecosystem Monitoring Program (CEMP). Recognising that these studies may be vulnerable to accidental or wilful interference, the Commission expressed its concern that this CEMP site, the scientific investigations, and the Antarctic marine living resources therein be protected.

2. Therefore, the Commission considers it appropriate to accord protection to the Cape Shirreff CEMP site, as defined in the Cape Shirreff management plan.

3. Members shall comply with the provisions of the Cape Shirreff CEMP site management plan, which is recorded in Annex 91-02/A.

4. In accordance with Article X, the Commission shall draw this Conservation Measure to the attention of any State that is not a Party to the Convention and whose nationals or vessels are present in the Convention Area.

Annex 91-02/A

Management Plan for the Protection of Cape Shirreff and the San Telmo Islands, South Shetland Islands, as a Site Included in the CCAMLR Ecosystem Monitoring Program ¹

¹ As adopted at CCAMLR-XVIII (paragraphs 9.5 and 9.6), and revised at CCAMLR-XIX (paragraph 9.9).

A. Geographical Information

1. Description of the site:

(a) Geographical coordinates: Cape Shirreff is a low, ice-free peninsula towards the western end of the north coast of Livingston Island, South Shetland Islands, situated at latitude 62°27′S, longitude 60°47′W, between Barclay Bay and Hero Bay. San Telmo Islands are the largest of a small group of ice-free rock islets, approximately 2 km west of Cape Shirreff.

(b) Natural features: Cape Shirreff is approximately 3 km from north to south and 0.5 to 1.2 km from east to west. The site is characterised by many inlets, coves and cliffs. Its southern boundary is bordered by a permanent glacial ice barrier, which is located at the narrowest part of the cape. The cape is mainly an extensive rock platform, 46 to 83 m above sea level, the bedrock being largely covered by weathered rock and glacial deposits. The eastern side of the base of the cape has two beaches with a total length of about 600 m. The first is a boulder beach, the second of sand. Above this is a raised beach with mosses and lichens, crossed by melt-streams from the snow above. The extremity of the cape has a rocky barrier about 150 m long. The western side is formed by almost continuous cliffs 10 to 15 m high above an exposed coast with a few protected beaches. At the southwestern base of the cape is a small sandy and pebble beach approximately 50 m long.

The San Telmo Islands are located approximately 2 km west of Cape Shirreff, and are a group of ice-free, rocky islets. The east coast of San Telmo Island (the largest of the group) has a sandy and pebble beach (60 m) at the south end, separated from the northern sandy beach (120 m) by two irregular cliffs (45 m) and narrow pebble beaches.

(c) Boundary markers: The boundaries of the Cape Shirreff CEMP Protected Area are identical to the boundaries of the Site of Special Scientific Interest No. 32, as specified by ATCM Recommendation XV-7. At present, there are no man-made boundary markers indicating the limits of the SSSI or established protected areas. The boundaries of the site are defined by natural features (i.e. coastlines, glacial margins) described in Section A.1(d).

(d) Natural features that define the site: The Cape Shirreff CEMP Protected Area includes the entire area of the Cape Shirreff peninsula north of the glacier ice tongue margin, and most of the San Telmo Islands group. For the purposes of the CEMP protected area, ‘the entire area’ of Cape Shirreff and the San Telmo Islands group is defined as any land or rocks exposed at mean low tide within the area delimited by the map (Figure 3).

(e) Access points: The Cape Shirreff part of the CEMP site may be entered at any point where pinniped or seabird rookeries are not present on or near the beach. Access to the island in the San Telmo group is unrestricted but should be at the least densely populated areas and cause minimal disturbance to the fauna. Access for other than CEMP research should avoid disturbing pinnipeds and seabirds (see Sections D.1 and D.2). Access by small boat or helicopter is recommended in most circumstances. Four helicopter landing areas are recommended including: (i) The south plain of Playa Yámana, which is situated on the Southwest coast of the cape; (ii) on the west coast of the cape, on the top plain of Gaviota Hill (10x20 m), near the monument erected to commemorate the officers and crew of the Spanish ship San Telmo; (iii) the wide plain, Paso Ancho, situated to the east of Cóndor Hill; and (iv) the top plain of Cóndor Hill. Recommended sites for landing small boats include: (i) The northern end of Half Moon beach, on the east coast of the cape; (ii) on the east coast, 300 m north of El Mirador, there is a deep channel which permits easy disembarkation; and (iii) the northern end of Playa Yámana on the west coast of the cape (during high tide conditions). There are no landing sites for fixed-wing aircraft.

(f) Pedestrian and vehicular routes: Boats, helicopters, fixed-wing aircraft and land vehicles should avoid the site except for operations directly supporting authorised scientific activities. During these operations, boats and aircraft should travel routes that avoid or minimise disturbance of pinnipeds and seabirds. Land vehicles should not be used except to transport needed equipment and supplies to and from the field camps. Pedestrians should not walk through wildlife population areas, especially during the breeding season, or disturb other fauna or flora except as necessary to conduct authorised research.

(g) Preferred anchorages: Numerous shoals and pinnacles are known to exist in the vicinity of Cape Shirreff and the San Telmo Islands. The detailed bathymetric chart No. 14301 produced by the Servicio Hidrográfico y Oceanográfico de la Armada de Chile (SHOA, 1994) provides guidance but those unfamiliar with local conditions at Cape Shirreff are advised to approach the area with caution. Three anchorages that have been used in the past are: (i) Northwest coast—situated between Rapa-Nui Point on Cape Shirreff and the northern extremity of the San Telmo Islands; (ii) east coast—2.5 km to the east of El Mirador, being alert for icebergs drifting in the area; and (iii) south coast—located about 4 km off the southern coast of Byers Peninsula to support ship-based helicopter operations. Organisation(s) conducting CEMP studies at the site can provide further details about sailing instructions pertaining to recommended anchorages (see Section E.2).

(h) Location of structures within the site: During the 1991/92 austral summer, a fibreglass cabin for four people was installed by the Instituto Antártico Chileno (INACH) (Anonymous, 1992) in the El Mirador area. This area is on the cape's east coast, at the base of Condor Hill (near the site of the previous installation of the former Soviet Union). This site was chosen because of its accessibility by helicopter and boat, shelter from winds, good water supply and absence of seal or bird colonies. During the 1996/97 austral summer a U.S. AMLR field camp was established approximately 50 m to the south of the INACH camp. The U.S. camp is comprised of four small wood-constructed buildings (including an outhouse); all within 3 m of each other and jointed by wooden walkways. In February 1999 an emergency shelter/bird observation blind was constructed by the U.S. program at the northern end of the Cape. Minor remains of a hut used in the past by the former Soviet Union as well as sparse evidence of a 19th century sealers' camp can be found near the camp site.

(i) Areas within the site where activities are constrained: The protection measures specified in Section D apply to all areas within the Cape Shirreff CEMP Protected Area, as defined in Section A.1(d).

(j) Location of nearby scientific, research, or refuge facilities: The nearest research facility to the site is Juan Carlos I Station (summer only) maintained by the Spanish government at South Bay, Livingston Island, (62°40′S, 60°22′W), approximately 30 km southeast of Cape Shirreff. The Chilean Station Arturo Prat is located on Greenwich Island (62°30′S, 59°41′W) approximately 56 km northeast of Cape Shirreff. Numerous scientific stations and research facilities (e.g. Argentina, Brazil, Chile, China, Korea, Poland, Russia, Uruguay) are located on King George Island, approximately 100 km northeast of Cape Shirreff. The largest of these facilities is Base Presidente Eduardo Frei Montalva (also formerly referred to as Base Teniente Rodolfo Marsh Martin), maintained by the Chilean government on the western end of King George Island (62°12′S, 58°55′W).

(k) Areas or sites protected under the Antarctic Treaty System: Cape Shirreff and the San Telmo Islands are protected as a Site of Special Scientific Interest (No. 32) under the Antarctic Treaty System (see Section A.1(c)). Several other sites or areas within 100 km of Cape Shirreff are also protected under the Antarctic Treaty System: SSSI No. 5, Fildes Peninsula (62°12′S, 58°59′W); SSSI No. 6, Byers Peninsula (62°38′S, 61°05′W); SSSI No. 35, Ardley Island, Maxwell Bay, King George Island (62°13′S, 58°56′W); Marine SSSI No. 35, Western Bransfield Strait (63°20′S to 63°35′S, 61°45′W to 62°30′W); and SPA No. 16, Coppermine Peninsula, Robert Island (62°23′S, 59°44′W). The Seal Islands CEMP Protected Area (60°59′14″ S, 55°23′04″ W) is located approximately 325 km northeast of Cape Shirreff.

2. Maps of the site:

(a) Figures 1 and 2 show the geographical position of Cape Shirreff and the San Telmo Islands in relation to major surrounding features, including the South Shetland Islands and adjacent bodies of water.

(b) Figure 3 identifies the boundaries of the site and provides details of specific locations within the vicinity of Cape Shirreff and the San Telmo Islands, including preferred vessel anchorages.

B. Biological Features

1. Terrestrial: There is no information on soil biology of Cape Shirreff but it is likely that similar types of plants and invertebrates are found as at other sites in the South Shetland Islands (e.g. see Lindsey, 1971; Allison and Smith, 1973; Smith, 1984; Sömme, 1985). A moderate lichen cover (e.g. Polytrichum alpestre, Usnea fasciata) is present on rocks located in the higher geological platforms. In some valleys there are patches of moss and grass (e.g. Deschampsia antarctica).

2. Inland waters: There are several ephemeral ponds and streams located at Cape Shirreff. These form from melting snow, especially in January and February. Hidden Lake is the only permanent body of water on the cape, and it is located in the confluence of the slope of three hills: El Toqui, Pehuenche and Aymara. The lake's drainage supports the growth of moss banks along its northeast and southwest slopes. From the southwest slope a stream flows to the western coast at Playa Yámana. The lake's depth is estimated at two to 3 m and it is approximately 12 m long when fullest; the lake diminishes considerably in size after February (Torres, 1995). There are no known lakes or ephemeral ponds of significance on the San Telmo Islands.

3. Marine: No studies on littoral communities have been carried out. There is abundant macroalgae present in the intertidal zone. The limpet Nacella concinna is common, as elsewhere in the South Shetland Islands.

4. Seabirds: In January 1958, 2000 pairs of chinstrap penguins (Pygoscelis antarctica) and 200 to 500 pairs of gentoo penguins (P. papua) were reported (Croxall and Kirkwood, 1979). In 1981 two unspecified penguin colonies had 4,328 and 1,686 individuals respectively (Sallaberry and Schlatter, 1983). A census in January 1987, produced estimates of 20,800 adult chinstrap penguins and 750 adult gentoo penguins (Shuford and Spear, 1987). Hucke-Gaete et al. (1997a) identified the presence of 31 breeding colonies for both species during 1996/97 and reported estimates of 6,907 breeding pairs of chinstrap penguins and 682 of gentoo penguins. A chick census developed in early February that same year gave a total of 8,802 chinstrap penguins and 825 gentoo penguins. The first of a continuing CCAMLR census of the colonies at Cape Shirreff conducted on 3 December, 1997 recorded 7617 and 810 breeding pairs of chinstrap and gentoo penguins, respectively (Martin 1998). Dominican gulls (Larus domincanus), brown skuas (Catharacta lönnbergi), Antarctic terns (Sterna vittata), blue-eyed shags (Phalacrocorax atriceps), cape petrels (Daption capense), Wilson's storm petrels (Oceanites oceanicus) and black-bellied storm petrel (Fregetta tropica) also nest on the cape. Giant petrels (Macronectes giganteus) are regular visitors during the austral summer (Torres, 1995).

5. Pinnipeds: Cape Shirreff is presently the site of the largest known breeding colony of the Antarctic fur seal (Arctocephalus gazella) in the South Shetland Islands. The first post-exploitation record of fur seals at Cape Shirreff was reported by O'Gorman (1961) in mid-February 1958 when 27 non-breeding adults were seen. Over the past 30 years, the colony has continued to increase in size (Aguayo and Torres, 1968, 1993; Bengtson et al., 1990, Torres, 1995; Hucke-Gaete et al., 1999). Annual censuses begun in 1991/92 by INACH scientists showed that pup production has increased every year except for 1997/98 when there was an apparent 14% decrease in the entire SSSI. From 1965/66 to 1998/99 the population increased at a rate of 19.8%. However, from 1992/93 to 1998/99 the growth rate has decreased to ca. 7% per year, with the last census in 1998/99 reporting 5,497 pups born on Cape Shirreff and 3,027 pups born on San Telmo Islands (Hucke-Gaete et al., 1999). Groups of non-breeding southern elephant seals (Mirounga leonina), Weddell seals (Leptonychotes weddelli), leopard seals (Hydrurga leptonyx) and crabeater seals (Lobodon carcinophagus) have been observed on the cape (O'Gorman, 1961; Aguayo and Torres, 1967; Bengtson et al., 1990; Torres et al., 1998). Additionally, observations of pup carcasses suggest breeding sites of southern elephant seals (Torres, 1995).

CEMP Studies

1. The presence at Cape Shirreff of both Antarctic fur seal and penguin breeding colonies, and of krill fisheries within the foraging range of these species, make this a critical site for inclusion in the ecosystem monitoring network established to help meet the objectives of the Convention on the Conservation of Antarctic Marine Living Resources. The purpose of the designation is to allow planned research and monitoring to proceed, while avoiding or reducing, to the greatest extent possible, other activities which could interfere with or affect the results of the research and monitoring program or alter the natural features of the site.

2. The following species are of particular interest for CEMP routine monitoring and directed research at this site: Antarctic fur seals, chinstrap penguins and gentoo penguins.

3. Long-term studies are under way to assess and monitor the feeding ecology, growth and condition, reproductive success, behaviour, and population dynamics of pinnipeds and seabirds that breed in the area. The results of these studies will be compared with environmental data, wildlife diseases, offshore sampling data, and fishery statistics to identify possible cause-effect relationships.

4. Chilean scientists have been conducting studies at the site for many years and in recent seasons they have developed studies specifically designed to contribute to CEMP. These studies have mainly focused on Antarctic fur seals, wildlife diseases and survey of marine debris. Annual marine debris surveys began in 1985, with a baseline established in 1994 (e.g. Torres and Jorquera 1995, 1999). In 1996/97 U.S. scientists began CEMP monitoring studies of Antarctic fur seals, chinstrap and gentoo penguins in conjunction with studies of offshore prey distribution and general oceanography (e.g. Martin, 1999).

5. Penguin parameters routinely monitored include trends in population size (A3), demography (A4), duration of foraging trips (A5), breeding success (A6), chick fledging weight (A7), chick diet (A8) and breeding chronology (A9). Studies of fur seals include foraging energetics, at-sea foraging locations using satellite-linked telemetry, diving behaviour, diet studies, duration of foraging trips (C1), reproductive success, and pup growth rates (C2).

D. Protection Measures

1. Prohibited activities and temporal constraints:

(a) Throughout the site at all times of the year: Any activities which damage, interfere with, or adversely affect the planned CEMP monitoring and directed research at this site are not permitted.

(b) Throughout the site at all times of the year: Any non-CEMP activities are not permitted which result in:

(i) killing, injuring, or disturbing pinnipeds or seabirds;

(ii) damaging or destroying pinniped or seabird breeding areas; or

(iii) damaging or destroying the access of pinnipeds or seabirds to their breeding areas.

(c) Throughout the site at defined parts of the year: Human occupation of the site during the period 1 June to 31 August is not permitted except under emergency circumstances.

(d) In parts of the site at all times of the year: Building structures within boundaries of any pinniped or seabird colony is not permitted. For this purpose, colonies are defined as the specific locations where pinniped pups are born or where seabird nests are built. This prohibition does not pertain to placing markers (e.g. numbered stakes, posts, etc.) or situating research equipment in colonies as may be required to facilitate scientific research.

(e) In parts of the site at defined parts of the year: Entry into any pinniped or seabird colonies during the period 1 September to 31 May is not permitted except in association with CEMP activities.

2. Prohibitions regarding access to and movement within the site:

(a) Entry to the site at locations where pinniped or seabird colonies are present in densely populated areas is not permitted.

(b) Aircraft overflight of the site is not permitted at altitudes less than 1,000 m unless the proposed flight plan has been reviewed in advance by the organisation(s) conducting CEMP activities at the site (see Section E.2). Aircraft overflight at altitudes below 200 m is not permitted.

(c) The use of land vehicles is not permitted except to transport needed equipment and supplies to and from the field camps.

(d) Pedestrians are not permitted to walk through wildlife population areas (e.g. colonies, resting areas, pathways), or to disturb other fauna or flora, except as necessary to conduct authorised research.

3. Prohibitions regarding structures:

(a) Building structures other than those directly supporting authorised scientific research and monitoring programs or to house research personnel and their equipment is not permitted.

(b) Human occupation of these structures is not permitted during the period 1 June to 31 August (see Section D.1(c)).

(c) New structures are not permitted to be built within the site unless the proposed plans have been reviewed in advance by the organisation(s) conducting CEMP activities at the site (see Section E.2).

4. Prohibitions regarding waste disposal:

(a) Landfill disposal of any materials is not permitted; all materials brought to the site are to be removed when no longer in use.

(b) Disposal of waste fuels, volatile liquids and scientific chemicals within the site is not permitted; these materials are to be removed from the site for proper disposal elsewhere.

(c) The open burning of any materials is not permitted (except for properly used fuels for heating, lighting or cooking).

5. Prohibitions regarding the Antarctic Treaty System:

It is not permitted to undertake any activities in the Cape Shirreff CEMP Protected Area which are not in compliance with the provisions of: (i) The Antarctic Treaty, including the Agreed Measures for the Conservation of Antarctic Fauna and Flora and the Protocol on Environmental Protection, (ii) the Convention for the Conservation of Antarctic Seals, and (iii) the Convention for the Conservation of Antarctic Marine Living Resources.

E. Communications Information

1. Organisation(s) appointing national representatives to the Commission.

(a) Ministerio de Relaciones Exteriores, Direccion de Medio Ambiente (DIMA), Catedral 1143, 2°Piso, Santiago, Chile. Telephone: +56 (2) 679 4720. Facsimile: +56 (2) 673 2152. E-mail: mlcarvallo@minrel.gov.cl

(b) Bureau of Oceans and International Environmental and Scientific Affairs, US Department of State, Washington DC 20520, USA. Telephone: +1 (202) 647 3262. Facsimile: +1 (202) 647 1106.

2. Organisation(s) conducting CEMP studies at the site.

(a) Ministerio de Relaciones Exteriores, Instituto Ant´rtico Chileno, Plaza Muñoz Gamero 1055, Punta Arenas, Chile. Telephone: +56 (61) 29 8100. Facsimile: +56 (61) 29 8149. E-mail: vvallejos@inach.cl

(b) US Antarctic Marine Living Resources Program, National Marine Fisheries Service, NOAA, Southwest Fisheries Science Center, PO Box 271, La Jolla CA 92038, USA. Telephone: +1 (858) 546 5601. Facsimile: +1 (858) 546 5608. E-mail: rennie.holt@noaa.gov

Annex 91-02/A Cape Shirreff, Appendix 1

Code of Conduct for the Cape Shirreff Cemp Protected Area

Investigators should take all reasonable steps to ensure that their activities, both in implementing their scientific protocols as well as in maintaining a field camp, do not unduly harm or alter the natural behaviour and ecology of wildlife. Wherever possible, actions should be taken to minimise disturbance of the natural environment.

Killing, capturing, handling and taking eggs, blood, or other biological samples from pinniped and seabirds should be limited to that necessary to characterise and monitor individual and population parameters that may change in detectable ways in response to changes in food availability or other environmental factors. Sampling should be done and reported in accordance with: (i) The Agreed Measures for the Conservation of Antarctic Fauna and Flora and the Protocol on Environmental Protection, (ii) the Convention for the Conservation of Antarctic Seals, and (iii) the Convention for the Conservation of Antarctic Marine Living Resources.

Geological, glaciological and other studies which can be done outside of the pinniped and seabird breeding season, and which will not damage or destroy pinniped or seabird breeding areas, or access to those areas, would not adversely affect the planned assessment and monitoring studies. Likewise, the planned assessment and monitoring studies would not be affected adversely by periodic biological surveys or studies of other species which do not result in killing, injuring, or disturbing pinnipeds or seabirds, or damage or destroy pinnipeds or seabird breeding areas or access to those areas.

Annex 91-02/A Cape Shirreff, Appendix 2

Background Information Concerning Cape Shirreff

Prior to 1819, there were substantial colonies of fur seals, and possibly elephant seals, throughout the South Shetland Islands archipelago. Thereafter, Cape Shirreff was the scene of more intensive sealing activities until about 1825. Sealers' refuges were erected all around the western shores of Livingston Island, with those on the south coast being occupied mainly by American sealers and those on the north coast by British sealers. There were about 60 to 75 men living ashore at Cape Shirreff in January 1821 (Stackpole, 1955) and 95,000 skins were taken during the 1821/22 season (O'Gorman, 1963). There are ruins of at least 12 sealers' huts on the cape and the shoreline in several bays is littered with timbers and sections of wrecked sealers' vessels (Torres, 1995). The outcome of the sealing of the early 1820s was the extermination of fur seals from the entire region. Antarctic fur seals were not observed again in the South Shetland Islands until 1958, when a small colony was discovered at Cape Shirreff, Livingston Island (O'Gorman, 1961). The original colonisers probably came from South Georgia, where surviving fur seal colonies had substantially recovered by the early 1950s. Chilean studies at the site began in 1965 (e.g. Aguayo and Torres, 1967, 1968) and U.S. studies began in 1996 (e.g. Martin, 1998). At present, the fur seal rookeries at Cape Shirreff and the San Telmo Islands are the largest in the South Shetland Islands.

Annex 91-02/A Cape Shirreff, Appendix 3

History of Protection at Cape Shirreff

Cape Shirreff was designated in 1966 as Specially Protected Area (SPA) No. 11 by ATCM Recommendation IV-11 ‘on the grounds that the cape supports a considerable diversity of plant and animal life, including many invertebrates, that a substantial population of elephant seals (Mirounga leonina) and small colonies of Antarctic fur seals are found on the beaches and that the area is of outstanding interest’. The protection conferred on this site was successful in ensuring that Antarctic fur seals were not disturbed during the important early phases of their recolonisation. Subsequent to the site's designation as a SPA, the locally breeding population of Antarctic fur seals increased to a level at which biological research activities could be undertaken without threatening the continued recolonisation and population increase of this species.

Surveys during the mid-1980s to locate study sites for long-term monitoring of fur seal and penguin populations as part of the CCAMLR Ecosystem Monitoring Program (CEMP) indicated that Cape Shirreff would be an excellent site within the Antarctic Peninsula Integrated Study Region. To carry out such a monitoring program safely and effectively, a multi-year field camp for four to six researchers was needed within the area previously designated as SPA No. 11. This might have been considered inappropriate within a SPA and hence a proposal was made in 1988 to redesignate Cape Shirreff as a Site of Special Scientific Interest (SSSI). Additionally, it was proposed substantially to enlarge the site by the inclusion of the San Telmo Islands group, presently the location of the largest fur seal colony in the Antarctic Peninsula region.

Cape Shirreff was redesignated in 1990 as SSSI No. 32 by Recommendation XV-7, which was adopted by the XVth Consultative Meeting of the Antarctic Treaty. It was understood that SSSI No. 32, Cape Shirreff, should be redesignated an SPA (in its enlarged form) if and when the long-term monitoring of fur seals and seabirds at the site should be ended. Chilean and U.S. scientists initiated CEMP studies at Cape Shirreff during the late 1980s, and have collaborated on predator studies at Cape Shirreff since 1996/97. To further protect the site from damage or disturbance that could adversely affect the long-term CEMP monitoring and directed research, in 1991 Cape Shirreff was proposed as a CEMP Protected Area.

Bibliography

Aguayo, A. and D. Torres. 1967. Observaciones sobre mamíferos marinos durante la Vigésima Comisión Antártica Chilena. Primer censo de pinípedos en las Islas Shetland del Sur. Rev. Biol. Mar., 13 (1): 1-57.

Aguayo, A. and D. Torres. 1968. A first census of Pinnipedia in the South Shetland Islands and other observations on marine mammals. In: Symposium on Antarctic Oceanography, Santiago, Chile. Scott Polar Research Institute, Cambridge: 166-168.

Aguayo, A. and D. Torres. 1993. Análisis de los censos de Arctocephalus gazella efectuados en el Sitio de Especial Interés Científico N° 32, isla Livingston, Antártica. Ser. Cient. INACH, 43: 89-93.

Allison, J.S. and R.I.L.-Smith. 1973. The vegetation of Elephant Island, South Shetland Islands. Br. Antarct. Surv. Bull., 33 and 34: 185-212.

Anonymous. 1992. Instalaciones del INACH en la Antártica. Bol. Antart. Chileno, 11 (1): 16.

Bengtson, J.L., L.M. Ferm, T.J. Härklönen and B.S. Stewart. 1990. Abundance of Antarctic fur seals in the South Shetland Islands, Antarctica, during the 1986/87 austral summer. In: Kerry, K. and G. Hempel (Eds). Antarctic Ecosystems, Proceedings of the Fifth SCAR Symposium on Antarctic Biology. Springer-Verlag, Berlin: 265-270.

Croxall, J.P. and E.D. Kirkwood. 1979. The Distribution of Penguins on the Antarctic Peninsula and Islands of the Scotia Sea. British Antarctic Survey, Cambridge: 186 pp.

Hucke-Gaete, R., D. Torres and V. Vallejos. 1997. Entanglement of Antarctic fur seals Arctocephalus gazella in marine debris at Cape Shirreff and San Telmo Islets, Livingston Island, Antarctica: 1988-1977. Ser. Cient. INACH, 47: 123-135.

Hucke-Gaete, R., D. Torres, A. Aguayo, J. Acevedo, and V. Vallejos. 1999. Trends of Antarctic fur seal populations at SSSI No. 32, Livingston Island, South Shetlands, Antarctica. Document WG-EMM-99/16. CCAMLR, Hobart, Australia.

Laws, R.M. 1973. Population increase of fur seals at South Georgia. Polar Record, 16 (105): 856-858.

Lindsay, D.C. 1971. Vegetation of the South Shetland Islands. Br. Antarct. Surv. Bull., 25: 59-83.

Martin, J. (Ed.). 1998. AMLR 1997/98 Field Season Report. Southwest Fisheries Science Center Administrative Report LJ-98-07: 161 pp.

Martin, J. (Ed.). 1999. AMLR 1998/99 Field Season Report. Southwest Fisheries Science Center Administrative Report LJ-99-10: 158 pp.

O'Gorman, F.A. 1961. Fur seals breeding in the Falkland Islands Dependencies. Nature, Lond., 192: 914-916.

O'Gorman, F.A. 1963. The return of the Antarctic fur seal. New Scientist, 20: 374-376.

Sallaberry, M. and R. Schlatter. 1983. Estimación del número de pingüinos en el Archipiélago de las Shetland del Sur. Ser. Cient. INACH, 30: 87-91.

SHOA, 1994. Carta N°14301, Escala 1:15.000, cabo Shirreff, isla Livingston (Territorio Chileno Antrtico). Servicio Hidrográfico y Oceanográfico de la Armada de Chile.

Shuford, W.D. and L.B. Spear. 1987. Surveys of breeding penguins and other seabirds in the South Shetland Islands, Antarctica, January February 1987. Report to the U.S. National Marine Fisheries Service.

Smith, R.I.L. 1984. Terrestrial plant biology. In: Laws, R.M. (Ed.). Antarctic Ecology. Academic Press.

Sömme, L. 1985. Terrestrial habitats—invertebrates. In: Bonner, W.N. and D.W.H. Walton (Eds). Antarctica. Pergamon Press.

Stackpole, E.A. 1955. The voyage of the Huron and the Huntress: the American sealers and the discovery of the continent of Antarctica. The Marine Historical Association, Inc., Mystic, Conn., 29: 1-86.

Torres, D. 1995. Antecedentes y proyecciones científicas de los estudios en el SEIC N° 32 y sitio CEMP ‘cabo Shirreff e islotes San Telmo', isla Livingston, Antártica. Ser. Cient. INACH, 45: 143-169.

Torres, D. and D. Jorquera. 1995. Línea base para el seguimiento de los desechos marinos en cabo Shirreff, isla Livingston, Antártica. Ser. Cient. INACH, 45: 131-141.

Torres, D. and D. Jorquera. 1999. Synthesis of marine debris survey at Cape Shirreff, Livingston Island, during the Antarctic season 1998/99. Document CCAMLR-XVIII/BG/39. CCAMLR, Hobart, Australia.

Torres, D., V. Vallejos, J. Acevedo, R. Hucke-Gaete and S. Zárate. 1998. Registros biológicos atípicos en cabo Shirreff, isla Livingston, Antártica. Bol. Antárt. Chileno, 17 (1): 17-19.

BILLING CODE 3510-22-P

BILLING CODE 3510-22-C

Conservation Measure 91-03 (2004)

Protection of the Seal Islands CEMP site

(Species: all; Area: 48.1)

1. The Commission noted that a program of long-term studies is being undertaken at Seal Islands, South Shetland Islands, as part of the CCAMLR Ecosystem Monitoring Program (CEMP). Recognising that these studies may be vulnerable to accidental or willful interference, the Commission expressed its concern that this CEMP site, the scientific investigations, and the Antarctic marine living resources therein be protected.

2. Therefore, the Commission considers it appropriate to accord protection to the Seal Islands CEMP site, as defined in the Seal Islands management plan.

3. Members are required to comply with the provisions of the Seal Islands CEMP site management plan, which is recorded in Annex 91-03/A.

4. In accordance with Article X, the Commission shall draw this Conservation Measure to the attention of any State that is not a Party to the Convention and whose nationals or vessels are present in the Convention Area.

Annex 91-03/A

Management Plan for the Protection of Seal Islands, South Shetland Islands, as a Ecosystem Monitoring Program ¹

¹ As adopted at CCAMLR-XVI (paragraphs 9.67 and 9.68), and revised at CCAMLR-XIX (paragraph 9.9)

A. Geographical Information

1. Description of the site:

(a) Geographical coordinates: The Seal Islands are composed of small islands and skerries located approximately 7 km north of the northwest corner of Elephant Island, South Shetland Islands. The Seal Islands CEMP Protected Area includes the entire Seal Islands group, which is defined as Seal Island plus any land or rocks exposed at mean low tide within a distance of 5.5 km of the point of highest elevation on Seal Island. Seal Island is the largest island of the group, and is situated at 60°59′14″ S, 55°23′04″ W (coordinates are given for the point of highest elevation on the island—see Figures 1 and 2).

(b) Natural features: The Seal Islands cover an area approximately 5.7 km from east to west and 5 km from north to south. Seal Island is approximately 0.7 km long and 0.5 km wide. It has an altitude of about 125 m, with a raised plateau at about 80 m, and precipitous cliffs on most coastlines. There is a raised, sandy beach on the western shore and several coves on the northern and eastern shores. Seal Island is joined to the adjacent island to the west by a narrow sand bar that is approximately 50 m long; the bar is rarely passable on foot, and only when seas are calm and the tide is very low. Other islands in the group are similar to Seal Island, with precipitous cliffs, exposed coasts, and a few sand beaches and protected coves. There is no permanent ice on any of the islands. Seal Island is mainly composed of poorly consolidated sedimentary rocks. Rocks crumble and fracture easily, resulting in prevalent erosion from water runoff and coastal wave action. Geologists have characterised the bedrock ‘pebbly mudstone'. No fossils have been reported from the site. Because colonies of penguins are present in virtually all sectors of Seal Island (including the summit), the soil in many areas as well as several vertical rock faces are enriched by guano.

(c) Boundary markers: As of 1997, no man-made boundary markers indicating the limits of the protected area had been established. The boundaries of the site are defined by natural features (i.e. coastlines).

(d) Natural features that define the site: The Seal Islands CEMP Protected Area includes the entire Seal Islands group (see Section A.1(a) for definition). No buffer zones are defined for the site.

(e) Access points: The site may be accessed by boat or aircraft at any point where pinnipeds and seabirds will not be adversely affected (see Sections D.1 and D.2). Access by small boat is recommended in most circumstances because the number of beach landing spots for helicopters (which must approach these spots by flying over water rather than over land) is very limited. There are no landing sites for fixed-winged aircraft.

(f) Pedestrian and vehicular routes: Pedestrians should follow the advice of the local scientists in selecting pathways which will minimise disturbance to wildlife (see Section D.2(d)). Land vehicles are not permitted except in the immediate vicinity of the field camp and the beach (see Section D.2(c)).

(g) Preferred anchorages: Numerous shoals and pinnacles are known to exist in the vicinity of the Seal Islands, and navigation charts of the area are incomplete. Most ships visiting the area recently have preferred an anchorage spot approximately 1.5 km to the southeast of Seal Island (Figure 2), which has a rather consistent depth of approximately 18 m. A second anchorage utilised by smaller vessels is located approximately 0.5 km to the northeast of Seal Island (Figure 2) at a depth of about 20 m. Organisation(s) conducting CEMP studies at the site can provide further details about sailing instructions pertaining to these anchorages (see Section E.2).

(h) Location of structures within the site: As of March 1999 no structures remained on Seal Island. Between 1996 and 1999, all structures were dismantled and retrograded from the island.

(i) Areas within the site where activities are constrained: The protection measures specified in Section D apply to all areas within the Seal Islands Protected Area, as defined in Section A.1(d).

(j) Location of nearby scientific research or refuge facilities: The nearest research facility to the site is the scientific field camp maintained by the Brazilian government at Stinker Point, Elephant Island (61°04′ S, 55°21′ W), which is approximately 26 km south of Seal Island. However in some years this site is not occupied. Numerous scientific stations and research facilities are located on King George Island, which is approximately 215 km southwest of Seal Island.

(k) Areas or sites protected under the Antarctic Treaty System: No areas or sites within or near (i.e. within 100 km) the Seal Island Protected Area have been accorded protected status in accordance with measures adopted under the Antarctic Treaty or other components of the Antarctic Treaty System which are in force.

2. Maps of the site:

(a) Figure 1 shows the geographical position of the Seal Islands in relation to major surrounding features, including the South Shetland Islands and adjacent bodies of water.

(b) Figure 2 illustrates the location of the entire Seal Islands archipelago and preferred vessel anchorages. The detailed insert of Seal Island in Figure 2 shows the location of structures associated with CEMP studies and the location of the point of highest elevation (indicated by a cross).

B. Biological Features

1. Terrestrial: There is no information on soil biology at Seal Island but it is likely that similar types of plants and invertebrates are found as at other sites in the South Shetland Islands. Lichens are present on stable rock surfaces. There is no evidence of well-developed moss or grass banks being present on Seal Island.

2. Inland waters: There are no known lakes or ephemeral ponds of significance on Seal Island.

3. Marine: No studies on littoral communities have been carried out.

4. Birds: Seven species of birds are known to breed on the Seal Islands: chinstrap penguins (Pygoscelis antarctica), macaroni penguins (Eudyptes chrysolophus), Cape petrels (Daption capense), Wilson's storm petrels (Oceanites oceanicus), southern giant petrels (Macronectes giganteus), southern black-backed gulls (Larus dominicanus) and American Sheathbills (Chionis alba). The chinstrap penguin population on Seal Island numbers approximately 20,000 breeding pairs, nesting in about 60 colonies throughout the island. About 350 pairs of macaroni penguins nest on Seal Island in five separate colonies. The nesting and chick-rearing period for chinstrap and macaroni penguins at Seal Island extends from November to March. No surveys have been made of Cape petrel or storm petrel populations, however, both species are numerous; the Cape petrels nest on cliff faces and the storm petrels nest in burrows in the talus slopes. Brown skuas (Catharacta lnnbergi) are common. Blue-eyed shags (Phalacrocorax atriceps), Adélie penguins (Pygoscelis adeliae), gentoo penguins (Pygoscelis papua), king penguins (Aptenodytes patagonicus) and rockhopper penguins (Eudyptes chrysocome) are among the avian visitors to the area.

5. Pinnipeds: Five species of pinnipeds have been observed at Seal Island: Antarctic fur seals (Arctocephalus gazella), southern elephant seals (Mirounga leonina), Weddell seals (Leptonychotes weddellii), leopard seals (Hydrurga leptonyx) and crabeater seals (Lobodon carcinophagus). Of these, fur seals are the only confirmed breeders on the island, although small numbers of elephant seals probably breed on the island early in the spring. During the last few years approximately 600 fur seal pups have been born in the Seal Islands group, with approximately half of these born on Seal Island and half on Large Leap Island (Figure 2). The fur seal pupping and pup-rearing period at Seal Island extends from late November to early April. During the austral summer, elephant seals are ashore during their moult period; Weddell seals regularly haul out on the beaches; crabeater seals are infrequent visitors; and leopard seals are common both ashore and in coastal waters where they prey on penguins and fur seal pups.

C. CEMP Studies

1. The presence at the Seal Islands of both Antarctic fur seal and penguin breeding colonies, as well as significant commercial krill fisheries within the foraging range of these species make this an excellent site for inclusion in the CEMP network of sites established to help meet CCAMLR objectives. However, recent geological assessments of Seal Island have indicated that soil composition of cliff areas above and around the camp site are unstable and might result in catastrophic failure during periods of intense rainfall. Therefore, in 1994 the AMLR Program terminated its research at Seal Island and between 1996 and 1999 dismantled and retrograded all camp and observation blind structures.

2. No CEMP studies are being conducted at Seal Island and the USA has no plans to occupy the site in the future except to conduct seal and bird censuses.

D. Protection Measures

1. Prohibited activities and temporal constraints:

(a) Throughout the site at all times of the year. Any activities which damage, interfere with, or adversely affect CEMP monitoring and directed research which potentially could be conducted at this site are not permitted.

(b) Throughout the site at all times of the year. Any non-CEMP activities are not permitted which result in:

(i) Killing, injuring, or disturbing pinnipeds or seabirds;

(ii) Damaging or destroying pinniped or seabird breeding areas; or

(iii) Damaging or destroying the access of pinnipeds or seabirds to their breeding areas.

(c) Throughout the site at defined parts of the year: Human occupation of the site during the period 1 June to 31 August is not permitted except under emergency circumstances.

(d) In parts of the site at all times of the year: Building structures within the boundaries of any pinniped or seabird colony is not permitted. For this purpose, colonies are defined as the specific locations where pinniped pups are born or where seabird nests are built. This prohibition does not pertain to placing markers (e.g. numbered stakes, posts etc.) or situating research equipment in colonies as may be required to facilitate scientific research.

(e) In parts of the site at defined parts of the year: Entry into any pinniped or seabird colonies during the period 2 September to 31 May is not permitted except in association with CEMP activities.

2. Prohibitions regarding access to and movement within or over the site:

(a) Entry of the site at locations where pinniped or seabird colonies are present in the immediate vicinity is not permitted.

(b) Aircraft overflight of the site is not permitted at altitudes less than 1,000 m unless the proposed flight plan has been reviewed in advance by the organisation(s) conducting CEMP activities at the site (see Section E.2).

(c) The use of land vehicles is not permitted except to transport equipment and supplies to and from the field camp.

(d) Pedestrians are not permitted to walk through areas used regularly by pinnipeds and seabirds (i.e. colonies, resting areas, pathways) or to disturb other fauna or flora, except as necessary to conduct authorised research.

3. Prohibitions regarding structures:

(a) New structures are not permitted to be built within the site unless the proposed plans have been reviewed in advance by the organisation(s) conducting CEMP activities at the site (see Section E.2).

(b) Building structures other than those directly supporting CEMP directed scientific research and monitoring activities or to house personnel and/or their equipment is not permitted.

(c) Human occupation of these structures is not permitted during the period 1 June to 31 August (see Section D.1(c)).

4. Prohibitions regarding waste disposal:

(a) Landfill disposal of non-biodegradable materials is not permitted; non-biodegradable materials brought to the site are to be removed when no longer in use.

(b) Disposal of waste fuels, volatile liquids and scientific chemicals within the site is not permitted; these materials are to be removed from the site for proper disposal elsewhere.

(c) The burning of any non-organic materials or the open burning of any materials is not permitted (except for properly used fuels for heating, lighting, cooking or electricity).

5. Prohibitions regarding the Antarctic Treaty System:

It is not permitted to undertake any activities in the Seal Islands CEMP Protected Area which are not in compliance with the provisions of: (i) The Antarctic Treaty, including the Agreed Measures for the Conservation of Antarctic Fauna and Flora; (ii) the Convention on the Conservation of Antarctic Seals; and (iii) the Convention on the Conservation of Antarctic Marine Living Resources.

E. Communications Information

1. Organisation(s) appointing national representatives to the Commission: Bureau of Oceans and International Environmental and Scientific Affairs U.S. Department of State, Washington, DC 20520, USA, Telephone: +1 (202) 647 3262, Facsimile: +1 (202) 647 1106.

2. Organisation(s) which potentially might conduct CEMP studies at the site: U.S. Antarctic Marine Living Resources Program, Southwest Fisheries Science Center, National Marine Fisheries Service, NOAA, PO Box 271, La Jolla, CA 92038, USA, Telephone: +1 (858) 546 5601, Facsimile: +1 (858) 546 5608.

Annex 91-03/A Seal Islands, Appendix 1

Code of Conduct for the Seal Islands, Antarctica

Investigators should take all reasonable steps to ensure that their activities, both in implementing their scientific protocols as well as in maintaining a field camp, do not unduly harm or alter the natural behaviour and ecology of wildlife in the Seal Islands. Wherever possible, actions should be taken to minimise disturbance of the natural environment. Capturing, handling, killing, photographing and taking eggs, blood or other biological samples from pinnipeds and seabirds should be limited to that necessary to provide essential background information or to characterise and monitor individual and population parameters that may change in detectable ways in response to changes in food availability or other environmental factors. Sampling should be done and reported in accordance with: (i) The Antarctic Treaty, including the Agreed Measures for the Conservation of Antarctic Fauna and Flora; (ii) the Convention for the Conservation of Antarctic Seals; and (iii) the Convention on the Conservation of Antarctic Marine Living Resources.

Geological and other studies which can be done inside of the pinniped and seabird breeding seasons in such a way as they do not damage or destroy pinniped or seabird breeding areas, or access to those areas, would be permitted as long as they would not adversely affect the planned assessment and monitoring studies. Likewise, the planned assessment and monitoring studies would not be affected adversely by periodic biological surveys or studies of other species which do not result in killing, injuring or disturbing pinnipeds or seabirds, or damage or destroy pinnipeds or seabird breeding areas or access to those areas.

Annex 91-03/A Seal Islands, Appendix 2

Background Information Concerning the Seal Islands, Antarctica

Prior to 1819, there were substantial colonies of fur seals, and possible elephant seals, throughout the South Shetland Islands archipelago. Thereafter, commercial exploitation increased and, by the mid-1820s, fur seal breeding colonies had been completely destroyed throughout the South Shetland Islands (Stackpole, 1955; O'Gorman, 1963). Antarctic fur seals were not observed again in the South Shetland Islands until 1958, when a small colony was discovered at Cape Shirreff, Livingston Island (O'Gorman, 1961). The original colonisers probably came from South Georgia where surviving fur seal colonies had substantially recovered by the early 1950s. At present, the fur seal rookeries in the Seal Islands group are the second largest in the South Shetland Islands, with the largest rookeries being at Cape Shirreff and Telmo Islands, Livingston Island (Bengtson et al., 1990). During the past three decades, the population of Antarctic fur seals in the South Shetland Islands grew to a level at which tagging or other research could be undertaken at selected locations without threatening the population's continued existence and growth. During the 1986/87 austral summer, researchers from the USA surveyed areas on the South Shetland Islands and the Antarctic Peninsula to identify fur seal and penguin breeding colonies that might be suitable for inclusion in the network of CEMP monitoring sites being established. The results of that survey (Shuford and Spear, 1987; Bengtson et al., 1990), suggested that the Seal Island area would be an excellent site for long-term monitoring of fur seal and penguin colonies that might be affected by fisheries in the Antarctic Peninsula Integrated Study Region.

To safely and effectively carry out a long-term monitoring program, a temporary, multi-year field camp for a small group of researchers was established on Seal Island. This camp was occupied annually by U.S. scientists during the austral summer (approximately December to February) between 1986/87 and 1993/94. Because of the geological assessment that the cliff areas above and around the camp site are unstable and might result in catastrophic failure during periods of intense rainfall, the camp was closed. Between 1995/96 and 1998/99 all buildings, equipment, and supplies were retrograded from the island. In 1991, to protect the site from damage or disturbance that could adversely affect the long-term CEMP monitoring and directed research which were being conducted and planned for the future, the Seal Islands were proposed as a CEMP Protected Area. At its 1997 meeting (SC-CAMLR-XVI, paragraphs 4.17 to 4.20), the CCAMLR Scientific Committee reviewed the status of the Seal Island CEMP site management plan. Based on the expectation that research at the site would end, the Scientific Committee agreed that site protection would be extended for five years.

Bibliography

Bengtson, J.L., L.M. Ferm, T.J. Härkönen and B.S. Stewart. 1990. Abundance of Antarctic fur seals in the South Shetland Islands, Antarctica, during the 1986/87 austral summer. In: Kerry, K. and G. Hempel (Eds). Antarctic Ecosystems, Proceedings of the Fifth SCAR Symposium on Antarctic Biology. Springer-Verlag, Berlin: 265-270.

O'Gorman, F.A. 1961. Fur seals breeding in the Falkland Island Dependencies. Nature, Lond., 192: 914-916.

O'Gorman, F.A. 1963. The return of the Antarctic fur seal. New Scientist, 20: 374-376.

Shuford, W.D. and L.B. Spear. 1987. Surveys of breeding penguins and other seabirds in the South Shetland Islands, Antarctica, January-February 1987. Report of the U.S. National Marine Fisheries Service.

Stackpole, E.A. 1955. The voyage of the Huron and the Huntress: the American sealers and the discovery of the continent of Antarctic. The Marine Historical Association, Inc., Mystic, Conn., 29: 1-86.

BILLING CODE 3510-22-P

BILLING CODE 3510-22-C

Resolution 7/IX

Driftnet fishing in the Convention Area

(Species: all; Area: all; Season: all; Gear: drifnet)

1. The Commission endorsed the goals of the UN General Assembly Resolution 44/225 on large-scale pelagic driftnet fishing, which calls, inter alia, for a cessation of any further expansion of large-scale pelagic driftnet fishing on the high seas. Recognising the concentration of marine living resources present in Antarctic waters, it was noted that large-scale pelagic driftnet fishing can be a highly indiscriminate and wasteful fishing method that is widely considered to threaten the effective conservation of living marine resources. Although no Member is currently engaged in large-scale pelagic driftnet fishing in the Convention Area, the Commission expressed concern about the potential impact on marine living resources if large-scale pelagic driftnet fishing were to expand into the Convention Area.

2. To this end, the Commission agreed, in accordance with UN Resolution 44/225, that there will be no expansion of large-scale pelagic driftnet fishing into the Convention Area.

3. It was agreed that, in accordance with Article X, the Commission would draw this Resolution to the attention of any State that is not a Party to the Convention and whose nationals or vessels engage in large-scale pelagic driftnet fishing.

Resolution 10/XII

Resolution on harvesting of stocks occurring both within and outside the Convention Area

(Species: all; Area: all; Season: all; Gear: all)

The Commission,

Recalling the principles of conservation in Article II of the Convention and in particular that of the maintenance of the ecological relationships between harvested, dependent and related populations of Antarctic marine living resources,

Recalling the requirement under Article XI of the Convention for the Commission to seek to cooperate with Contracting Parties which may exercise jurisdiction in marine areas adjacent to the area to which the Convention applies in respect of the conservation of any stock or stocks of associated species which occur both within those areas and the area to which the Convention applies, with a view to harmonising the Conservation Measures adopted in respect of such stocks,

Emphasising the importance of further research on any stock or stocks of species which occur both within the area of the Convention and within adjacent areas,

Noting the concerns expressed by the Scientific Committee on the substantial exploitation of such stocks inside and outside the Convention Area, reaffirmed that Members should ensure that their flag vessels conduct harvesting of such stocks in areas adjacent to the Convention Area responsibly and with due respect for the Conservation Measures it has adopted under the Convention.

Resolution 14/XIX

Catch Documentation Scheme: implementation by Acceding States and non-Contracting Parties

(Species: Toothfish; Area: all; Season: all; Gear: all)

The Commission,

Having considered reports on the implementation of the Catch Documentation Scheme for Dissostichus spp. established by Conservation Measure 10-05 (1999),

Being satisfied that the Scheme has been successfully launched, and noting the improvements to the scheme made by Conservation Measures 10-05 (2000) and 10-05 (2001),

Conscious that the effectiveness of the Scheme depends also on implementation of the Scheme by those Contracting Parties which are not Members of the Commission (‘Acceding States’) but which fish for, or trade in, Dissostichus spp., as well as by non-Contracting Parties,

Concerned at the evidence that several acceding States and non-Contracting Parties which continue to be engaged in fishing for, or trading in, Dissostichus spp. are not implementing the Scheme,

Particularly concerned at the failure by such acceding States to implement the Scheme, to uphold and promote its objectives, and to meet their obligations under Article XXII to exert appropriate efforts with regard to activities contrary to the objectives of the Convention,

Determined to take all necessary measures, consistent with international law, to ensure that the effectiveness and credibility of the Scheme is not harmed by non-implementation of it by acceding States and non-Contracting Parties,

Acting pursuant to Article X of the Convention,

1. Urges all Acceding States and non-Contracting Parties not participating in the Catch Documentation Scheme which fish for, or trade in, Dissostichus spp. to implement the Scheme as soon as possible.

2. Requests to this end that the CCAMLR Secretariat convey this resolution to such Acceding States and non-Contracting Parties and give all possible advice and assistance to them.

3. Recommends that Members of the Commission make appropriate representations concerning this resolution to such Acceding States and non-Contracting Parties.

4. Reminds Members of the Commission of their obligation under the Catch Documentation Scheme to prevent trade in Dissostichus spp. in their territory, or by their flag vessels, with Acceding States or non-Contracting Parties when it is not carried out in compliance with the Scheme.

5. Decides to consider the matter again at the Twentieth Meeting of the Commission in 2001 with a view to taking such further measures as may be necessary.

Resolution 15/XXII

Use of ports not implementing the Catch Documentation Scheme for Dissostichus spp.

(Species: Toothfish; Area: all; Season: all; Gear: all)

The Commission,

Noting that a number of Acceding States and non-Contracting Parties not participating in the Catch Documentation Scheme for Dissostichus spp., as set out in Conservation Measure-10-05, continue to trade in Dissostichus spp.,

Recognising that these Acceding States and non-Contracting Parties thus do not participate in the landing procedures for Dissostichus spp. accompanied by Dissostichus Catch Documents, urges Contracting Parties,

When licensing a vessel to fish for Dissostichus spp. either inside the Convention Area under Conservation Measure 10-02, or on the high seas, to require, as a condition of that licence ¹, that the vessel should land catches only in States that are fully implementing the CDS; and to attach to the licence a list of all Acceding States and non-Contracting Parties that are fully implementing the Catch Documentation Scheme.

¹ Includes permits and authorisations.

Resolution 16/XIX

Application of VMS in the Catch Documentation Scheme

(Species: Toothfish; Area: all; Season: all; Gear: all)

The Commission agreed that, on a voluntary basis, subject to their laws and regulations, Flag States participating in the Catch Documentation Scheme for Dissostichus spp. should ensure that their flag vessels authorised to fish for or tranship Dissostichus spp. on the high seas maintain an operational VMS, as defined in Conservation Measure 10-04, throughout the whole of the calendar year.¹

¹ This requirement does not extend to vessels of less than 19 m engaged in artisanal fisheries.

Resolution 17/XX

Use of VMS and other measures for the verification of CDS catch data for areas outside the Convention Area, in particular, in FAO Statistical Area 51

(Species: toothfish; Area: north of Convention Area; Season: all; Gear: all)

The Commission,

Recognising the need to continue to take action, using a precautionary approach, based on the best scientific information available, in order to ensure the long-term sustainability of Dissostichus spp. stocks in the Convention Area,

Concerned that the Catch Documentation Scheme for Dissostichus spp. (CDS) could be used to disguise illegal, unreported and unregulated (IUU) catches of Dissostichus spp. in order to gain legal access to markets,

Concerned that any misreporting and misuse of the CDS seriously undermines the effectiveness of CCAMLR Conservation Measures,

1. Urges States participating in the CDS to ensure that Dissostichus Catch Documents (DCDs) relating to landings or imports of Dissostichus spp., when necessary, are checked by contact with Flag States to verify that the information in the DCD is consistent with the data reports derived from an automated satellite-linked Vessel Monitoring System (VMS) ¹.

2. Urges States participating in the CDS, if necessary to that end, to consider reviewing their domestic laws and regulations, with a view to prohibiting, in a manner consistent with international law, landings/transhipments/imports of Dissostichus spp. declared in a DCD as having been caught in FAO Statistical Area 51 if the Flag State fails to demonstrate that it verified the DCD using automated satellite-linked VMS derived data reports.

3. Requests the Scientific Committee to review the data concerning the areas where Dissostichus spp. occur outside the Convention Area and the potential biomass of Dissostichus spp. in such areas, in order to assist the Commission in the conservation and management of Dissostichus stocks and in defining the areas and potential biomasses of Dissostichus spp. which could be landed/imported/exported under the CDS.

¹ In this regard, verification of the information in the relevant DCD shall not be requested for the trawlers as described in Conservation Measure 10-05, footnote 1.

Resolution 18/XXI

Harvesting of Dissostichus eleginoides in areas outside of Coastal State jurisdiction adjacent to the CCAMLR Area in FAO Statistical Areas 51 and 57

(Species: toothfish; Area: north of Convention Area; Season: all; Gear: all)

The Commission,

Affirming that CCAMLR was established to conserve the marine living resources of the Antarctic marine ecosystem,

Recognising that CCAMLR also has the attributes of a regional fisheries management organisation as considered under the auspices of the United Nations,

Recognising that CCAMLR is the primary body responsible for the conservation and rational use of Dissostichus eleginoides in areas not under national jurisdiction,

Noting Resolution 10/XII concerning the need to harmonise management measures within and adjacent to the CCAMLR Area taking into account Article 87 of UNCLOS and in recognition of the obligations to conserve the living resources of the high seas under Articles 117 to 119 of UNCLOS,

Noting the role of cooperation in scientific research through collecting and exchanging data,

Recognising that measures to manage harvesting of stocks of Dissostichus eleginoides are needed in high seas of FAO Statistical Areas 51 and 57,

Recommends that Members provide data and other information, subject to their laws and regulations, relevant to understanding the biology and estimating the status of stocks in FAO Statistical Areas 51 and 57.

Recommends that Members take steps necessary to conduct only that level of harvesting of Dissostichus eleginoides in FAO Statistical Areas 51 and 57, which would ensure the conservation of this species in the Convention Area.

Resolution 19/XXI

Flags of non-compliance*

(Species: all; Area: all; Season: all; Gear: all)

The Commission,

Concerned that some Flag States, particularly certain non-Contracting Parties, do not comply with their obligations regarding jurisdiction and control according to international law in respect of fishing vessels entitled to fly their flag that carry out their activities in the Convention Area, and that as a result these vessels are not under the effective control of such Flag States,

Aware that the lack of effective control facilitates fishing by these vessels in the Convention Area in a manner that undermines the effectiveness of CCAMLR's Conservation Measures, leading to illegal, unreported and unregulated (IUU) catches of fish and unacceptable levels of incidental mortality of seabirds,

Considering therefore such fishing vessels to be flying Flags of Non-Compliance (FONC) in the context of CCAMLR (FONC vessels),

Noting that the FAO Agreement to Promote Compliance with International Conservation and Management Measures by Fishing Vessels on the High Seas emphasizes that the practice of flagging or reflagging fishing vessels as a means of avoiding compliance with international conservation and management measures for living marine resources and the failure of the States to fulfil their responsibilities with respect of fishing vessels entitled to fly their flag, are among the factors that seriously undermine the effectiveness of such measures,

Noting that the International Plan of Action to Prevent, Deter and Eliminate Illegal, Unreported and Unregulated Fishing calls on States to take measures to discourage nationals subject to their jurisdiction from supporting and engaging in any activity that undermines the effectiveness of international conservation and management measures, urges all Contracting Parties and non-Contracting Parties cooperating with CCAMLR to:

1. Without prejudice to the primacy of the responsibility of the Flag State, to take measures or otherwise cooperate to ensure, to the greatest extent possible, that the nationals subject to their jurisdiction do not support or engage in IUU fishing, including engagement on board FONC vessels in the CCAMLR Convention Area if this is consistent with their national law.

2. Ensure the full cooperation of their relevant national agencies and industries in implementing the measures adopted by CCAMLR.

3. Develop ways to ensure that the export or transfer of fishing vessels from their State to a FONC State is prohibited.

4. Prohibit the landings and transhipments of fish and fish products from FONC vessels.

* Many of the flags hereby called FONC are commonly referred to as ‘flags of convenience’.

Resolution 20/XXII

Ice-strengthening standards in high-latitude fisheries ¹

(Species: all; Area: south of 60°S; Season: all; Gear: all)

The Commission

Recognising the unique circumstances in high-latitude fisheries, especially the extensive ice coverage which can pose a risk to fishing vessels operating in those fisheries,

Recognising also that the safety of fishing vessels, crew and CCAMLR scientific observers is a significant concern of all Members,

Further recognising the difficulties of search and rescue response in high-latitude fisheries,

Concerned that collisions with ice could result in oil spills and other adverse consequences for Antarctic marine living resources and the pristine Antarctic environment,

Considering that vessels fishing in high-latitude fisheries should be suitable for ice conditions,

urges Members to licence to fish in high-latitude fisheries only those of their flag vessels with a minimum ice classification standard of ICE-1C ² which will remain current for the duration of the planned fishing activity.

¹ Subareas and divisions south of 60 S and adjacent to the Antarctic continent.

² As defined in the Det Norske Veritas (DNV) Rules for Classification of Ships or an equivalent standard of certification as defined by a recognised classification authority.

Resolution 21/XXIII

Electronic Catch Documentation Scheme for Dissostichus spp.

(Species: toothfish; Area: all; Season: all; Gear: all)

The Commission,

Noting the successful implementation of the trial electronic Catch Documentation Scheme for Dissostichus spp. (E-CDS) during the intersessional period,

Desiring to ensure that Dissostichus Catch Documents are handled in the most efficient and timely way,

Aware of the importance of applying the best technologies to make the functioning of the Catch Documentation Scheme for Dissostichus spp. (CDS) more secure against, inter alia, possible fraudulent activities;

Noting that, whilst paper-based Dissostichus Catch Documents will, for the time being, also be retained, some Contracting Parties are already converting to electronic systems,

1. Urges Contracting Parties, and non-Contracting Parties cooperating in the CDS, to adopt the E-CDS as a matter of priority.

2. Requests the Secretariat to compile information relating to, and submit a report on, the implementation of the E-CDS so that the effectiveness of the electronic scheme can be reviewed at the next meeting of the Commission.

Resolution 22/XXV

International actions to reduce the incidental mortality of seabirds arising from fishing

(Species: seabirds; Area: all; Season: all; Gear: all)

The Commission,

Recollecting that the greatest current threats to species and populations of Southern Ocean seabirds breeding in the Convention Area are fishery-related incidental mortality and the potential impact of illegal, unreported and unregulated (IUU) fishing,

Noting the substantial reduction of incidental mortality of seabirds in the Convention Area as a result of Conservation Measures implemented by the Commission,

Concerned that, despite such measures, many populations of albatross and petrel species breeding in the Convention Area continue to decline and that such reductions in their populations are unsustainable,

Concerned at increasing evidence of fishery-related incidental mortality of seabirds that breed and forage in the Convention Area,

Noting that the seabirds caught are almost entirely albatross and petrel species which are threatened with global extinction,

Recognising that some populations of albatrosses and petrels will not stabilise until total incidental mortality levels are significantly reduced,

Recalling CCAMLR's collaborations with the Agreement on the Conservation of Albatrosses and Petrels (ACAP), a multilateral agreement that provides a focus for international cooperation and exchange of information and expertise towards the conservation of the declining populations of these seabirds,

Recalling repeated attempts to communicate these concerns to RFMOs,

1. Invites listed RFMOs (Appendix 1), consistent with the FAO's Code of Conduct for Responsible Fisheries and the IPOA-Seabirds, to implement or develop, as appropriate, mechanisms to require the collection, reporting and dissemination of annual data on seabird incidental mortality, particularly:

(i) Rates of incidental mortality of seabirds associated with each fishery, details of the seabird species involved, and estimates of total seabird mortality (at least at the scale of FAO area);

(ii) Measures to reduce or eliminate incidental mortality of seabirds that are in use in each fishery and the extent to which any of these are voluntary or mandatory, together with an assessment of their effectiveness;

(iii) Scientific observer programs that can provide comprehensive spatial and temporal coverage of fisheries to allow statistically robust estimation of incidental mortality associated with each fishery.

2. For high-seas areas within the range of seabirds that breed and forage in the Convention Area, where unregulated fishing takes place or where systematic data reporting has not yet been introduced by listed RFMOs, the Executive Secretary should contact Flag States which have vessels in these areas to:

(i) Express CCAMLR's interest in such seabird species,

(ii) Indicate the need to require such fishing vessels to collect and report the data specified in paragraph 1 above, and

(iii) Forward these data to the CCAMLR Secretariat to be made available to ad hoc WG-IMAF.

3. Encourages Contracting Parties to:

(i) Request that the topic of seabird incidental mortality be included on the agenda of meetings of pertinent RFMOs and, where possible and appropriate, to send relevant experts to these meetings;

(ii) Identify those areas and circumstances where incidental mortality of seabirds that breed and forage in the Convention Area occurs;

(iii) Identify and continue to develop those mitigation measures which would be most effective at reducing or eliminating such mortality and to require such measures to be implemented in the relevant fisheries.

4. Encourages Contracting Parties involved with new and developing RFMOs to request that incidental mortality of seabirds is adequately addressed and mitigated. Appropriate initiatives might include:

(i) Establishment or expansion of existing observer programs and adoption of appropriate data collection protocols on seabird incidental mortality;

(ii) Establishment of by-catch working groups that will address incidental mortality issues and make recommendations for practicable and effective mitigation measures, including evaluation of established and innovative technologies and techniques;

(iii) Evaluations of fishery impacts on the affected seabird populations;

(iv) Collaborations (e.g. on data exchange) with listed RFMOs.

5. Encourages Contracting Parties to:

(i) Implement, as appropriate, measures to reduce or eliminate seabird incidental mortality;

(ii) Require such flagged vessels to collect and report the data specified in paragraph 1 above;

(iii) Report to the CCAMLR Secretariat annually on the implementation of such measures, including their effectiveness in reducing seabird incidental mortality.

6. Requests ad hoc WG-IMAF, at its annual meeting, to collate and analyse reports relating to paragraphs 1, 2 and 5 above and advise the Commission, through the Scientific Committee, on the implementation and effectiveness of this resolution.

7. Further requests the Secretariat to bring this resolution to the attention of the RFMOs listed in Appendix 1 and seek their cooperation on its implementation.

Appendix 1

Regional Fisheries Management Organisations Identified for Contact With Respect to Collaborations on the Mitigation of By-Catch of Southern Ocean Seabirds

Inter-American Tropical Tuna Commission (IATTC)

International Commission for the Conservation of Atlantic Tunas (ICCAT)

South East Atlantic Fisheries Organisation (SEAFO)

Indian Ocean Tuna Commission (IOTC)

Commission for the Conservation of Southern Bluefin Tuna (CCSBT)

Agreement on the Organization of the Permanent Commission on the Exploitation and Conservation of the Marine Resources of the South Pacific, 1952 (CPPS)

Southwest Indian Ocean Fisheries Commission (SWIOFC)

Commission for Conservation and Management of Highly Migratory Fish Stocks in the Western and Central Pacific (WCPFC)

Western Indian Ocean Tuna Organization Convention (WIOTO)

The organization does not have regulatory power.

Southern Indian Ocean Fisheries Agreement (SIOFA)

Resolution 23/XXIII

Safety on board vessels fishing in the Convention Area

(Species: all; Area: all; Season: all; Gear: all)

The Commission,

Recognising the difficult and dangerous conditions experienced in high-latitude fisheries in the Convention Area,

Further considering the remoteness of those waters and in consequence the difficulties of search and rescue response,

Desiring to ensure that the safety of fishing crews and CCAMLR scientific observers remains a priority concern of all Members,

Urges Members to take particular measures through, inter alia, appropriate survival training and the provision and maintenance of appropriate equipment and clothing to promote the safety of all those on board vessels fishing in the Convention Area.

Resolution 25/XXV

Combating illegal, unreported and unregulated fishing in the Convention Area by the flag vessels of non-Contracting Parties

(Species: all; Area: all; Season: all; Gear: all)

The Commission,

Concerned about the increasing number of vessels repeatedly fishing in the Convention Area in an illegal, unreported or unregulated (IUU) manner,

Recognising that such fishing is causing potentially irreversible damage to fish stocks and other marine species and preventing the Commission from achieving its objective of conservation of Antarctic marine living resources in the Convention Area,

Concerned that many of these vessels are flagged to non-Contracting Parties that have failed to respond to correspondence from the Commission and diplomatic and other representations by Commission Members, seeking that they cooperate with the Commission,

Acknowledging that many of the above non-Contracting Parties are Parties to the United Nations Convention on the Law of the Sea (UNCLOS),

Desiring to promote recognition that CCAMLR Conservation Measures constitute relevant standards needed to achieve conservation and rational use of Antarctic marine living resources,

Noting that the International Plan of Action to prevent, deter and eliminate IUU fishing (IPOA-IUU) urges States to ensure that fishing vessels entitled to fly their flag do not engage in or support IUU fishing and requires that a Flag State be in a position to exercise its responsibility to control any vessel it registers and ensure such vessels do not engage in or support IUU fishing,

Determined to pursue diplomatic and other action, in accordance with international law, with non-Contracting Parties that fail to cooperate with CCAMLR, including by failing to direct their flag vessels to cease IUU fishing and failing to take legal and other action against their flag vessels that disobey such directions,

Recognising the value of cooperation and joint diplomatic approaches by CCAMLR

Contracting Parties in undertaking such action and exerting influence, urges all Contracting Parties to individually and collectively, including in other relevant international fora such as the United Nations Food and Agriculture Organization and regional fisheries management organisations, to the extent possible in accordance with their applicable laws and regulations:

1. Pursue diplomatic and other action, in accordance with international law, with non-Contracting Party Flag States, seeking, as appropriate, that they:

(i) Recognise that CCAMLR Conservation Measures constitute relevant standards needed to achieve conservation and rational use of Antarctic marine living resources;

(ii) Investigate the activities of vessels fishing under their flag in the Convention Area, in accordance with Article 94 of UNCLOS, and report findings of such investigations to the Commission;

(iii) Accede to the Convention and cooperate with the Commission and, until such time as they do, direct their flag vessels not to fish in the Convention Area and take legal and other action against those vessels that disobey this directive;

(iv) Grant permission for boarding and inspection by designated CCAMLR inspectors of their flag vessels suspected of, or found to be, fishing in an IUU manner in the Convention Area.

2. Seek the cooperation of non-Contracting Party Port States when IUU fishing vessels seek to use the ports of non-Contracting Parties, urging them to take the steps in accordance with Conservation Measure 10-07.

Policy To Enhance Cooperation Between CCAMLR and Non-Contracting Parties

(as adopted at CCAMLR-XVIII and amended at CCAMLR-XXV)

The Commission, in order to:

• Ensure the effectiveness of CCAMLR Conservation Measures;

• Enhance cooperation with non-Contracting Parties, including those implicated in fishing which undermines the effectiveness of those measures (hereafter referred to as illegal, unreported and unregulated fishing (IUU) fishing); and

• Eliminate IUU fishing, including that by non-Contracting Parties,

hereby adopts the following policy:

I. The Executive Secretary is requested to develop a list of non-Contracting Parties implicated in IUU fishing and or trade either after the adoption of this policy or during the three years prior, which has undermined the effectiveness of CCAMLR Conservation Measures.

II. The Chairman of the Commission shall write to the Minister for Foreign Affairs of each non-Contracting Party included in the abovementioned list explaining how IUU fishing undermines the effectiveness of CCAMLR Conservation Measures. The letter, as appropriate, will:

(a) Invite and encourage non-Contracting Parties to attend as observers at meetings of the Commission in order to improve their understanding of the work of the Commission and the effects of IUU fishing;

(b) Encourage non-Contracting Parties to accede to the Convention;

(c) Inform non-Contracting Parties of the development and implementation of the CCAMLR Catch Documentation Scheme for Dissostichus spp. and provide them with a copy of the Conservation Measure and the explanatory memorandum;

(d) Encourage non-Contracting Parties to participate in the CCAMLR Catch Documentation Scheme and draw their attention to the consequences for them of not participating;

(e) Request non-Contracting Parties to prevent their flag vessels from fishing in the Convention Area in a manner which undermines the effectiveness of measures adopted by CCAMLR to ensure conservation and sustainably managed fisheries;

(f) If their flag vessels are involved in IUU fishing, request non-Contracting Parties to provide information to the CCAMLR Secretariat on their vessels' activities, including catch and effort data;

(g) Seek the assistance of non-Contracting Parties in investigating the activities of their flag vessels suspected of being involved in IUU fishing, including inspecting such vessels when they next reach port;

(h) Request non-Contracting Parties to report to the CCAMLR Secretariat on landings and transhipments in their ports in accordance with the format specified in Attachment A; and

(i) Request non-Contracting Parties to deny landing or transhipments in their ports for fish harvested in CCAMLR waters not taken in compliance with CCAMLR Conservation Measures and requirements under the Convention.

III. Parties shall individually and collectively take all appropriate efforts to implement or assist in the implementation of this policy; such efforts may include taking concerted action on joint demarches on non-Contracting Parties to complement correspondence from the Chairman.

IV. The Commission will annually review the effectiveness of the implementation of this policy.

V. The Executive Secretary will regularly inform non-Contracting Parties concerned of new Conservation Measures adopted by CCAMLR.

Attachment A

Submission of Information by Non-Contracting Parties on Landings and Transhipments of Toothfish Dissostichus ssp.) in Their Ports

To the extent possible the required information should be submitted in the following format:

(i) Whether the vessel is a fishing or cargo vessel; if it is a fishing vessel, what type of vessel (trawler/longliner);

(ii) The name, international call sign and registration number of the vessel;

(iii) The flag and port of registration;

(iv) Whether an inspection had been conducted by the Port State and, if so, its findings, including information on the fishing licence of the vessel concerned;

(v) The species of fish involved, including the weight and form of catch, and whether it was landed or transhipped;

(vi) If a fishing vessel, the location(s) in which it had operated according to the vessel's records and where it reported the catch as having been taken (CCAMLR or non CCAMLR); and

(vii) The nature of any matters requiring further investigation by the Flag State.

Attachment B

CCAMLR Cooperation Enhancement Program

Objectives

The aim of this Cooperation Enhancement Program is to encourage and build the capacity of non-Contracting Parties to cooperate with CCAMLR. The ultimate desired outcome is more countries working with CCAMLR to combat illegal, unreported and unregulated (IUU) fishing on the water and in their ports.

Cooperation between non-Contracting Parties and CCAMLR may be through:

• Exchange of information about IUU fishing with CCAMLR;

• Participation in key CCAMLR initiatives, such as the CDS, through implementation of Conservation Measures;

• Acceding to the Convention and/or joining the Commission, as appropriate.

Guiding Principles

The Cooperation Enhancement Program has the following attributes:

• A focus on technical cooperation;

• Flexibility to tailor cooperation to meet the needs of both the Commission and the recipient State on a case-by-case basis;

• A partnership model involving the CCAMLR Secretariat, experienced CCAMLR Member(s) as sponsors and the recipient States(s);

• Matching of sponsors and recipients based on expertise, historical relationships between States and proximity;

• Central repository of information and training material by the CCAMLR Secretariat.

Resourcing

CCAMLR Members will initially fund their own costs of delivery and participation in cooperation enhancement exercises. The Commission should investigate other sources of funding, including the establishment of a special fund to which Contracting Parties can contribute. CCAMLR Members can develop their own training materials at any time as required.

To encourage consistency and ensure effective use of Members' resources, CCAMLR Members will actively share training materials. This will be facilitated by the Secretariat maintaining a central repository of relevant materials and information on the CCAMLR Web site. CCAMLR Conservation Measures will always form the basis of technical and training cooperation. CCAMLR will fund the development of a package of standing training materials for the Catch Documentation Scheme that will be available to all members.

Selecting Countries for Capacity Building

The Commission will agree a priority list of countries that may benefit from technical cooperation and update this list as required. The list will be developed from information submitted by members, including reports on the activity and movement of IUU fishing vessels and their interactions with non-Contracting Parties.

Inclusion of countries on the list will be guided by the following criteria:

• The country is a key flag and/or port State for toothfish, and its cooperation would assist the Commission to better control IUU fishing and trade of fish caught in an IUU manner and/or achieve the objective of the Convention.

• The country is open to change and there is genuine political will to cooperate with CCAMLR and combat IUU fishing, but the country does not do so because it lacks the resources or expertise.

• With some training and technical assistance over time, the country would eventually be able to implement relevant Conservation Measures on their own.

• The country has appropriate government structures to commit the necessary time and resources to allow it to effectively participate in technical cooperation and is prepared to make a commitment to such cooperation (for example, by nominating a competent authority for implementation of the CDS).

Reporting

CCAMLR Members are encouraged to report on the nature and outcomes of their technical cooperation. This reporting is at the discretion of Members, but could take the form of a Commission circular or a presentation at the Commission meeting.

Text of the CCAMLR System of Inspection ¹

¹

As adopted at CCAMLR-VII (paragraph 124) and amended at CCAMLR-XII (paragraphs 6.4 and 6.8), CCAMLR-XIII (paragraph 5.26), CCAMLR-XIV (paragraphs 7.22, 7.26 and 7.28), CCAMLR-XV (paragraph 7.24), CCAMLR-XVI (paragraph 8.14), CCAMLR-XVIII (paragraph 8.25) and CCAMLR-XXV (paragraph 12.73).

I. Each Member of the Commission may designate Inspectors referred to in Article XXIV of the Convention.

(a) Designated Inspectors shall be familiar with the fishing and scientific research activities to be inspected, the provisions of the Convention and measures adopted under it.

(b) Members shall certify the qualifications of each Inspector they designate.

(c) Inspectors shall be nationals of the Contracting Party which designates them and, while carrying out inspection activities, shall be subject solely to the jurisdiction of that Contracting Party.

(d) Inspectors shall be able to communicate in the language of the Flag State of the vessels on which they carry out their activities.

(e) Inspectors shall be accorded the status of ship's officer while on board such vessels.

(f) Names of Inspectors shall be communicated to the Secretariat within fourteen days of designation.

II. The Commission shall maintain a register of certified Inspectors designated by Members.

(a) The Commission shall communicate, each year, the register of Inspectors to each Contracting Party within a month of the last day of the Commission meeting.

III. In order to verify compliance with Conservation Measures adopted under the Convention, Inspectors designated by Members shall be entitled to board a fishing or fisheries research vessel in the area to which the Convention applies to determine whether the vessel is, or has been, engaged in scientific research, or harvesting, of marine living resources.²

² The Commission stated its understanding that the System of Inspection applied to flag vessels of all Members of the Commission and where appropriate, Acceding States (CCAMLR-XIV, paragraph 7.25).

(a) Inspection may be carried out by designated Inspectors from vessels of the Designating Member.

(b) Ships carrying Inspectors shall carry a special flag or pennant approved by the Commission to indicate that the Inspectors on board are carrying out inspection duties in accordance with this system.

(c) Such Inspectors may also be placed on board vessels, with the schedule of embarkation and disembarkation of Inspectors subject to arrangements to be concluded between the Designating Member and the Flag State.

IV. Each Contracting Party shall provide to the Secretariat:

(a) One month before the commencement of the research cruise and in accordance with Conservation Measure 24-01 ‘The Application of Conservation Measures to Scientific Research’, the names of all vessels intending to conduct fishing for research purposes.

(b) Within seven days of the issuance of each permit or licence in accordance with Conservation Measure 10-02 ‘Licensing and Inspection Obligations of Contracting Parties with regard to their Flag Vessels Operating in the Convention Area’, the following information about licences or permits issued by its authorities to its flag vessels authorising them to fish in the Convention Area:

• Name of the vessel;

• Time periods authorised for fishing (start and end dates);

• Area(s) of fishing;

• Species targeted; and

• Gear used.

(c) By 31 August, an annual report of steps it has taken to implement the inspection, investigation and sanction provisions of Conservation Measure 10-02 ‘Licensing and Inspection Obligations of Contracting Parties with regard to their Flag Vessels Operating in the Convention Area’.

V. (a) Any vessel present in the Convention Area for the purpose of harvesting or conducting scientific research on marine living resources shall, when given the appropriate signal in the International Code of Signals by a ship carrying an Inspector (as signified by flying the flag or pennant referred to above), stop or take other such actions as necessary to facilitate the safe and prompt transfer of the Inspector to the vessel, unless the vessel is actively engaged in harvesting operations, in which case it shall do so as soon as practicable.

(b) The Master of the vessel shall permit the Inspector, who may be accompanied by appropriate assistants, to board the vessel.

VI. Inspectors shall have the authority to inspect catch, nets and other fishing gear as well as harvesting and scientific research activities, and shall have access to records and reports of catch and location data insofar as necessary to carry out their functions.

(a) Each Inspector shall carry an identity document issued by the Designating Member in a form approved or provided by the Commission stating that the Inspector has been designated to carry out inspection in accordance with this system.

(b) On boarding a vessel, an Inspector shall present the document described in paragraph VI(a), above.

(c) The inspection shall be carried out so that the vessel is subject to the minimum interference and inconvenience. Inquiries shall be limited to the ascertainment of facts in relation to compliance with the Commission measures in effect for the Flag State concerned.

(d) Inspectors may take photographs and/or video footage as necessary to document any alleged violation of Commission measures in force.

(e) Inspectors shall affix an identification mark approved by the Commission to any net or other fishing gear which appears to have been used in contravention to Conservation Measures in effect and shall record this fact in the reports and notification referenced in paragraph VIII, below.

(f) Inspectors shall be provided appropriate assistance by the Master of the vessel in carrying out their duties, including access as necessary to communications equipment.

(g) Each Contracting Party, subject to and in accordance with their applicable laws and regulations, including rules governing the admissibility of evidence in domestic courts, shall consider and act on reports from Inspectors of Designating Members under this scheme on the same basis as reports from its own inspectors, and both Contracting Party and designating Member concerned shall cooperate in order to facilitate judicial or other proceedings arising from any such report.

VII. If a vessel refuses to stop or otherwise facilitate transfer of an Inspector, or if the Master or crew of a vessel interferes with the authorised activities of an Inspector, the Inspector involved shall prepare a detailed report, including a full description of all the circumstances and provide the report to the Designating Member to be transmitted in accordance with the relevant provisions of paragraph IX.

(a) Interference with an Inspector or failure to comply with reasonable requests made by an Inspector in the performance of his duties shall be treated by the Flag State as if the Inspector were an Inspector of that State.

(b) The Flag State shall report on actions taken under this paragraph in accordance with paragraph XI, below.

VIII. Inspectors shall complete the approved CCAMLR inspection report form.

(a) The Inspector shall provide a written explanation, on the inspection report form, of any alleged violation of Commission measures in force. The Inspector shall allow the Master of the vessel being inspected to comment, on the inspection report form, about any aspect of the inspection.

(b) The Inspector shall sign the inspection report form. The Master of the inspected vessel shall be invited to sign the inspection report form to acknowledge receipt of the report.

(c) Before leaving the vessel that has been inspected, the Inspector shall give the Master of that vessel a copy of the completed inspection form.

(d) The Inspector shall provide a copy of the completed inspection form along with photographs and video footage to the Designating Member not later than 15 days of his/her arrival to port.

(e) The Designating Member shall forward a copy of the inspection form not later than 15-days from its reception along with two copies of photographs and video footage to the CCAMLR Executive Secretary who shall forward one copy of this material to the Flag State of the inspected vessel not later than seven days from receipt.

(f) Fifteen days after the transmission of the completed inspection form to the Flag State, the CCAMLR Executive Secretary shall transmit that form to Members together with comments or observations, if any, received from the Flag State.

IX. Any supplementary reports or information, or any report prepared in accordance with paragraph VII, shall be provided by the Designating Member to the CCAMLR Executive Secretary. The latter shall provide such reports or information to the Flag State, which shall be then afforded the opportunity to comment. The CCAMLR Executive Secretary shall transmit the reports or information to Members within 15 days following their receipt from the Designating Member, and the observations or comments, if any, received from the Flag State.

X. A fishing vessel present in the area of application of the Convention shall be presumed to have been engaged in scientific research, or harvesting, of marine living resources (or to have been commencing such operations) if one or more of the following four indicators have been reported by an inspector, and there is no information to the contrary:

(a) Fishing gear was in use, had recently been in use or was ready to be used, e.g.:

• Nets, lines or pots were in the water;

• Trawl nets and doors rigged;

• Baited hooks, baited pots or traps or thawed bait were ready for use;

• Log indicated recent fishing or fishing commencing;

(b) fish which occur in the Convention Area were being processed or had recently been processed, e.g.:

• Fresh fish or fish waste were on board;

• Fish were being frozen;

• From operational or product information;

(c) Fishing gear from the vessel was in the water, e.g.:

• Fishing gear bore the vessel's markings;

• Fishing gear matched that on the vessel;

• Log indicated gear in the water;

(d) Fish (or their products) which occur in the Convention Area were stowed on board.

XI. If, as a result of inspection activities carried out in accordance with these provisions, there is evidence of violation of measures adopted under the Convention, the Flag State shall take steps to prosecute and, if necessary, impose sanctions.

XII. The Flag State shall, within fourteen days of the laying of charges or the initiation of proceedings relating to a prosecution, inform the Secretariat of this information, and shall continue thereafter to inform the Secretariat as the prosecution develops or is concluded. In addition, the Flag State shall at least once a year report to the Commission, in writing, about the results of such prosecutions and sanctions imposed. If a prosecution has not been completed, a progress report shall be made. When a prosecution has not been launched, or has been unsuccessful, the report shall contain an explanation.

XIII. Sanctions applied by Flag States in respect to infringements of CCAMLR provisions shall be sufficiently severe as to effectively ensure compliance with CCAMLR Conservation Measures and to discourage infringements and shall seek to deprive offenders of any economic benefit accruing from their illegal activities.

XIV. The Flag State shall ensure that any of its vessels which have been found to have contravened a CCAMLR Conservation Measure do not carry out fishing operations within the Convention Area until they have complied with the sanctions imposed.

BILLING CODE 3510-22-P

BILLING CODE 3510-22-C

Text of the CCAMLR Scheme of International Scientific Observation ¹

¹ As adopted at CCAMLR-XI (paragraph 6.11) and amended at CCAMLR-XI (paragraph 8.21).

A. Each Member of the Commission may designate observers referred to in Article XXIV of the Convention.

(a) Activities of scientific observers on board vessels will be specified by the Commission. These activities are laid down in Annex I and may be modified taking into account advice from the Scientific Committee.

(b) Scientific observers shall be nationals of the Member who designates them and shall conduct themselves in accordance with the customs and order existing on the vessel on which they are operating.

(c) Members shall designate scientific observers who shall be familiar with the harvesting and scientific research activities to be observed, the provisions of the Convention and the measures adopted under it and who are adequately trained to carry out competently the duties of scientific observers as required by the Commission.

(d) Scientific observers shall be able to communicate in the language of the Flag State of the vessels on which they carry out their activities.

(e) Scientific observers shall each carry a document issued by the designating Member in a form approved by the Commission identifying them as CCAMLR scientific observers.

(f) Scientific Observers shall submit to the Commission through the designating Member, not later than one month after the completion of the observer cruise or after the return of the observer to his/her home country, a report of each observation assignment undertaken, using the observation formats approved by the Scientific Committee. A copy shall be sent to the Member whose vessel was involved.

B. In order to promote the objectives of the Convention, Members agree to take on board their vessels engaged in scientific research or harvesting of marine living resources designated scientific observers, who shall operate in accordance with bilateral arrangements concluded.

In such a bilateral arrangement, the Member wishing to place scientific observers on board a vessel of another Member shall be referred to as the ‘Designating Member’ whilst the Member who accepts on board its vessel shall be referred to as the ‘Receiving Member’.

Such a bilateral arrangement shall include the following principles:

(a) The scientific observers shall be given the status of ship's officers. Accommodation and meals for scientific observers on board shall be of a standard commensurate with this status.

(b) Receiving Members shall ensure that their vessel operators cooperate fully with the scientific observers to enable them to carry out the tasks assigned to them by the Commission. This will include access to data and to those operations of the vessel necessary to fulfil the duties of a scientific observer as required by the Commission.

(c) Receiving Members shall take appropriate action on board their vessels to ensure the security and welfare of scientific observers in the performance of their duties, provide them with medical care and safeguard their freedom and dignity.

(d) Arrangements shall be made for messages to be sent and received on behalf of scientific observers using the vessel's communications equipment and operator. Reasonable costs of such communications shall normally be borne by the Designating Member.

(e) Arrangements involving the transportation and boarding of scientific observers shall be organised so as to minimise interference with harvesting and research operations.

(f) Scientific observers shall provide to the relevant masters copies of such records, prepared by the scientific observers, as the masters may wish to retain.

(g) Designating Members shall ensure that their scientific observers carry insurance satisfactory to the Parties concerned.

(h) Transportation of scientific observers to and from boarding points shall be the responsibility of the Designating Member.

(i) Unless otherwise agreed the equipment, clothing and salary and any related allowances of a scientific observer shall normally be borne by the Designating Member. The vessel of the Receiving Member shall bear the cost of on board accommodation and meals of the scientific observer.

C. The Designating Members shall provide details of observation programs to the Commission at the earliest possible opportunity and no later than upon the conclusion of each bilateral arrangement. For each observer deployed, the following details shall be supplied:

(a) date of signing the arrangement;

(b) name and flag of the vessel receiving the observer;

(c) Member designating the observer;

(d) area of fishing (CCAMLR statistical area, subarea, division);

(e) type of data to be collected by the observer and submitted to the Secretariat (e.g. by-catch, target species, biological data);

(f) expected dates of the start and end of the observation program;

(g) expected date of returning the observer to his/her home country.

D. Members who have designated scientific observers will take the initiative in implementing assignments identified by the Commission.

E. The scope of functions and tasks described in Annex I should not be interpreted to suggest in any way the number of required observers which will be accepted on board a vessel.

Annex I

Functions and Tasks of International Scientific Observers on Board Vessels Engaged in Scientific Research or Harvesting of Marine Living Resources

1. The function of scientific observers on board vessels engaged in scientific research or harvesting of marine living resources is to observe and report on the operation of fishing activities in the Convention Area with the objectives and principles of the Convention for the Conservation of Antarctic Marine Living Resources in mind.

2. In fulfilling this function, scientific observers will undertake the following tasks, using the observation formats approved by the Scientific Committee:

(i) Record details of the vessel's operation (e.g. partition of time between searching, fishing, transit etc., and details of hauls);

(ii) Take samples of catches to determine biological characteristics;

(iii) Record biological data by species caught;

(iv) Record by-catches, their quantity and other biological data;

(v) Record entanglement and incidental mortality of birds and mammals;

(vi) Record the procedure by which declared catch weight is measured and collect data relating to the conversion factor between green weight and final product in the event that catch is recorded on the basis of weight of processed product;

(vii) Prepare reports of their observations using the observation formats approved by the Scientific Committee and submit them to CCAMLR through their respective authorities;

(viii) Submit copies of reports to captains of vessels;

(ix) Assist, if requested, the captain of the vessel in the catch recording and reporting procedures;

(x) Undertake other tasks as may be decided by mutual agreement of the parties involved;

(xi)¹ Collect and report factual data on sightings of fishing vessels in the Convention Area, including vessel type identification, position and activity;

(xii)² Collect information on fishing gear loss and garbage disposal by fishing vessels at sea.

¹ Added in accordance with CCAMLR-XVII (paragraph 8.16). The Commission decided to review the effectiveness and the need to continue this activity after a two-year trial period (CCAMLR-XVII, paragraph 8.17).

² Added in accordance with CCAMLR-XVIII (paragraph 8.21).

Dated: January 16, 2007.
Margaret F. Hayes,
Director, Office of Oceans Affairs, Department of State.

[FR Doc. 07-266 Filed 1-26-07; 8:45 am]

BILLING CODE 3510-22-P